DEPARTMENT OF HOUSING AND URBAN DEVELOPMENT

[Docket No. FR-4557-N-35]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, Room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following address: Air Force: Ms. Barbara Jenkins, Air Force Real Estate Agency (Area-MI), Bolling Air Force Base, 112 Luke Ave., Suite 104, Building 5683, Washington, DC 20332-8020; (202) 767-4184; COE: Ms. Shirley Middleswarth, Army Corps of Engineers, Management & Disposal Division, Pulaski Building, Room 4224, 20 Massachusetts Ave., NW, Washington, DC 20314-1000; (202) 671-0515; DOT: Mr Rugene Spruill, Space Management, SVC-140, Transportation Administrative Service Center, Department of Transportation, 400 7th Street, SW, Room 2310, Washington, DC, 20590; (202) 366-4246; GSA: Mr. Brian K. Polly, Assistant Commissioner, General Services Administration, Office of Property Disposal, 18th and F Streets, NW, Washington, DC 20405; (202) 501-0052; Energy: Mr. Tom Knox, Department of Energy, Office of Contract & Resource Management, MA-52, Washington, DC 20585; (202) 586-8715; Interior: Ms. Linda Tribby, Department of the Interior, 1849 C Street, NW, Mail Stop 5512-MIB, Washington, DC 20240; (202) 219-0728; Navy: Mr. Charles C. Cocks, Director, Department of the Navy, Real Estate Policy Division, Naval Facilities Engineering Command, Washington Navy Yard, 1322 Patterson Ave., SE, Suite 1000, Washington, DC 20374-5065; (202) 685-9200; VA: Mr. Anatolij Kushnir, Director, Asset & Enterprise Development Service, 181B, Department of Veterans Affairs, 811 Vermont Ave., NW, Room 419, Lafayette Bldg., Washington, DC 20420; (202) 565-5941; (These are not toll-free numbers).

Dated: August 24, 2000.
Fred Karnas, Jr.,
Deputy Assistant Secretary for Special Assistance Programs.

TITLE V, FEDERAL SURPLUS PROPERTY PROGRAM FEDERAL REGISTER REPORT FOR 9/1/00

Suitable/Available Properties

Buildings (by State)

California

Bldg. 604

Point Arena Air Force Station

Co: Mendocino CA 95468-5000

Landholding Agency: Air Force

Property Number: 18199010237

Status: Unutilized

Comment: 1232 sq. ft.; stucco-wood frame; most recent use—housing.

Bldg. 605

Point Arena Air Force Station

Co: Mendocino CA 95468-5000

Landholding Agency: Air Force

Property Number: 18199010238

Status: Unutilized

Comment: 1232 sq. ft.; stucco-wood frame; most recent use—housing.

Bldg. 612

Point Arena Air Force Station

Co: Mendocino CA 95468-5000

Landholding Agency: Air Force

Property Number: 18199010239

Status: Unutilized

Comment: 1232 sq. ft.; stucco-wood frame; most recent use—housing.

Bldg. 611

Point Arena Air Force Station

Co: Mendocino CA 95468-5000

Landholding Agency: Air Force

Property Number: 18199010240

Status: Unutilized

Comment: 1232 sq. ft.; stucco-wood frame; most recent use—housing.

Bldg. 613

Point Arena Air Force Station

Co: Mendocino CA 95468-5000

Landholding Agency: Air Force

Property Number: 18199010241

Status: Unutilized

Comment: 1232 sq. ft.; stucco-wood frame; most recent use—housing.

Bldg. 614

Point Arena Air Force Station

Co: Mendocino CA 95468-5000

Landholding Agency: Air Force

Property Number: 18199010242

Status: Unutilized

Comment: 1232 sq. ft.; stucco-wood frame; most recent use—housing.

Bldg. 615

Point Arena Air Force Station

Co: Mendocino CA 95468-5000

Landholding Agency: Air Force

Property Number: 18199010243

Status: Unutilized

Comment: 1232 sq. ft.; stucco-wood frame; most recent use—housing.

Bldg. 616

Point Arena Air Force Station

Co: Mendocino CA 95468-5000

Landholding Agency: Air Force

Property Number: 18199010244

Status: Unutilized

Comment: 1232 sq. ft.; stucco-wood frame; most recent use—housing.

Bldg. 617

Point Arena Air Force Station

Co: Mendocino CA 95468-5000

Landholding Agency: Air Force

Property Number: 18199010245

Status: Unutilized

Comment: 1232 sq. ft.; stucco-wood frame; most recent use—housing.

Bldg. 618

Point Arena Air Force Station

Co: Mendorino CA 95468-5000

Landholding Agency: Air Force

Property Number: 18199010246

Status: Unutilized

Comment: 1232 sq. ft.; stucco-wood frame; most recent use—housing; needs rehab.

Bldg. 4156

Tract 12-135

National Park Land

Yosemite Co: Mariposa CA 95389-

Landholding Agency: Interior

Property Number: 61200020001

Status: Unutilized

Comment: 499 sq. ft.; seasonal housing, off-site use only.

3 Bachelor Enlisted Quarters

U.S. Coast Guard Station

Humboldt Bay

Samoa CA 95564-9999

Landholding Agency: DOT

Property Number: 87199810001

Status: Unutilized

Comment: 2550 sq. ft. each, 2-story, wood, most recent use—residential, needs rehab, off-site use only.

Colorado

Bldg. 964

Former Lowry AFB

Denver Co: CO 80220-

Landholding Agency: Air Force

Property Number: 18199930016

Status: Unutilized

Comment: 14,495 sq. ft., local land use controls, most recent use—child care/kitchen facility.

Connecticut

Bldgs. 31, 78, 91

Naval Submarine Base

New London

Groton Co: New London CT 06349-

Landholding Agency: Navy

Property Number: 77200030055

Status: Unutilized

Comment: Total sq. ft. = 41,809, presence of asbestos, most recent use—storage/training/repair, off-site use only.

Bldg. 406

Naval Submarine Base

New London

Groton Co: New London CT 06349-

Landholding Agency: Navy

Property Number: 77200030056

Status: Unutilized

Comment: 13,546 sq. ft., needs rehab, presence of asbestos, most recent use—shop, off-site use only.

Idaho

Bldg. 516

Mountain Home Air Force Base

Mountain Home Co: Elmore ID 83648-

Landholding Agency: Air Force

Property Number: 18199520004

Status: Excess

Comment: 4928 sq. ft., 1 story wood frame, presence of lead paint and asbestos, most recent use—offices.

Bldg. 2201

Mountain Home Air Force Base

Mountain Home Co: Elmore ID 83648-

Landholding Agency: Air Force

Property Number: 18199520005

Status: Underutilized

Comment: 6804 sq. ft., 1 story wood frame, most recent use—temporary garage for base fire dept. vehicles, presence of lead paint and asbestos shingles.

Bldg. CF603

Idaho Natl Eng & Env Lab

Scoville Co: Butte ID 83415

Landholding Agency: Energy

Property Number: 41200020004

Status: Excess

Comment: 15,005 sq. ft. cinder block, presence of asbestos/lead paint, major rehab, off-site use only.

Bldg. 202

Palisades Dam

SV Hwy 26

Palisades Co: Bonneville ID 83428-

Landholding Agency: Interior

Property Number: 61200030003

Status: Unutilized

Comment: 1032 sq. ft., good condition, most recent use—residence, off-site use only.

Bldg. 204

Palisades Dam

SV Hwy 26

Palisades Co: Bonneville ID 83426-

Landholding Agency: Interior

Property Number: 61200030004

Status: Unutilized

Comment: 1032 sq. ft., good condition, most recent use—residence, off-site use only.

Bldg. 206

Palisades Dam

SV Hwy 26

Palisades Co: Bonneville ID 83428-

Landholding Agency: Interior

Property Number: 61200030005

Status: Unutilized

Comment: 1032 sq. ft., good condition, most recent use—residence, off-site use only.

Bldg. 215

Palisades Dam

SV Hwy 26

Palisades Co: Bonneville ID 83428-

Landholding Agency: Interior

Property Number: 61200030006

Status: Unutilized

Comment: 1032 sq. ft., good condition, most recent use—residence, off-site use only.

Bldg. 217

Palisades Dam

SV Hwy 26

Palisades Co: Bonneville ID 83428-

Landholding Agency: Interior

Property Number: 61200030007

Status: Unutilized

Comment: 1032 sq. ft., good condition, most recent use—residence, off-site use only.

Bldg. 219

Palisades Dam

SV Hwy 26

Palisades Co: Bonneville ID 83428-

Landholding Agency: Interior

Property Number: 61200030008

Status: Unutilized

Comment: 1032 sq. ft., good condition, most recent use—residence, off-site use only.

Indiana

Bldg. 105, VAMC

East 38th Street

Marion Co: Grant IN 46952-

Landholding Agency: VA

Property Number: 97199230006

Status: Excess

Comment: 310 sq. ft., 1 story stone structure, no sanitary or heating facilities, National Register of Historic Places.

Bldg. 140, VAMC

East 38th Street

Marion Co: Grant IN 46952-

Landholding Agency: VA

Property Number: 97199230007

Status: Excess

Comment: 60 sq. ft., concrete block bldg., most recent use—trash house.

Bldg. 7

VA Northern Indiana Health Care System

Marion Campus, 1700 East 38th Street

Marion Co: Grant IN 46953-

Landholding Agency: VA

Property Number: 97199810001

Status: Underutilized

Comment: 16,864 sq. ft., presence of asbestos, most recent use—psychiatric ward, National Register of Historic Places.

Bldg. 10

VA Northern Indiana Health Care System

Marion Campus, 1700 East 38th Street

Marion Co: Grant IN 46953-

Landholding Agency: VA

Property Number: 97199810002

Status: Underutilized

Comment: 16,361 sq. ft., presence of asbestos, most recent use—psychiatric ward, National Register of Historic Places.

Bldg. 11

VA Northern Indiana Health Care System

Marion Campus, 1700 East 38th Street

Marion Co: Grant IN 46953-

Landholding Agency: VA

Property Number: 97199810003

Status: Underutilized

Comment: 16,361 sq. ft., presence of asbestos, most recent use—psychiatric ward, National Register of Historic Places.

Bldg. 18

VA Northern Indiana Health Care System

Marion Campus, 1700 East 38th Street

Marion Co: Grant IN 46953-

Landholding Agency: VA

Property Number: 97199810004

Status: Underutilized

Comment: 13,802 sq. ft., presence of asbestos, most recent use—psychiatric ward, National Register of Historic Places.

Bldg. 25

VA Northern Indiana Health Care System

Marion Campus, 1700 East 38th Street

Marion Co: Grant IN 46953-

Landholding Agency: VA

Property Number: 97199810005

Status: Unutilized

Comment: 32,892 sq. ft., presence of asbestos, most recent use—psychiatric ward, National Register of Historic Places.

Kentucky

Green River Lock & Dam #3

Rochester Co: Butler KY 42273-

Location: SR 70 West from Morgantown, KY., approximately 7 miles to site

Landholding Agency: COE

Property Number: 31199010022

Status: Unutilized

Comment: 980 sq. ft., 2 story wood frame; two story residence; potential utilities; needs major rehab.

Kentucky River Lock and Dam 3

Pleasureville Co: Henry KY 40057-

Location: SR 421 North from Frankfort, KY. to highway 561, right on 561 approximately 3 miles to site

Landholding Agency: COE

Property Number: 31199010060

Status: Unutilized

Comment: 897 sq. ft.; 2 story wood frame; structural deficiencies.

Bldg. 1

Kentucky River Lock and Dam

Carrolton Co: Carroll KY 41008-

Location: Take I-71 to Carrolton, KY exit, go east on SR #227 to Highway 320, then left for about 1.5 miles to site

Landholding Agency: COE

Property Number: 31199011628

Status: Unutilized

Comment: 1530 sq. ft.; 2 story wood frame house; subject to periodic flooding; needs rehab.

Bldg. 2

Kentucky River Lock and Dam

Carrolton Co: Carroll KY 41008-

Location: Take I-71 to Carrolton, KY exit, go east on SR #227 to Highway 320, then left for about 1.5 miles to site

Landholding Agency: COE

Property Number: 31199011629

Status: Unutilized

Comment: 1530 sq. ft.; 2 story wood frame house; subject to periodic flooding; needs rehab.

Utility Bldg, Nolin River Lake

Moutardier Recreation Site

Co: Edmonson KY

Landholding Agency: COE

Property Number: 31199320002

Status: Unutilized

Comment: 541 sq. ft., concrete block, off-site use only.

Maryland

Former Orndorff Property

NPS Tract #401-61

Smithsburg Co: Washington MD 21740-

Landholding Agency: Interior

Property Number: 61200010001

Status: Excess

Comment: 1100 sq. ft. frame residence, off-site use only.

Massachusetts

Bldg. 001

Air Natl Guard Station

50 Skyline Drive

Worcester Co: MA 01605-2898

Landholding Agency: Air Force

Property Number: 18199940001

Status: Excess

Comment: 37,557 sq. ft., most recent use—shops/vehicle maintenance.

Bldg. 002

Air Natl Guard Station

50 Skyline Drive

Worcester Co: MA 01605-2898

Landholding Agency: Air Force

Property Number: 18199940002

Status: Excess

Comment: 5,580 sq. ft., most recent use—office/shops.

Bldg. 003

Air Natl Guard Station

50 Skyline Drive

Worcester Co: MA 01605-2898

Landholding Agency: Air Force

Property Number: 18199940003

Status: Excess

Comment: 3,840 sq. ft., most recent use—warehouse.

Bldg. 004

Air Natl Guard Station

50 Skyline Drive

Worcester Co: MA 01605-2898

Landholding Agency: Air Force

Property Number: 18199940004

Status: Excess

Comment: 225 sq. ft., most recent use—shop.

Bldg. 005

Air Natl Guard Station

50 Skyline Drive

Worcester Co: MA 01605-2898

Landholding Agency: Air Force

Property Number: 18199940005

Status: Excess

Comment: 8000 sq. ft., most recent use—warehouse.

Crowell Shed

Tract 41-8673

Chatham Co: Barnstable MA 02633-

Landholding Agency: Interior

Property Number: 61199940001

Status: Unutilized

Comment: 120 sq. ft. storage shed, access via 4-wheel drive only over sand trail, off-site use only.

Katz, Tract 17-2724

10 Old King's Highway

Truro Co: Barnstable MA 02666-

Landholding Agency: Interior

Property Number: 61199940002

Status: Unutilized

Comment: 878 sq. ft., cement block, most recent use—residential, off-site use only.

Carnelia, Tract 17-2725

12 Old King's Highway

Truro Co: Barnstable MA 02666-

Landholding Agency: Interior

Property Number: 61199940003

Status: Unutilized

Comment: 1391 sq. ft., concrete block, most recent use—residential, off-site use only.

Simons, Tract 17-2787

6 Head of Pamet Way

Truro Co: Barnstable MA 02666-

Landholding Agency: Interior

Property Number: 61199940004

Status: Unutilized

Comment: 1600 sq. ft., most recent use—residential, off-site use only.

Moss, Tract 17-2788

425 Ocean View Drive

Truro Co: Barnstable MA 02666-

Landholding Agency: Interior

Property Number: 61199940005

Status: Unutilized

Comment: 2496 sq. ft., residence plus 2 outbuildings, off-site use only.

Barracks 38, 39

Off Old Dew Line Road

Truro Co: Barnstable MA 02666-

Landholding Agency: Interior

Property Number: 61199940006

Status: Unutilized

Comment: 5710 sq. ft., 2-story, presence of asbestos, off-site use only.

Gips, Tract 21-4837

188 Way #626

Wellfleet Co: Barnstable MA 02667-

Landholding Agency: Interior

Property Number: 61199940007

Status: Unutilized

Comment: 2015 sq. ft., concrete block, most recent use—residential, off-site use only.

Weidlinger 19-4136

Valley Road

Wellfleet Co: Barnstable MA 02667-

Landholding Agency: Interior

Property Number: 61199940008

Status: Unutilized

Comment: 1855 sq. ft., most recent use—residential, off-site use only.

Minnesota

Project Office

Mississippi Hdqts Lakes Proj.

Remer Co: Cass MN 56672-

Landholding Agency: COE

Property Number: 31200020007

Status: Unutilized

Comment: 780 sq. ft., needs rehab.

Storage 1

Mississippi Hdqts Lakes Proj.

Remer Co: Cass MN 56672-

Landholding Agency: COE

Property Number: 31200020008

Status: Unutilized

Comment: 2240 sq. ft., needs rehab.

Storage 2

Mississippi Hdqts Lakes Proj.

Remer Co: Cass MN 56672-

Landholding Agency: COE

Property Number: 31200020009

Status: Unutilized

Comment: 180 sq. ft., needs rehab.

Mississippi

Quarters 183

Natchez Trace Parkway

Kosciusko Co: Attala MS 39090-

Landholding Agency: Interior

Property Number: 61199910004

Status: Excess

Comment: 1121 sq. ft., presence of asbestos, most recent use—residential, off-site use only.

Quarters 190

Natchez Trace Parkway

Port Gibson Co: Claiborne MS 39150-

Landholding Agency: Interior

Property Number: 61199910005

Status: Excess

Comment: 1121 sq. ft., presence of asbestos, most recent use—residential off-site use only.

Quarters 194

Natchez Trace Parkway

Ackerman Co: Choctaw MS 39725-

Landholding Agency: Interior

Property Number: 61199910006

Status: Excess

Comment: 1121 sq. ft., presence of asbestos, most recent use—residential off-site use only.

Quarters 258

Natchez Trace Parkway

Carlisle Co: Claiborne MS 39049-

Landholding Agency: Interior

Property Number: 61199910007

Status: Excess

Comment: 1121 sq. ft., presence of asbestos, most recent use—residential off-site use only.

Quarters 193

Jeff Busby Park

Rt. 3

Ackerman Co: Choctaw MS 39725-

Landholding Agency: Interior

Property Number: 61200020015

Status: Unutilized

Comment: 1121 sq. ft., presence of asbestos, most recent use—residence, off-site use only.

Nebraska

Bldg. 20

Offutt Communications Annex 4

Silver Creek Co: Nance NE 68663-

Landholding Agency: Air Force

Property Number: 18199610004

Status: Unutilized

Comment: 4714 sq. ft., most recent use—dormitory needs major repair.

New Mexico

Bldgs. 847, 6600

Kirtland AFB

Albuquerque Co: Bernalilo NM 87185-

Landholding Agency: Energy

Property Number: 41200020021

Status: Excess

Comment: 4053 sq. ft. & 1501 sq. ft., needs rehab, presence of asbestos, off-site use only.

Roberts, Thomas A

#70, County Rd. 2900

Aztec Co: San Juan NM 87410-

Landholding Agency: Interior

Property Number: 61199910017

Status: Excess

Comment: 2895 sq. ft., most recent use—residential, off-site use only.

New York

Bldg. 1452 & 297 acres

AVA Test Annex

Town of Ava Co: Oneida NY 13303-

Landholding Agency: Air Force

Property Number: 18199920030

Status: Unutilized

Comment: 11,000 sq. ft. on 297 acres (67 acres of wetland), most recent use—electronic research testing, presence of asbestos/lead paint.

Bldg. 1453

AVA Test Annex

Town of Ava Co: Oneida NY 13303-

Landholding Agency: Air Force

Property Number: 18199920031

Status: Unutilized

Comment: 266 sq. ft., most recent use—generator bldg., presence of asbestos.

Bldg. 1454

AVA Test Annex

Town of Ava Co: Oneida NY 13303-

Landholding Agency: Air Force

Property Number: 18199920032

Status: Unutilized

Comment: 53 sq. ft.; most recent use—switch station, presence of asbestos.

Former RPH Property

Tract 273-01

E. Fishkill Town Co: Dutchess NY 10701-

Landholding Agency: Interior

Property Number: 61200020002

Status: Unutilized

Comment: garage, 748 sq. ft./concrete block, off-site use only.

North Dakota

Office Bldg.

Lake Oahe Project

3rd & Main

Ft. Yates Co: Sioux ND 58538-

Landholding Agency: COE

Property Number: 31200020001

Status: Unutilized

Comment: 1200 sq. ft.; 2-story wood, off-site use only.

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only.

Dwelling No. 2

Delaware lake, Highway 23 North

Delaware OH 43015-

Landholding Agency: COE

Property Number: 31199810005

Status: Excess

Comment: 2-story brick w/basement, most recent use—residential, presence of asbestos/lead paint, off-site use only.

Oklahoma

Water Treatment Plant

Belle Starr, Eufaula Lake

Eufaula Co: McIntosh OK 74432-

Landholding Agency: COE

Property Number: 31199630001

Status: Excess

Comment: 16′x16′ metal, off-site use only.

Water Treatment Plant

Gentry Creek, Eufaula Lake

Eufaula Co: McIntosh OK 74432-

Landholding Agency: COE

Property Number: 31199630002

Status: Excess

Comment: 12′x16′ metal, off-site use only.

Pennsylvania

Mahoning Creek Reservoir

New Bethlehem Co: Armstrong PA 16242-

Landholding Agency: COE

Property Number: 31199210008

Status: Unutilized

Comment: 1015 sq. ft., 2 story brick residence, off-site use only.

Dwelling

Lock & Dam 6, Allegheny

River, 1260 River Rd.

Freeport Co: Armstrong PA 16229-2023

Landholding Agency: COE

Property Number: 31199620008

Status: Unutilized

Comment: 2652 sq. ft., 3-story brick house, in close proximity to Lock and Dam, available for interim use for nonresidential purposes.

Govt. Dwelling

Youghiogheny River Lake

Confluence Co: Fayette PA 15424-9103

Landholding Agency: COE

Property Number: 31199640002

Status: Unutilized

Comment: 1421 sq. ft., 2-story brick w/basement, most recent use—residential.

Dwelling

Lock & Dam 4, Allegheny River

Natrona Co: Allegheny PA 15065-2609

Landholding Agency: COE

Property Number: 31199710009

Status: Unutilized

Comment: 1664 sq. ft., 2-story brick residence, needs repair, off-site use only.

Dwelling #1

Crooked Creek Lake

Ford City Co: Armstrong PA 16226-8815

Landholding Agency: COE

Property Number: 31199740002

Status: Excess

Comment: 2030 sq. ft., most recent use—residential, good condition, off-site use only.

Dwelling #2

Crooked Creek Lake

Ford City Co: Armstrong PA 16226-8815

Landholding Agency: COE

Property Number: 31199740003

Status: Excess

Comment: 3045 sq. ft., most recent use—residential, good condition, off-site use only.

Dwelling #3

Crooked Creek Lake

Ford City Co: Armstrong PA 16226-8815

Landholding Agency: COE

Property Number: 31199740004

Status: Excess

Comment: 1847 sq. ft., most recent use—office, good condition, off-site use only.

Govt Dwelling

East Branch Lake

Wilcox Co: Elk PA 15870-9709

Landholding Agency: COE

Property Number: 31199740005

Status: Underutilized

Comment: approx. 5299 sq. ft., 1-story, most recent use—residential, off-site use only.

Dwelling #1

Loyalhanna Lake

Saltsburg Co: Westmoreland PA 15681-9302

Landholding Agency: COE

Property Number: 31199740006

Status: Excess

Comment: 1996 sq. ft., most recent use—residential, good condition, off-site use only.

Dwelling #2

Loyalhanna Lake

Saltsburg Co: Westmoreland PA 15681-9302

Landholding Agency: COE

Property Number: 31199740007

Status: Excess

Comment: 1996 sq. ft., most recent use—residential, good condition, off-site use only.

Dwelling #1

Woodcock Creek Lake

Saegertown Co: Crawford PA 16433-0629

Landholding Agency: COE

Property Number: 31199740008

Status: Excess

Comment: 2601 sq. ft., most recent use—residential, good condition, off-site use only.

Dwelling #2

Lock & Dam 6, 1260 River Road

Freeport Co: Armstrong PA 16229-2023

Landholding Agency: COE

Property Number: 31199740009

Status: Excess

Comment: 2652 sq. ft., most recent use—residential, good condition, off-site use only.

Dwelling #2

Youghiogheny River Lake

Confluence Co: Fayette PA 15424-9103

Landholding Agency: COE

Property Number: 31199830003

Status: Excess

Comment: 1421 sq. ft., 2-story + basement, most recent use—residential.

Residence/Office

Cowanesque Lake Project

Lawrenceville Co: Tioga PA 16929-

Landholding Agency: COE

Property Number: 31199940002

Status: Unutilized

Comment: 1653 sq. ft. residence, and 2,640 sq. ft. storage bldg., need major repairs, no operating sanitary facilities.

(F) Romig Property

Tract 367-10, Kuhn Road

Boiling Springs Co: Cumberland PA 17007-

Landholding Agency: Interior

Property Number: 61200020014

Status: Unutilized

Comment: 665 sq. ft., most recent use—residence, off-site use only.

Bldg. 25—VA Medical Center

Delafield Road

Pittsburgh Co: Allegheny PA 15215-

Landholding Agency: VA

Property Number: 97199210001

Status: Unutilized

Comment: 133 sq. ft., one story brick guard house, needs rehab.

Bldg. 3, VAMC

1700 South Lincoln Avenue

Lebanon Co: Lebanon PA 17042-

Landholding Agency: VA

Property Number: 97199230012

Status: Underutilized

Comment: portion of bldg. (3850 and 4360 sq. ft.), most recent use—storage, second floor—lacks elevator access.

South Dakota

West Communications Annex

Ellsworth Air Force Base

Ellsworth AFB Co: Mead SD 57706-

Landholding Agency: Air Force

Property Number: 18199340051

Status: Unutilized

Comment: 2 bldgs. on 2.37 acres, remove area, lacks infrastructure, road hazardous during winter storms, most recent use—industrial storage.

Virginia

Metal Bldg.

John H. Kerr Dam & Reservoir

Co: Boydton VA

Landholding Agency: COE

Property Number: 31199620009

Status: Excess

Comment: 800 sq. ft., most recent use—storage, off-site use only.

Former Keith Residence

Flank March Lane

Spotsylvania Co: VA 22553-

Landholding Agency: Interior

Property Number: 61200010002

Status: Excess

Comment: 1232 sq. ft. frame residence, off-site use only.

Former Blunk Residence

Wilderness Drive

Spotsylvania Co: VA 22553-

Landholding Agency: Interior

Property Number: 61200010003

Status: Excess

Comment: 1215 sq. ft. residence, off-site use only.

Former Brygider Residence

Plank Road

Spotsylvania Co: VA 22553-

Landholding Agency: Interior

Property Number: 61200010004

Status: Excess

Comment: 4320 sq. ft. residence, off-site use only.

Former Houston Residence

Sabre Court

Spotsylvania Co: VA 22553-

Landholding Agency: Interior

Property Number: 61200010005

Status: Excess

Comment: 1050 sq. ft. residence, off-site use only.

Former Chason Residence

Wilderness Park Drive

Spotsylvania Co: VA 22553-

Landholding Agency: Interior

Property Number: 61200010006

Status: Unutilized

Comment: 1750 sq. ft. residence, off-site use only.

Former Bowen Residence

Cavalry Court

Spotsylvania Co: VA 22553-

Landholding Agency: Interior

Property Number: 61200010007

Status: Excess

Comment: 1512 sq. ft. residence, off-site use only.

Former Jones Residence

Plantation Drive

Spotsylvania Co: VA 22553-

Landholding Agency: Interior

Property Number: 61200010008

Status: Excess

Comment: 1040 sq. ft. residence, off-site use only.

Former Busic House

Brock Rd.

Spotsylvania Co: VA 22553-

Landholding Agency: Interior

Property Number: 61200010009

Status: Excess

Comment: 4128 sq. ft. residence, off-site use only.

Washington

Bldg. 923

Yakima Training Center

Ellensburg Co: Kittitas WA 98926-

Landholding Agency: COE

Property Number: 31200010004

Status: Unutilized

Comment: 2296 sq. ft. w/basement, poor condition, most recent use—residential, off-site use only.

West Virginia

Dwelling 1

Summersville Lake

Summersville Co: Nicholas WV 26651-9802

Landholding Agency: COE

Property Number: 31199810003

Status: Excess

Comment: 1200 sq. ft., presence of asbestos/lead paint, most recent use—residential, off-site use only.

Dwelling 2

Sutton Lake

Sutton Co: Braxton WV 26651-9802

Landholding Agency: COE

Property Number: 31199810004

Status: Excess

Comment: 1100 sq. ft., most recent use—residential, off-site use only.

Old Post Office

Maple & King Streets

Martinsburg Co: Berkeley WV 25401-

Landholding Agency: GSA

Property Number: 54200030004

Status: Excess

Comment: 22,845 sq. ft., presence of asbestos/lead paint, most recent use—office/storage, included on the National Register of Historic Places.

GSA Number: 4-G-WV-537

Wisconsin

Former Lockmaster's Dwelling

Cedar Locks

4527 East Wisconsin Road

Appleton Co: Outagamie WI 54911-

Landholding Agency: COE

Property Number: 31199011524

Status: Unutilized

Comment: 1224 sq. ft.; 2 story brick/wood frame residence; needs rehab; secured area with alternate access.

Former Lockmaster's Dwelling

Appleton 4th Lock

905 South Lowe Street

Appleton Co: Outagamie WI 54911-

Landholding Agency: COE

Property Number: 31199011525

Status: Unutilized

Comment: 908 sq. ft.; 2 story wood frame residence; needs rehab.

Former Lockmaster's Dwelling

Kaukauna 1st Lock

301 Canal Street

Kaukauna Co: Outagamie WI 54131-

Landholding Agency: COE

Property Number: 31199011527

Status: Unutilized

Comment: 1290 sq. ft.; 2 story wood frame residence; needs rehab; secured area with alternate access.

Former Lockmaster's Dwelling

Appleton 1st Lock

905 South Oneida Street

Appleton Co: Outagamie WI 54911-

Landholding Agency: COE

Property Number: 31199011531

Status: Unutilized

Comment: 1300 sq. ft.; potential utilities; 2 story wood frame residence; needs rehab; secured area with alternate access.

Former Lockmaster's Dwelling

Rapid Croche Lock

Lock Road

Wrightstown Co: Outagamie WI 54180-

Location: 3 miles southwest of intersection State Highway 96 and Canal Road

Landholding Agency: COE

Property Number: 31199011533

Status: Unutilized

Comment: 1952 sq. ft.; 2 story wood frame residence; potential utilities; needs rehab.

Former Lockmaster's Dwelling

Little KauKauna Lock

Little KauKauna

Lawrence Co: Brown WI 54130-

Location: 2 miles southeasterly from intersection of Lost Dauphin Road (County Trunk Highway “D”) and River Street.

Landholding Agency: COE

Property Number: 31199011535

Status: Unutilized

Comment: 1224 sq. ft.; 2 story brick/wood frame residence; needs rehab.

Former Lockmaster's Dwelling

Little Chute, 2nd Lock

214 Mill Street

Little Chute Co: Outagamie WI 54140-

Landholding Agency: COE

Property Number: 31199011536

Status: Unutilized

Comment: 1224 sq. ft.; 2 story brick/wood frame residence; potential utilities; needs rehab; secured area with alternate access.

Bldg. 8

VA Medical Center

County Highway E

Tomah Co: Monroe WI 54660-

Landholding Agency: VA

Property Number: 97199010056

Status: Underutilized

Comment: 2200 sq. ft., 2 story wood frame, possible asbestos, potential utilities, structural deficiencies, needs rehab.

Land (by State)

Alabama

VA Medical Center

VAMC

Tuskegee Co: Macon AL 36083-

Landholding Agency: VA

Property Number: 97199010053

Status: Underutilized

Comment: 40 acres, buffer to VA Medical Center, potential utilities, undeveloped.

Arkansas

Parcel 01

DeGray Lake

Section 12

Arkadelphia Co: Clark AR 71923-9361

Landholding Agency: COE

Property Number: 31199010071

Status: Unutilized

Comment: 77.6 acres.

Parcel 02

DeGray Lake

Section 13

Arkadelphia Co: Clark AR 71923-9361

Landholding Agency: COE

Property Number: 31199010072

Status: Unutilized

Comment: 198.5 acres.

Parcel 03

DeGray Lake

Section 18

Arkadelphia Co: Clark AR 71923-9361

Landholding Agency: COE

Property Number: 31199010073

Status: Unutilized

Comment: 50.46 acres.

Parcel 04

DeGray Lake

Section 24, 25, 30 and 31

Arkadelphia Co: Clark AR 71923-9361

Landholding Agency: COE

Property Number: 31199010074

Status: Unutilized

Comment: 236.37 acres.

Parcel 05

DeGray Lake

Section 16

Arkadelphia Co: Clark AR 71923-9361

Landholding Agency: COE

Property Number: 31199010075

Status: Unutilized

Comment: 187.30 acres.

Parcel 06

DeGray Lake

Section 13

Arkadelphia Co: Clark AR 71923-9361

Landholding Agency: COE

Property Number: 31199010076

Status: Unutilized

Comment: 13.0 acres.

Parcel 07

DeGray Lake

Section 34

Arkadelphia Co: Hot Spring AR 71923-9361

Landholding Agency: COE

Property Number: 31199010077

Status: Unutilized

Comment: 0.27 acres.

Parcel 08

DeGray Lake

Section 13

Arkadelphia Co: Clark AR 71923-9361

Landholding Agency: COE

Property Number: 31199010078

Status: Unutilized

Comment: 14.6 acres.

Parcel 09

DeGray Lake

Section 12

Arkadelphia Co: Clark AR 71923-9361

Landholding Agency: COE

Property Number: 31199010079

Status: Unutilized

Comment: 6.6 acres.

Parcel 10

DeGray Lake

Section 12

Arkadelphia Co: Hot Spring AR 71923-9361

Landholding Agency: COE

Property Number: 31199010080

Status: Unutilized

Comment: 4.5 acres.

Parcel 11

DeGray Lake

Section 19

Arkadelphia Co: Hot Spring AR 71923-9361

Landholding Agency: COE

Property Number: 31199010081

Status: Unutilized

Comment: 19.50 acres.

Lake Greeson

Section 7, 8 and 18

Murfreesboro Co: Pike AR 71958-9720

Landholding Agency: COE

Property Number: 31199010083

Status: Unutilized

Comment: 46 acres.

California

Land

4150 Clement Street

San Francisco CO: San Francisco CA 94121-

Landholding Agency: VA

Property Number: 97199240001

Status: Underutilized

Comment: 4 acres; landslide area.

Iowa

40.66 acres

VA Medical Center

1515 West Pleasant St.

Knoxville Co: Marion IA 50138-

Landholding Agency: VA

Property Number: 97199740002

Status: Unutilized

Comment: golf course, easement requirements.

Kansas

Parcel 1

El Dorado Lake

Section 13, 24, and 18

(See County) Co: Butler KS

Landholding Agency: COE

Property Number: 31199010064

Status: Unutilized

Comment: 61 acres; most recent use—recreation.

Kentucky

Tract 2625

Barkley Lake, Kentucky, and Tennessee

Cadiz Co: Trigg KY 42211-

Location: Adjoining the village of Rockcastle

Landholding Agency: COE

Property Number: 31199010025

Status: Excess

Comment: 2.57 acres; rolling and wooded.

Tract 2709-10 and 2710-2

Barkley Lake, Kentucky and Tennessee

Cadiz Co: Trigg KY 42211-

Location: 2½ miles in a southerly direction from the village of Rockcastle

Landholding Agency: COE

Property Number: 31199010026

Status: Excess

Comment: 2.00 acres; steep and wooded.

Tract 2708-1 and 2709-1

Barkley Lake, Kentucky and Tennessee

Cadiz Co: Trigg KY 42211-

Location: 2½ miles in a southerly direction from the village of Rockcastle

Landholding Agency: COE

Property Number: 31199010027

Status: Excess

Comment: 3.59 acres; rolling and wooded; no utilities.

Tract 2800

Barkley Lake, Kentucky and Tennessee

Cadiz Co: Trigg KY 42211-

Location: 4½ miles in a southeasterly direction from the village of Rockcastle

Landholding Agency: COE

Property Number: 31199010028

Status: Excess

Comment: 5.44 acres; steep and wooded.

Tract 2915

Barkley Lake, Kentucky and Tennessee

Cadiz Co: Trigg KY 42211-

Location: 6½ miles west of Cadiz

Landholding Agency: COE

Property Number: 31199010029

Status: Excess

Comment: 5.76 acres; steep and wooded; no utilities.

Tract 2702

Barkley Lake, Kentucky and Tennessee

Cadiz Co: Trigg KY 42211-

Location: 1 mile in a southerly direction from the village of Rockcastle

Landholding Agency: COE

Property Number: 31199010031

Status: Excess

Comment: 4.90 acres; wooded; no utilities

Tract 4318

Barkley Lake, Kentucky and Tennessee

Canton Co: Trigg KY 42212-

Location: Trigg Co. adjoining the city of Canton, KY on the waters of Hospon Creek

Landholding Agency: COE

Property Number: 31199010032

Status: Excess

Comment: 8.24 acres; steep and wooded.

Tract 4502

Barkley Lake, Kentucky and Tennessee

Canton Co: Trigg KY 42212-

Location: 3½ miles in a southerly direction from Canton, KY

Landholding Agency: COE

Property Number: 31199010033

Status: Excess

Comment: 4.26 acres; steep and wooded.

Tract 4611

Barkley Lake, Kentucky and Tennessee

Canton Co: Trigg KY 42212-

Location: 5 miles south of Canton, KY

Landholding Agency: COE

Property Number: 31199010034

Status: Excess

Comment: 10.51 acres; steep and wooded; no utilities.

Tract 4619

Barkley Lake, Kentucky and Tennessee

Canton Co: Trigg KY 42212-

Location: 4½ miles south from Canton, KY

Landholding Agency: COE

Property Number: 31199010035

Status: Excess

Comment: 2.02 acres; steep and wooded; no utilities.

Tract 4817

Barkley Lake, Kentucky and Tennessee

Canton Co: Trigg KY 42212-

Location: 6½ miles south of Canton, KY

Landholding Agency: COE

Property Number: 31199010036

Status: Excess

Comment: 1.75 acres; wooded.

Tract 1217

Barkley Lake, Kentucky and Tennessee

Eddyville Co: Lyon KY 42030-

Location: On the north side of the Illinois Central Railroad

Landholding Agency: COE

Property Number: 31199010042

Status: Excess

Comment: 5.80 acres; steep and wooded.

Tract 1906

Barkley Lake, Kentucky and Tennessee

Eddyville Co: Lyon KY 42030-

Location: Approximately 4 miles east of Eddyville, KY

Landholding Agency: COE

Property Number: 31199010044

Status: Excess

Comment: 25.86 acres; rolling steep and partially wooded; no utilities.

Tract 1907

Barkley Lake, Kentucky and Tennessee

Eddyville Co: Lyon KY 42038-

Location: On the waters of Pilfen Creek, 4 miles east of Eddyville, KY

Landholding Agency: COE

Property Number: 31199010045

Status: Excess

Comment: 8.71 acres; rolling steep and wooded; no utilities

Tract 2001 #1

Barkley Lake, Kentucky and Tennessee

Eddyville Co: Lyon KY 42030-

Location: Approximately 4½ miles east of Eddyville, KY

Landholding Agency: COE

Property Number: 31199010046

Status: Excess

Comment: 47.42 acres; steep and wooded; no utilities.

Tract 2001 #2

Barkley Lake, Kentucky and Tennessee

Eddyville Co: Lyon KY 42030-

Location: Approximately 4½ miles east of Eddyville, KY

Landholding Agency: COE

Property Number: 31199010047

Status: Excess

Comment: 8.64 acres; steep and wooded; no utilities.

Tract 2005

Barkley Lake, Kentucky and Tennessee

Eddyville Co: Lyon KY 42030-

Location: Approximately 5½ miles east of Eddyville, KY

Landholding Agency: COE

Property Number: 31199010048

Status: Excess

Comment: 4.62 acres; steep and wooded; no utilities.

Tract 2307

Barkley Lake, Kentucky and Tennessee

Eddyville Co: Lyon KY 42030-

Location: Approximately 7½ miles southeasterly of Eddyville, KY

Landholding Agency: COE

Property Number: 31199010049

Status: Excess

Comment: 11.43 acres; steep; rolling and wooded; no utilities.

Tract 2403

Barkley Lake, Kentucky and Tennessee

Eddyville Co: Lyon KY 42030-

Location: 7 miles southeasterly of Eddyville, KY

Landholding Agency: COE

Property Number: 31199010050

Status: Excess

Comment: 1.56 acres; steep and wooded; no utilities.

Tract 2504

Barkley Lake, Kentucky and Tennessee

Eddyville Co: Lyon KY 42030-

Location: 9 miles southeasterly of Eddyville, KY

Landholding Agency: COE

Property Number: 31199010051

Status: Excess

Comment: 24.46 acres; steep and wooded; no utilities.

Tract 214

Barkley Lake, Kentucky and Tennessee

Grand Rivers Co: Lyon KY 42045-

Location: South of the Illinois Central Railroad, 1 mile east of the Cumberland River

Landholding Agency: COE

Property Number: 31199010052

Status: Excess

Comment: 5.5 acres; wooded; no utilities.

Tract 215

Barkley Lake, Kentucky and Tennessee

Grand Rivers Co: Lyon KY 42045-

Location: 5 miles southwest of Kuttawa

Landholding Agency: COE

Property Number: 31199010053

Status: Excess

Comment: 1.40 acres; wooded; no utilities.

Tract 241

Barkley Lake, Kentucky and Tennessee

Grand Rivers Co: Lyon KY 42045-

Location: Old Henson Ferry Road, 6 miles west of Kuttawa, KY

Landholding Agency: COE

Property Number: 31199010054

Status: Excess

Comment: 1.26 acres; steep and wooded; no utilities.

Tracts 306, 311, 315 and 325

Barkley Lake, Kentucky and Tennessee

Grand Rivers Co: Lyon KY 42045-

Location: 2.5 miles southwest of Kuttawa, KY. on the waters of Cypress Creek

Landholding Agency: COE

Property Number: 31199010055

Status: Excess

Comment: 38.77 acres; steep and wooded; no utilities.

Tracts 2305, 2306, and 2400-1

Barkley Lake, Kentucky and Tennessee

Eddyville Co: Lyon KY 42030-

Location: 6½ miles southeasterly of Eddyville, KY

Landholding Agency: COE

Property Number: 31199010056

Status: Excess

Comment: 97.66 acres; steep rolling and wooded; no utilities.

Tracts 5203 and 5204

Barkley Lake, Kentucky and Tennessee

Linton Co: Trigg KY 42212-

Location: Village of Linton, KY state highway 1254

Landholding Agency: COE

Property Number: 31199010058

Status: Excess

Comment: 0.93 acres; rolling, partially wooded; no utilities.

Tract 5240

Barkley Lake, Kentucky and Tennessee

Linton Co: Trigg KY 42212-

Location: 1 mile northwest of Linton, KY

Landholding Agency: COE

Property Number: 31199010059

Status: Excess

Comment: 2.26 acres; steep and wooded; no utilities.

Tract 4628

Barkley Lake, Kentucky and Tennessee

Canton Co: Trigg KY 42212-

Location: 4½ miles south from Canton, KY

Landholding Agency: COE

Property Number: 31199011621

Status: Excess

Comment: 3.71 acres; steep and wooded; subject to utility easements.

Tract 4619-B

Barkley Lake, Kentucky and Tennessee

Canton Co: Trigg KY 42212-

Location: 4½ miles south from Canton, KY

Landholding Agency: COE

Property Number: 31199011622

Status: Excess

Comment: 1.73 acres; steep and wooded; subject to utility easements.

Tract 2403-B

Barkley Lake, Kentucky and Tennessee

Eddyville Co: Lyon KY 42038-

Location: 7 miles southeasterly from Eddyville, KY

Landholding Agency: COE

Property Number: 31199011623

Status: Unutilized

Comment: 0.70 acres, wooded; subject to utility easements.

Tract 241-B

Barkley Lake, Kentucky and Tennessee

Grand Rivers Co: Lyon KY 42045-

Location: South of Old Henson Ferry Road, 6 miles west of Kuttawa, KY

Landholding Agency: COE

Property Number: 31199011624

Status: Excess

Comment: 11.16 acres; steep and wooded; subject to utility easements.

Tracts 212 and 237

Barkley Lake, Kentucky and Tennessee

Grand Rivers Co: Lyon KY 42045-

Location: Old Henson Ferry Road, 6 miles west of Kuttawa, KY

Landholding Agency: COE

Property Number: 31199011625

Status: Excess

Comment: 2.44 acres; steep and wooded; subject to utility easements.

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements.

Tract 233

Barkley Lake, Kentucky and Tennessee

Grand Rivers Co: Lyon KY 42045-

Location: 5 miles southwest of Kuttawa

Landholding Agency: COE

Property Number: 31199011627

Status: Excess

Comment: 1.00 acres; wooded; subject to utility easements.

Tract B—Markland Locks & Dam

Hwy 42, 3.5 miles downstream of Warsaw

Warsaw Co: Gallatin KY 41095-

Landholding Agency: COE

Property Number: 31199130002

Status: Unutilized

Comment: 10 acres, most recent use—recreational, possible periodic flooding.

Tract A—Markland Locks & Dam

Hwy 42, 3.5 miles downstream of Warsaw

Warsaw Co: Gallatin KY 41095-

Landholding Agency: COE

Property Number: 31199130003

Status: Unutilized

Comment: 8 acres, most recent use—recreational, possible periodic flooding.

Tract C—Markland Locks & Dam

Hwy 42, 3.5 miles downstream of Warsaw

Warsaw Co: Gallatin KY 41095-

Landholding Agency: COE

Property Number: 31199130005

Status: Unutilized

Comment: 4 acres, most recent use—recreational, possible periodic flooding.

Tract N-819

Dale Hollow Lake & Dam Project

Illwill Creek, Hwy 90

Hobart Co: Clinton KY 42601-

Landholding Agency: COE

Property Number: 31199140009

Status: Underutilized

Comment: 91 acres, most recent use—hunting, subject to existing easements.

Portion of Lock & Dam No. 1

Kentucky River

Carrolton Co: Carroll KY 41008-0305

Landholding Agency: COE

Property Number: 31199320003

Status: Unutilized

Comment: approx. 3.5 acres (sloping), access monitored.

Portion of Lock & Dam No. 2

Kentucky River

Lockport Co: Henry KY 40036-9999

Landholding Agency: COE

Property Number: 31199320004

Status: Underutilized

Comment: approx. 13.14 acres (sloping), access monitored.

Louisiana

Wallace Lake Dam and Reservoir

Shreveport Co: Caddo LA 71103-

Landholding Agency: COE

Property Number: 31199011009

Status: Unutilized

Comment: 10.81 acres; wildlife/forestry; no utilities.

Bayou Bodcau Dam and Reservoir

Haughton Co: Caddo LA 71037-9707

Location: 35 miles Northeast of Shreveport, LA

Landholding Agency: COE

Property Number: 31199011010

Status: Unutilized

Comment: 203 acres; wildlife/forestry; no utilities.

Maine

Irish Ridge NEXRAD Site

Loring AFB

Fort Fairfield Co: Aroostook ME 04742-

Landholding Agency: Air Force

Property Number: 18199640017

Status: Unutilized

Comment: 3.491 acres in fee simple.

Maryland

VA Medical Center

9500 North Point Road

Fort Howard Co: Baltimore MD 21052-

Landholding Agency: VA

Property Number: 97199010020

Status: Underutilized

Comment: approx. 10 acres, wetland and periodically floods, most recent use—dump site for leaves.

Massachusetts

.07 acre

Westover Air Reserve Base

Off Rte 33

Chicopee Co: Hampden MA 01022-

Landholding Agency: Air Force

Property Number: 18199840007

Status: Excess

Comment: land, no utilities.

Minnesota

Parcel D

Pine River

Cross Lake Co: Crow Wing MN 56442-

Location: 3 miles from city of Cross Lake, between highways 6 and 371

Landholding Agency: COE

Property Number: 31199011038

Status: Excess

Comment: 17 acres; no utilities.

Tract 92

Sandy Lake

McGregor Co: Aitkins MN 55760-

Location: 4 miles west of highway 65, 15 miles from city of McGregor

Landholding Agency: COE

Property Number: 31199011040

Status: Excess

Comment: 4 acres; no utilities.

Tract 98

Leech Lake

Benedict Co: Hubbard MN 56641-

Location: 1 mile from city of Federal Dam, MN

Landholding Agency: COE

Property Number: 31199011041

Status: Excess

Comment: 7.3 acres; no utilities.

Land, 2.2 acres

Mississippi Hdqts. Lakes Proj.

Remer Co: Cass MN 56672-

Landholding Agency: COE

Property Number: 31200020010

Status: Unutilized

Comment: 2.2 acres; easements.

Mississippi

Parcel 7

Grenada Lake

Sections 22, 23, T24N

Grenada Co: Yalobusha MS 38901-0903

Landholding Agency: COE

Property Number: 31199011019

Status: Underutilized

Comment: 100 acres; no utilities; intermittently used under lease—expires 1994.

Parcel 8

Grenada Lake

Section 20, T24N

Grenada Co: Yalobusha MS 38901-0903

Landholding Agency: COE

Property Number: 31199011020

Status: Underutilized

Comment: 30 acres; no utilities; intermittently used under lease—expires 1994.

Parcel 9

Grenada Lake

Sections 20, T24N, R7E

Grenada Co: Yalobusha MS 38901-0903

Landholding Agency: COE

Property Number: 31199011021

Status: Underutilized

Comment: 23 acres; no utilities; intermittently used under lease—expires 1994.

Parcel 10

Grenada Lake

Sections 16, 17, 18, T24N, R8E

Grenada Co: Calhoun MS 38901-0903

Landholding Agency: COE

Property Number: 31199011022

Status: Underutilized

Comment: 490 acres; no utilities; intermittently used under lease—expires 1994.

Parcel 2

Grenada Lake

Section 20 and T23N, R5E

Grenada Co: Grenada MS 38901-0903

Landholding Agency: COE

Property Number: 31199011023

Status: Underutilized

Comment: 60 acres; no utilities; most recent use—wildlife and forestry management.

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease).

Parcel 4

Grenada Lake

Section 2 and 3. T23N, R5E

Grenada Co: Yalobusha MS 38901-0903

Landholding Agency: COE

Property Number: 31199011025

Status: Underutilized

Comment: 60 acres; no utilities; most recent use—wildlife and forestry management.

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease).

Parcel 6

Grenada Lake

Section 9, T24N, R6E

Grenada Co: Yalobusha MS 38903-0903

Landholding Agency: COE

Property Number: 31199011027

Status: Underutilized

Comment: 80 acres; no utilities; most recent use—wildlife and forestry management.

Parcel 11

Grenada Lake

Section 20, T24N, R8E

Grenada Co: Calhoun MS 38901-0903

Landholding Agency: COE

Property Number: 31199011028

Status: Underutilized

Comment: 30 acres; no utilities; most recent use—wildlife and forestry management.

Parcel 12

Grenada Lake

Section 25, T24N, R7E

Grenada Co: Yalobusha MS 38901-0903

Landholding Agency: COE

Property Number: 31199011029

Status: Underutilized

Comment: 30 acres; no utilities; most recent use—wildlife and forestry management.

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease).

Parcel 14

Grenada Lake

Section 3, T23N, R6E

Grenada Co: Yalobusha MS 38901-0903

Landholding Agency: COE

Property Number: 31199011031

Status: Underutilized

Comment: 15 acres; no utilities; most recent use—wildlife and forestry management.

Parcel 15

Grenada Lake

Section 4, T24N, R6E

Grenada Co: Yalobusha MS 38901-0903

Landholding Agency: COE

Property Number: 31199011032

Status: Underutilized

Comment: 40 acres; no utilities; most recent use—wildlife and forestry management.

Parcel 16

Grenada Lake

Section 9, T23N, R6E

Grenada Co: Yalobusha MS 38901-0903

Landholding Agency: COE

Property Number: 31199011033

Status: Underutilized

Comment: 70 acres; no utilities; most recent use—wildlife and forestry management.

Parcel 17

Grenada Lake

Section 17, T23N, R7E

Grenada Co: Grenada MS 28901-0903

Landholding Agency: COE

Property Number: 31199011034

Status: Underutilized

Comment: 35 acres; no utilities; most recent use—wildlife and forestry management.

Parcel 18

Grenada Lake

Section 22, T23N, R7E

Grenada Co: Grenada MS 28902-0903

Landholding Agency: COE

Property Number: 31199011035

Status: Underutilized

Comment: 10 acres; no utilities; most recent use—wildlife and forestry management.

Parcel 19

Grenada Lake

Section 9, T22N, R7E

Grenada Co: Grenada MS 38901-0903

Landholding Agency: COE

Property Number: 31199011036

Status: Underutilized

Comment: 20 acres; no utilities; most recent use—wildlife and forestry management.

Missouri

Harry S. Truman Dam & Reservoir

Warsaw Co: Benton MO 65355-

Location: Triangular shaped parcel southwest of access road “B”, part of Bledsoe Ferry Park Tract 150

Landholding Agency: COE

Property Number: 31199030014

Status: Underutilized

Comment: 1.7 acres; potential utilities.

Nebraska

Hastings Radar Bomb Scoring

Hastings Co: Adams NE 68901-

Landholding Agency: Air Force

Property Number: 18199810027

Status: Unutilized

Comment: 11 acres.

0.22 acres

Offutt AFB

Sarpy Co: NE 68113-

Landholding Agency: Air Force

Property Number: 18200020009

Status: Unutilized

Comment: small.

Ohio

Communications Site

Trebein Road

Beavercreek Co: Greene OH 00000-

Landholding Agency: Air Force

Property Number: 18200010008

Status: Excess

Comment: 92 acres.

Communications Site

Central Ohio, Lot #1

Randor Co: Delaware OH 00000-

Landholding Agency: Air Force

Property Number: 18200010009

Status: Excess

Comment: 11.73 acres.

Oklahoma

Pine Creek Lake

Section 27

(See County) Co: McCurtain OK

Landholding Agency: COE

Property Number: 31199010923

Status: Unutilized

Comment: 3 acres; no utilities; subject to right of way for Oklahoma State Highway 3.

Pennsylvania

Mahoning Creek Lake

New Bethlehem Co: Armstrong PA 16242-9603

Location: Route 28 north to Belknap, Road #4

Landholding Agency: COE

Property Number: 31199010018

Status: Excess

Comment: 2.58 acres; steep and densely wooded.

Tracts 610, 611, 612

Shenango River Lake

Sharpsville Co: Mercer PA 16150-

Location: I-79 North, I-80 West, Exit Sharon. R18 North 4 miles, left on R518, right on Mercer Avenue

Landholding Agency: COE

Property Number: 31199011001

Status: Excess

Comment: 24.09 acres; subject to flowage easement.

Tracts L24, L26

Crooked Creek Lake

Co: Armstrong PA 03051-

Location: Left bank—55 miles downstream of dam

Landholding Agency: COE

Property Number: 31199011011

Status: Unutilized

Comment: 7.59 acres; potential for utilities.

Portion of Tract L-21A

Crooked Creek Lake, LR 03051

Ford City Co: Armstrong PA 16226-

Landholding Agency: COE

Property Number: 31199430012

Status: Unutilized

Comment: Approximately 1.72 acres of undeveloped land, subject to gas rights.

Portion of Tract 119

State Rt 969

Curwensville Co: Clearfield PA 16833-

Landholding Agency: COE

Property Number: 31200010005

Status: Unutilized

Comment: approx. 17 acres, hilly wooded terrain.

Tennessee

Tract 6827

Barkley Lake

Dover Co: Stewart TN 37058-

Location: 2½ miles west of Dover, TN

Landholding Agency: COE

Property Number: 31199010927

Status: Excess

Comment: .57 acres; subject to existing easements.

Tracts 6002-2 and 6010

Barkley Lake

Dover Co: Stewart TN 37058-

Location: 3½ miles south of village of Tabaccoport.

Landholding Agency: COE

Property Number: 31199010928

Status: Excess

Comment: 100.86 acres; subject to existing easements.

Tract 11516

Barkley Lake

Ashland City Co: Dickson TN 37015-

Location: ½ mile downstream from Cheatham Dam

Landholding Agency: COE

Property Number: 31199010929

Status: Excess

Comment: 26.25 acres; subject to existing easements.

Tract 2319

J. Percy Priest Dam and Reservoir

Murfreesboro Co: Rutherford TN 37130-

Location: West of Buckeye Bottom Road

Landholding Agency: COE

Property Number: 31199010930

Status: Excess

Comment: 14.48 acres; subject to existing easements.

Tract 2227

J. Percy Priest Dam and Reservoir

Murfreesboro Co: Rutherford TN 37130-

Location: Old Jefferson Pike

Landholding Agency: COE

Property Number: 31199010931

Status: Excess

Comment: 2.27 acres; subject to existing easements.

Tract 2107

J. Percy Priest Dam and Reservoir

Murfreesboro Co: Rutherford TN 37130-

Location: Across Fall Creek near Fall Creek camping area

Landholding Agency: COE

Property Number: 31199010932

Status: Excess

Comment: 14.85 acres; subject to existing easements.

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements.

Tract 1911

J. Percy Priest Dam and Reservoir

Murfreesboro Co: Rutherford TN 37130-

Location: East of Lamar Road

Landholding Agency: COE

Property Number: 31199010934

Status: Excess

Comment: 15.31 acres; subject to existing easements.

Tract 2321

J. Percy Priest Dam and Reservoir

Murfreesboro Co: Rutherford TN 37130-

Location: South of Old Jefferson Pike

Landholding Agency: COE

Property Number: 31199010935

Status: Excess

Comment: 12 acres; subject to existing easements.

Tract 7206

Barkley Lake

Dover Co: Stewart TN 37058-

Location: 2½ miles SE of Dover, TN

Landholding Agency: COE

Property Number: 31199010936

Status: Excess

Comment: 10.15 acres; subject to existing easements.

Tracts 8813, 8814

Barkley Lake

Cumberland Co: Stewart TN 37050-

Location: 1½ miles East of Cumberland City

Landholding Agency: COE

Property Number: 31199010937

Status: Excess

Comment: 96 acres; subject to existing easements.

Tract 8911

Barkley Lake

Cumberland City Co: Montgomery TN 37050-

Location: 4 miles east of Cumberland City

Landholding Agency: COE

Property Number: 31199010938

Status: Excess

Comment: 7.7 acres; subject to existing easements.

Tract 11503

Barkley Lake

Ashland City Co: Cheatham TN 37015-

Location: 2 miles downstream from Cheatham Dam

Landholding Agency: COE

Property Number: 31199010939

Status: Excess

Comment: 1.1 acres; subject to existing easements.

Tracts 11523, 11524

Barkley Lake

Ashland City Co: Cheatham TN 37015-

Location: 2½ miles downstream from Cheatham Dam

Landholding Agency: COE

Property Number: 31199010940

Status: Excess

Comment: 19.5 acres; subject to existing easements.

Tract 6410

Barkley Lake

Bumpus Mills Co: Stewart TN 37028-

Location: 4½ miles SW. of Bumpus Mills

Landholding Agency: COE

Property Number: 31199010941

Status: Excess

Comment: 17 acres; subject to existing easements.

Tract 9707

Barkley Lake

Palmyer Mills Co: Montgomery TN 37142-

Location: 3 miles NE of Palmyer, TN. Highway 149

Landholding Agency: COE

Property Number: 31199010943

Status: Excess

Comment: 6.6 acres; subject to existing easements.

Tract 6949

Barkley Lake

Dover Co: Stewart TN 37058-

Location: 1½ miles SE of Dover, TN

Landholding Agency: COE

Property Number: 31199010944

Status: Excess

Comment: 29.67 acres; subject to existing easements.

Tracts 6005 and 6017

Barkley Lake

Dover Co: Stewart TN 37058-

Location: 3 miles south of Village of Tobaccoport

Landholding Agency: COE

Property Number: 31199011173

Status: Excess

Comment: 5 acres; subject to existing easements.

Tracts K-1191, K-1135

Old Hickory Lock and Dam

Hartsville Co: Trousdale TN 37074-

Landholding Agency: COE

Property Number: 31199130007

Status: Underutilized

Comment: 92 acres (38 acres in floodway), most recent use—recreation.

Tract A-102

Dale Hollow Lake & Dam Project

Canoe Ridge, State Hwy 52

Celina Co: Clay TN 38551-

Landholding Agency: COE

Property Number: 31199140006

Status: Underutilized

Comment: 351 acres, most recent use—hunting, subject to existing easements.

Tract A-120

Dale Hollow Lake & Dam Project

Swann Ridge, State Hwy No. 53

Celina Co: Clay TN 38551-

Landholding Agency: COE

Property Number: 31199140007

Status: Underutilized

Comment: 883 acres, most recent use—hunting, subject to existing easements.

Tracts A-20, A-21

Dale Hollow Lake & Dam Project

Red Oak Ridge, State Hwy No. 53

Celina Co: Clay TN 38551-

Landholding Agency: COE

Property Number: 31199140008

Status: Underutilized

Comment: 821 acres, most recent use—recreation, subject to existing easements.

Tract D-185

Dale Hollow Lake & Dam Project

Ashburn Creek, Hwy No. 53

Livingston Co: Clay TN 38570-

Landholding Agency: COE

Property Number: 31199140010

Status: Underutilized

Comment: 883 acres, most recent use—hunting, subject to existing easements.

Texas

Land

Olin E. Teague Veterans Center

1901 South 1st Street

Temple Co: Bell TX 76504-

Landholding Agency: VA

Property Number: 97199010079

Status: Underutilized

Comment: 13 acres, portion formerly landfill, portion near flammable materials, railroad crosses property, potential utilities.

Wisconsin

VA Medical Center

County Highway E

Tomah Co: Monroe WI 54660-

Landholding Agency: VA

Property Number: 97199010054

Status: Underutilized

Comment: 12.4 acres, serves as buffer between center and private property, no utilities.

Suitable/Unavailable Properties

Buildings (by State)

Alaska

Bldgs. 001A&B

Spruce Cape Loran Station

Kodiak Co: Kodiak Is. Bor. AK 99615-

Landholding Agency: DOT

Property Number: 87199720001

Status: Excess

Comment: 12492 sq. ft. steel frame, most recent use—barracks and shops, needs extensive repairs, in Tsunami evacuation area.

California

Santa Fe Flood Control Basin

Irwindale Co: Los Angeles CA 91706-

Landholding Agency: COE

Property Number: 31199011298

Status: Unutilized

Comment: 1400 sq. ft.; 1 story stucco; needs rehab; termite damage; secured area with alternate access.

Colorado

Bldg. 9023

U.S. Air Force Academy

Colorado Springs Co: El Paso CO 80814-2400

Landholding Agency: Air Force

Property Number: 18199730010

Status: Underutilized

Comment: 4112 sq. ft., most recent use—preschool.

Bldg. 9027

U.S. Air Force Academy

Colorado Springs Co: El Paso CO 80814-2400

Landholding Agency: Air Force

Property Number: 18199730011

Status: Underutilized

Comment: 4112 sq. ft., most recent use—child care center.

Idaho

Bldg. 224

Mountain Home Air Force

Co: Elmore ID 83648-

Landholding Agency: Air Force

Property Number: 18199840008

Status: Unutilized

Comment: 1890 sq. ft., no plumbing facilities, possible asbestos/lead paint, most recent use—office.

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only.

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence.

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence.

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence.

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence.

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame.

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence.

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence.

Indiana

Bldg. 24, VAMC

East 38th Street

Marion Co: Grant IN 46952-

Landholding Agency: VA

Property Number: 97199230005

Status: Underutilized

Comment: 4135 sq, ft, 2-story wood structure, needs minor rehab, no sanitary or heating facilities, presence of asbestos, National Register of Historic Places.

Bldg. 122

VA Northern Indiana Health Care System

Marion Campus, 1700 East 38th Street

Marion Co: Grant IN 46953-

Landholding Agency: VA

Property Number: 97199810006

Status: Unutilized

Comment: 37,135 sq. ft., presence of asbestos, most recent use—former dietetics bldg., National Register of Historic Places.

Iowa

Bldg. 00627

Sioux Gateway Airport

Sioux City Co: Woodbury IA 51110-

Landholding Agency: Air Force

Property Number: 18199310001

Status: Unutilized

Comment: 1932 sq. ft., 1-story concrete block bldg., most recent use—storage, pigeon infested, contamination investigation in progress.

Bldg. 00669

Sioux Gateway Airport

Sioux City Co: Woodbury IA 51110-

Landholding Agency: Air Force

Property Number: 18199310002

Status: Unutilized

Comment: 1113 sq. ft., 1-story concrete block bldg., contamination clean-up in process.

Maine

Mount Desert Rock Light

U.S. Coast Guard

Southwest Harbor Co: Hancock ME 04679-

Landholding Agency: DOT

Property Number: 87199240023

Status: Unutilized

Comment: 1600 sq. ft., 2-story wood frame dwelling, needs rehab, limited utilities, limited access, property is subject to severe storms.

Little River Light

U.S. Coast Guard

Cutler Co: Washington ME

Landholding Agency: DOT

Property Number: 87199240026

Status: Unutilized

Comment: 1100 sq. ft., 2-story wood frame dwelling, well is contaminated, limited utilities.

Burnt Island Light

U.S. Coast Guard

Southport Co: Lincoln ME 04576-

Landholding Agency: DOT

Property Number: 87199240027

Status: Unutilized

Comment: 750 sq. ft., 2-story wood frame dwelling.

Maryland

Former Physioc Property

NPS Tract 402-29

Jugtown Co: Washington MD 21713-

Landholding Agency: Interior

Property Number: 61199820005

Status: Excess

Comment: 227 sq. ft. stone cabin, off-site use only.

Massachusetts

Ziegler House

National Park, Virginia Road

Lincoln Co: Middlesex MA 10773-

Landholding Agency: Interior

Property Number: 61199830001

Status: Unutilized

Comment: 1661 sq. ft., residential.

Keepers Dwelling

Cape Ann Light, Thachers Island

U.S. Coast Guard

Rockport Co: Essex MA 01966-

Landholding Agency: DOT

Property Number: 87199240024

Status: Unutilized

Comment: 1000 sq. ft., 2-story brick dwelling, large wave action with severe ocean storms.

Assistant Keepers Dwelling

Cape Ann Light, Thachers Island

U.S. Coast Guard

Rockport Co: Essex MA 01966-

Landholding Agency: DOT

Property Number: 87199240025

Status: Unutilized

Comment: 1100 sq. ft., 2-story wood frame dwelling, large wave action with severe ocean storms.

Plymouth Light

Plymouth Co: Plymouth MA

Landholding Agency: DOT

Property Number: 87199420003

Status: Unutilized

Comment: 250 sq. ft. tower, and 2096 sq. ft. dwelling, wood frame, most recent use—aid to navigation/housing.

Michigan

Bldg. 50

Calumet Air Force Station

Calumet Co: Keweenaw MI 49913-

Landholding Agency: Air Force

Property Number: 18199010790

Status: Excess

Comment: 6171 sq. ft.; 1 story; concrete block; potential utilities; possible asbestos; most recent use—Fire Department vehicle parking building.

Bldg. 14

Calumet Air Force Station

Calumet Co: Keweenaw MI 49913-

Landholding Agency: Air Force

Property Number: 18199010833

Status: Excess

Comment: 6751 sq. ft.; 1 floor concrete block; possible asbestos; most recent use—gymnasium.

Bldg. 16

Calumet Air Force Station

Calumet Co: Keweenaw MI 49913-

Landholding Agency: Air Force

Property Number: 18199010834

Status: Excess

Comment: 3000 sq. ft.; 1 floor concrete block; most recent use—commissary facility.

Bldg. 15

Calumet Air Force Station

Calumet Co: Keweenaw MI 49913-

Landholding Agency: Air Force

Property Number: 18199010864

Status: Excess

Comment: 538 sq. ft.; 1 floor; concrete/wood structure; potential utilities; most recent use—gymnasium facility.

Nebraska

Bldg. 64

Offutt AFB

Silver Creek Co: Nance NE 68113-

Landholding Agency: Air Force

Property Number: 18199720040

Status: Unutilized

Comment: 4000 sq. ft., most recent use—admin., needs major rehab, possible asbestos/lead base paint.

New Hampshire

Bldg. 127

New Boston Air Force Station

Amherst Co: Hillsborough NH 03031-1514

Landholding Agency: Air Force

Property Number: 18199320057

Status: Excess

Comment: 698 sq. ft., 1-story, concrete and metal frame, possible asbestos, access restrictions, most recent use—storage.

New Mexico

12 Bldgs.

Kirtland AFB

#862-867, 869, 870, 873-876

Kirtland AFB Co: Bernalillo NM 87117-5000

Landholding Agency: Air Force

Property Number: 18199940006

Status: Unutilized

Comment: 678 sq. ft., presence of lead, most recent use—residential, off-site use only.

Bldg. 871, 872

Kirtland AFB

Kirtland AFB Co: Bernalillo NM 87117-5000

Landholding Agency: Air Force

Property Number: 18199940007

Status: Unutilized

Comment: 1363 sq. ft., presence of lead, most recent use—residential, off-site use only.

Ohio

Bldg.—Berlin Lake

7400 Bedell Road

Berlin Center Co: Mahoning OH 44401-9797

Landholding Agency: COE

Property Number: 31199640001

Status: Unutilized

Comment: 1420 sq. ft., 2-story brick w/garage and basement, most recent use—residential, secured w/alternate access.

Pennsylvania

Tract 353

Grays Landing Lock & Dam Project

Greensboro Co: Greene PA 15338-

Landholding Agency: COE

Property Number: 31199430019

Status: Unutilized

Comment: 812 sq. ft., 2-story, log structure, needs repair, most recent use—residential, if used for habitation must be flood proofed or removed off-site.

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site.

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site.

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed.

Tract 434

Grays Landing Lock & Dam Project

Greensboro Co: Greene PA 15338-

Landholding Agency: COE

Property Number: 31199430024

Status: Unutilized

Comment: 1059 sq. ft., 2-story, wood frame, 2 apt. units, historic property, if used for habitation must be flood proofed or removed off-site.

Tract 224

Grays Landing Lock & Dam Project

Greensboro Co: Greene PA 15338-

Landholding Agency: COE

Property Number: 31199440001

Status: Unutilized

Comment: 1040 sq. ft., 2-story bldg., needs repair, historic struct., flowage easement, if habitation is desired property will be required to be flood proofed or removed off site.

Wisconsin

Former Lockmaster's Dwelling

DePere Lock

100 James Street

De Pere Co: Brown WI 54115-

Landholding Agency: COE

Property Number: 31199011526

Status: Unutilized

Comment: 1224 sq. ft.; 2 story brick/wood frame residence; needs rehab; secured area with alternate access.

Bldg. 2

VA Medical Center

5000 West National Ave.

Milwaukee WI 53295-

Landholding Agency: VA

Property Number: 97199830002

Status: Underutilized

Comment: 133,730 sq. ft., needs rehab, presence of asbestos/lead paint, most recent use—storage.

Land

Georgia

Land—St. Simons Boathouse

St. Simons Island Co: Glynn GA 31522-0577

Landholding Agency: DOT

Property Number: 87199540003

Status: Unutilized

Comment: .08 acres, most recent use—pier and dockage for Coast Guard boats.

Illinois

Lake Shelbyville

Shelbyville Co: Shelby & Moultrie Il 62565-9804

Landholding Agency: COE

Property Number: 31199240004

Status: Unutilized

Comment: 5 parcels of land equalling 0.70 acres, improved w/4 small equipment storage bldgs. and a small access road, easement restrictions.

Iowa

38 acres

VA Medical Center

1515 West Pleasant St.

Knoxville Co: Marion IA 50138-

Landholding Agency: VA

Property Number: 97199740001

Status: Unutilized

Comment: golf course.

Kentucky

Portion of Tract 3300

Fishtrap Lake

Co: Pike Ky 41548-

Landholding Agency: COE

Property Number: 31199830002

Status: Excess

Comment: 0.40 acre encroachment, steep hill.

Michigan

VA Medical Center

5500 Armstrong Road

Battle Creek Co: Calhoun MI 49016-

Landholding Agency: VA

Property Number: 97199010015

Status: Underutilized

Comment: 20 acres, used as exercise trails and storage areas, potential utilities.

Nebraska

Land/Offutt Comm. Annex No. 4

Silver Creek Co: Nance NE 68663-

Landholding Agency: Air Force

Property Number: 18199720041

Status: Unutilized

Comment: 354 acres, most recent use—radio transmitter site, wetlands, isolated area.

New York

VA Medical Center

Fort Hill Avenue

Canandaigua Co: Ontario NY 14424-

Landholding Agency: VA

Property Number: 97199010017

Status: Underutilized

Comment: 27.5 acres, used for school ballfield and parking, existing utilities easements, portion leased.

Pennsylvania

East Branch Clarion River Lake

Wilcox Co: Elk PA

Location: Free camping area on the right bank off entrance roadway

Landholding Agnecy: COE

Property Number: 31199011012

Status: Underutilized

Comment: 1 acre; most recent use—free campground.

Dashields Locks and Dam

(Glenwillard, PA)

Crescent Twp. Co: Allegheny PA 15046-0475

Landholding Agency: COE

Property Number: 31199210009

Status: Unutilized

Comment: 0.58 acres, most recent use—baseball field.

VA Medical Center

New Castle Road

Butler Co: Butler PA 16001-

Landholding Agency: VA

Property Number: 97199010016

Status: Underutilized

Comment: Approx. 9.29 acres, used for patient recreation, potential utilities.

Land No. 645

VA Medical Center

Highland Drive

Pittsburgh Co: Allegheny PA 15206-

Location: Between Campania and Wiltsie Streets

Landholding Agency: VA

Property Number: 97199010080

Status: Unutilized

Comment: 90.3 acres, heavily wooded, property includes dump area and numerous site storm drain outfalls.

Land—34.16 acres

VA Medical Center

1400 Black Horse Hill Road

Coatesville Co: Chester PA 19320-

Landholding Agency: VA

Property Number: 97199340001

Status: Underutilized

Comment: 34.16 acres, open field, most recent use—recreation/buffer.

Tennessee

44 acres

VA Medical Center

3400 Lebanon Rd.

Murfreesboro Co: Rutherford TN 37129-

Landholding Agency: VA

Property Number: 97199740003

Status: Underutilized

Comment: intermittent use, partially landlocked, flooding.

Texas

Parcel #222

Lake Texoma

Co: Grayson TX

Location: C. Meyerheim survey A-829 J. Hamilton survey A-529

Landholding Agency: COE

Property Number: 31199010421

Status: Excess

Comment: 52.80 acres; most recent use—recreation.

Suitable/To Be Excessed

Buildings (by State)

Massachusetts

Cuttyhunk Boathouse

South Shore of Cuttyhunk Pond

Gosnold Co: Dukes MA 02713-

Landholding Agency: DOT

Property Number: 87199310001

Status: Unutilized

Comment: 2700 sq. ft., wood frame, one story, needs rehab, limited utilities, off-site use only.

Nauset Beach Light

Nauset Beach Co: Barnstable MA

Landholding Agency: DOT

Property Number: 87199420001

Status: Unutilized

Comment: 48 foot tower, cylindrical cast iron, most recent use—aid to navigation.

Light Tower, Highland Light

Near Rt. 6, 9 miles south of Race Point

North Truro Co: Barnstable MA 02652-

Landholding Agency: DOT

Property Number: 87199430005

Status: Excess

Comment: 66 ft. tower, 14′9″ diameter, brick structure, scheduled to be vacated 9/94.

Keepers Dwelling

Highland Light

Near Rt. 6, 9 miles south of Race Point

North Truro Co: Barnstable MA 02652-

Landholding Agency: DOT

Property Number: 87199430006

Status: Excess

Comment: 1160 sq. ft., 2-story wood frame, attached to light tower, scheduled to be vacated 9/94.

Duplex Housing Unit

Highland Light

Near Rt. 6, 9 miles south of Race Point

North Truro Co: Barnstable MA 02652-

Landholding Agency: DOT

Property Number: 87199430007

Status: Excess

Comment: 2 living units, 930 sq. ft. each, 1-story each, located on eroding ocean bluff, scheduled to be vacated 9/24.

Nahant Towers

Nahant Co: Essex MA

Landholding Agency: DOT

Property Number: 87199530001

Status: Unutilized

Comment: 196 sq. ft., 8-story observation tower.

New York

Bldg. 1

Hancock Field

Syracuse Co: Onandaga NY 13211-

Landholding Agency: Air Force

Property Number: 18199530048

Status: Excess

Comment: 4955 sq. ft., 2 story concrete block, needs rehab, most recent use—administration.

Bldg. 2

Hancock Field

Syracuse Co: Onandaga NY 13211-

Landholding Agency: Air Force

Property Number: 18199530049

Status: Excess

Comment: 1476 sq. ft., 1 story concrete block, needs rehab, most recent use—repair shop.

Bldg. 6

Hancock Field

Syracuse Co: Onandaga NY 13211-

Landholding Agency: Air Force

Property Number: 18199530050

Status: Excess

Comment: 2466 sq. ft., 1 story concrete block, needs rehab, most recent use—repair shop.

Bldg. 11

Hancock Field

Syracuse Co: Onandaga NY 13211-

Landholding Agency: Air Force

Property Number: 18199530051

Status: Excess

Comment: 1750 sq. ft., 1 story wood frame, needs rehab, most recent use—storage.

Bldg. 8

Hancock Field

Syracuse Co: Onandaga NY 13211-

Landholding Agency: Air Force

Property Number: 18199530052

Status: Excess

Comment: 1812 sq. ft., 1 story concrete block, needs rehab, most recent use—repair shop communications.

Bldg. 14

Hancock Field

Syracuse Co: Onandaga NY 13211-

Landholding Agency: Air Force

Property Number: 18199530053

Status: Excess

Comment: 156 sq. ft., 1 story wood frame, most recent use—vehicle fuel station.

Bldg. 30

Hancock Field

Syracuse Co: Onandaga NY 13211-

Landholding Agency: Air Force

Property Number: 18199530054

Status: Excess

Comment: 3649 sq. ft., 1 story, needs rehab, most recent use—assembly hall.

Bldg. 31

Hancock Field

Syracuse Co: Onandaga NY 13211-

Landholding Agency: Air Force

Property Number: 18199530055

Status: Excess

Comment: 8252 sq. ft., 1 story concrete block, most recent use—storage.

Bldg. 32

Hancock Field

Syracuse Co: Onandaga NY 13211-

Landholding Agency: Air Force

Property Number: 18199530056

Status: Excess

Comment: 1627 sq. ft., 1 story concrete block, most recent use—storage.

South Carolina

5 Bldgs.

Charleston AFB Annex Housing

N. Charleston SC 29404-4827

Location: 101 Vector Ave., 112, 114, 116, 118 Intercept Ave.

Landholding Agency: Air Force

Property Number: 18199830035

Status: Unutilized

Comment: 1433 sq. ft. + 345 sq. ft. carport, lead base paint/exterior most recent use—residential.

1 Bldg.

Charleston AFB Annex Housing

N. Charleston SC 29404-4827

Location: 102 Vector Ave.

Landholding Agency: Air Force

Property Number: 18199830036

Status: Unutilized

Comment: 1545 sq. ft. + 345 sq. ft. carport, lead base paint/exterior most recent use—residential.

1 Bldg.

Charleston AFB Annex Housing

N. Charleston SC 29404-4827

Location: 103 Vector Ave.

Landholding Agency: Air Force

Property Number: 18199830037

Status: Unutilized

Comment: 1445 sq. ft. + 346 sq. ft. carport, lead base paint/exterior most recent use—residential.

18 Bldg.

Charleston AFB Annex Housing

N. Charleston SC 29404-4827

Location: 104-107 Vector Ave., 108-111, 113, 115, 117, 119 Intercept Ave., 120-122 Radar Ave.

Landholding Agency: Air Force

Property Number: 18199830038

Status: Unutilized

Comment: 1265 sq. ft. + 353 sq. ft. carport, lead base paint/exterior most recent use—residential.

Land (by State)

Alaska

Gibson Cove Tract

Kodiak Co: AK 99619-

Landholding Agency: DOT

Property Number: 87199920001

Status: Unutilized

Comment: 37.55 acres, undeveloped land.

Georgia

Lake Sidney Lanier

Co: Forsyth GA 30130-

Location: Located on Two Mile Creek adj. to State Route 369

Landholding Agency: COE

Property Number: 31199440010

Status: Unutilized

Comment: 0.25 acres, endangered plant species.

Lake Sidney Lanier—3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species.

Indiana

Brookville Lake—Land

Liberty Co: Union IN 47353-

Landholding Agency: COE

Property Number: 31199440009

Status: Unutilized

Comment: 6.91 acres, limited utilities.

Kansas

Parcel #1

Fall River Lake

Section 26

Co: Greenwood KS

Landholding Agency: COE

Property Number: 31199010065

Status: Unutilized

Comment: 126.69 acres; most recent use—recreation and leased cottage sites.

Parcel No. 2, El Dorado Lake

Approx. 1 mi east of the town of El Dorado

Co: Butler KS

Landholding Agency: COE

Property Number: 31199210005

Status: Unutilized

Comment: 11 acres, part of a relocated railroad bed, rural area.

Massachusetts

Buffumville Dam

Flood Control Project

Gale Road

Carlton Co: Worcester MA 01540-0155

Location: Portion of tracts B-200, B-248, B-251, B-204, B-247, B-200 and B-256

Landholding Agency: COE

Property Number: 31199010016

Status: Excess

Comment: 1.45 acres.

Minnesota

Tract #3

Lac Qui Parle Flood Control Project

County Rd. 13

Watson Co: Lac Qui Parle MN 56295-

Landholding Agency: COE

Property Number: 31199340006

Status: Unutilized

Comment: approximately 2.9 acres, fallow land.

Tract #34

Lac Qui Parle Flood Control Project

Marsh Lake

Watson Co: Lac Qui Parle MN 56295-

Landholding Agency: COE

Property Number: 31199340007

Status: Unutilized

Comment: approx. 8 acres, fallow land.

New York

14.90 Acres

Hancock Field

Syracuse Co: Onandaga NY 13211-

Landholding Agency: Air Force

Property Number: 18199530057

Status: Excess

Comment: Fenced in compound, most recent use—Air Natl. Guard Communication & Electronics Group.

Tennessee

Tract D-456

Cheatham Lock and Dam

Ashland Co: Cheatham TN 37015-

Location: Right downstream bank of Sycamore Creek.

Landholding Agency: COE

Property Number: 31199010942

Status: Excess

Comment: 8.93 acres; subject to existing easements.

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land.

Alabama

Dwelling A

USCG Mobile Pt. Station

Ft. Morgan

Gulfshores Co: Baldwin AL 36542-

Landholding Agency: DOT

Property Number: 87199120001

Status: Excess

Reason: Floodway.

Dwelling B

USCG Mobile Pt. Station

Ft. Morgan

Gulfshores Co: Baldwin AL 36542-

Landholding Agency: DOT

Property Number: 87199120002

Status: Excess

Reason: Floodway.

Oil House

USCG Mobile Pt. Station

Ft. Morgan

Gulfshores Co: Baldwin AL 36542-

Landholding Agency: DOT

Property Number: 87199120003

Status: Excess

Reason: Floodway.

Garage

USCG Mobile Pt. Station

Ft. Morgan

Gulfshores Co: Baldwin AL 36542-

Landholding Agency: DOT

Property Number: 87199120004

Status: Excess

Reason: Floodway.

Shop Building

USCG Mobile Pt. Station

Ft. Morgan

Gulfshores Co: Baldwin AL 36542-

Landholding Agency: DOT

Property Number: 87199120005

Status: Excess

Reason: Floodway.

Bldg. 7

VA Medical Center

Tuskegee Co: Macon AL 36083-

Landholding Agency: VA

Property Number: 97199730001

Status: Underutilized

Reason: Secured Area.

Bldg. 8

VA Medical Center

Tuskegee Co: Macon AL 36083-

Landholding Agency: VA

Property Number: 97199730002

Status: Underutilized

Reason: Secured Area.

Alaska

Bldg. 203

Tin City Air Force Station

21 CSG/DEER

Elmendorf AFB Co: Anchorage AK 99506-5000

Landholding Agency: Air Force

Property Number: 18199010296

Status: Unutilized

Reasons: Isolated area; Not accessible by road; Contamination; Secured Area.

Bldg. 165

Sparrevohn Air Force Station

21 CSG/DEER

Elmendorf AFB Co: Anchorage AK 99506-5000

Landholding Agency: Air Force

Property Number: 18199010298

Status: Unutilized

Reasons: Isolated area; Not accessible by road; Contamination; Secured Area.

Bldg. 150

Sparrevohn Air Force Station

21 CSG/DEER

Elmendorf AFB Co: Anchorage AK 99506-5000

Landholding Agency: Air Force

Property Number: 18199010299

Status: Unutilized

Reasons: Isolated area; Not accessible by road; Contamination; Secured Area.

Bldg. 130

Sparrevohn Air Force Station

21 CSG/DEER

Elmendorf AFB Co: Anchorage AK 99506-5000

Landholding Agency: Air Force

Property Number: 18199010300

Status: Unutilized

Reasons: Isolated area; Not accessible by road; Contamination; Secured Area.

Bldg. 306

King Salmon Airport

21 CSG/DEER

Elmendorf AFB Co: Anchorage AK 99506-5000

Landholding Agency: Air Force

Property Number: 18199010301

Status: Unutilized

Reasons: Isolated area; Not accessible by road; Contamination; Secured Area.

Bldg. 11-230

Elmendorf Air Force Base

21 CSG/DEER

Elmendorf AFB Co: Anchorage AK 99506-5000

Landholding Agency: Air Force

Property Number: 18199010303

Status: Unutilized

Reasons: Contamination; Secured Area.

Bldg. 63-320

Elmendorf Air Force Base

21 CSG/DEER

Elmendorf AFB Co: Anchorage AK 99506-5000

Landholding Agency: Air Force

Property Number: 18199010307

Status: Unutilized

Reasons: Contamination; Secured Area.

Bldg. 103

Ft. Yukon Air Force Station

21 CSG/DEER

Elmendorf AFB Co: Anchorage AK 99506-5000

Landholding Agency: Air Force

Property Number: 18199010309

Status: Unutilized

Reasons: Isolated area; Not accessible by road; Contamination; Secured Area.

Bldg. 110

Ft. Yukon Air Force Station

21 CSG/DEER

Elmendorf AFB Co: Anchorage AK 99506-5000

Landholding Agency: Air Force

Property Number: 18199010310

Status: Unutilized

Reasons: Isolated area; Not accessible by road; Contamination; Secured Area.

Bldg. 112

Ft. Yukon Air Force Station

21 CSG/DEER

Elmendorf AFB Co: Anchorage AK 99506-5000

Landholding Agency: Air Force

Property Number: 18199010311

Status: Unutilized

Reasons: Isolated area; Not accessible by road; Contamination; Secured Area.

Bldg. 113

Ft. Yukon Air Force Station

21 CSG/DEER

Elmendorf AFB Co: Anchorage AK 99506-5000

Landholding Agency: Air Force

Property Number: 18199010312

Status: Unutilized

Reasons: Isolated area; Not accessible by road; Contamination; Secured Area.

Bldg. 114

Ft. Yukon Air Force Station

21 CSG/DEER

Elmendorf AFB Co: Anchorage AK 99506-5000

Landholding Agency: Air Force

Property Number: 18199010313

Status: Unutilized

Reasons: Isolated area; Not accessible by road; Contamination; Secured Area.

Bldg. 115

Ft. Yukon Air Force Station

21 CSG/DEER

Elmendorf AFB Co: Anchorage AK 99506-5000

Landholding Agency: Air Force

Property Number: 18199010314

Status: Unutilized

Reasons: Isolated area; Not accessible by road; Contamination; Secured Area.

Bldg. 118

Ft. Yukon Air Force Station

21 CSG/DEER

Elmendorf AFB Co: Anchorage AK 99506-5000

Landholding Agency: Air Force

Property Number: 18199010315

Status: Unutilized

Reasons: Isolated area; Not accessible by road; Contamination; Secured Area.

Bldg. 1018

Ft. Yukon Air Force Station

21 CSG/DEER

Elmendorf AFB Co: Anchorage AK 99506-5000

Landholding Agency: Air Force

Property Number: 18199010317

Status: Unutilized

Reasons: Isolated area; Not accessible by road; Contamination; Secured Area.

Bldg. 1025

Ft. Yukon Air Force Station

21 CSG/DEER

Elmendorf AFB Co: Anchorage AK 99506-5000

Landholding Agency: Air Force

Property Number: 18199010318

Status: Unutilized

Reasons: Isolated area; Not accessible by road; Contamination; Secured Area.

Bldg. 1055

Ft. Yukon Air Force Station

21 CSG/DEER

Elmendorf AFB Co: Anchorage AK 99506-5000

Landholding Agency: Air Force

Property Number: 18199010319

Status: Unutilized

Reasons: Isolated area; Not accessible by road; Contamination; Secured Area.

Bldg. 107

Cape Lisburne Air Force Station

21 CSG/DEER

Elmendorf AFB Co: Anchorage AK 99506-5000

Landholding Agency: Air Force

Property Number: 18199010320

Status: Unutilized

Reasons: Isolated area; Not accessible by road; Contamination; Secured Area.

Bldg. 115

Cape Lisburne Air Force Station

21 CSG/DEER

Elmendorf AFB Co: Anchorage AK 99506-5000

Landholding Agency: Air Force

Property Number: 18199010321

Status: Unutilized

Reasons: Isolated area; Not accessible by road; Contamination; Secured Area.

Bldg. 113

Cape Lisburne Air Force Station

21 CSG/DEER

Elmendorf AFB Co: Anchorage AK 99506-5000

Landholding Agency: Air Force

Property Number: 18199010322

Status: Unutilized

Reasons: Isolated area; Not accessible by road; Contamination; Secured Area.

Bldg. 150

Cape Lisburne Air Force Station

21 CSG/DEER

Elmendorf AFB Co: Anchorage AK 99506-5000

Landholding Agency: Air Force

Property Number: 18199010323

Status: Unutilized

Reasons: Isolated area; Not accessible by road; Contamination; Secured Area.

Bldg. 152

Cape Lisburne Air Force Station

21 CSG/DEER

Elmendorf AFB Co: Anchorage AK 99506-5000

Landholding Agency: Air Force

Property Number: 18199010324

Status: Unutilized

Reasons: Isolated area; Not accessible by road; Contamination; Secured Area.

Bldg. 301

Cape Lisburne Air Force Station

21 CSG/DEER

Elmendorf AFB Co: Anchorage AK 99506-5000

Landholding Agency: Air Force

Property Number: 18199010325

Status: Unutilized

Reasons: Isolated area; Not accessible by road; Contamination; Secured Area.

Bldg. 1001

Cape Lisburne Air Force Station

21 CSG/DEER

Elmendorf AFB Co: Anchorage AK 99506-5000

Landholding Agency: Air Force

Property Number: 18199010326

Status: Unutilized

Reasons: Isolated area; Not accessible by road; Contamination; Secured Area.

Bldg. 1003

Cape Lisburne Air Force Station

21 CSG/DEER

Elmendorf AFB Co: Anchorage AK 99506-5000

Landholding Agency: Air Force

Property Number: 18199010327

Status: Unutilized

Reasons: Isolated area; Not accessible by road; Contamination; Secured Area.

Bldg. 1055

Cape Lisburne Air Force Station

21 CSG/DEER

Elmendorf AFB Co: Anchorage AK 99506-5000

Landholding Agency: Air Force

Property Number: 18199010328

Status: Unutilized

Reasons: Isolated area; Not accessible by road; Contamination; Secured Area.

Bldg. 1056

Cape Lisburne Air Force

Station

21 CSG/DEER

Elmendorf AFB Co: Anchorage AK 99506-5000

Landholding Agency: Air Force

Property Number: 18199010329

Status: Unutilized

Reasons: Isolated area; Not accessible by road; Contamination; Secured Area.

Bldg. 103

Kotzebue Air Force Station

21 CSG/DEER

Elmendorf AFB Co: Anchorage AK 99506-5000

Landholding Agency: Air Force

Property Number: 18199010330

Status: Unutilized

Reasons: Isolated area; Not accessible by road; Contamination; Secured Area.

Bldg. 104

Kotzebue Air Force Station

21 CSG/DEER

Elmendorf AFB Co: Anchorage AK 99506-5000

Landholding Agency: Air Force

Property Number: 18199010331

Status: Unutilized

Reasons: Isolated area; Not accessible by road; Contamination; Secured Area.

Bldg. 105

Kotzebue Air Force Station

21 CSG/DEER

Elmendorf AFB Co: Anchorage AK 99506-5000

Landholding Agency: Air Force

Property Number: 18199010332

Status: Unutilized

Reasons: Isolated area; Not accessible by road; Contamination; Secured Area.

Bldg. 110

Kotzebue Air Force Station

21 CSG/DEER

Elmendorf AFB Co: Anchorage AK 99506-5000

Landholding Agency: Air Force

Property Number: 18199010333

Status: Unutilized

Reasons: Isolated area; Not accessible by road; Contamination; Secured Area.

Bldg. 114

Kotzebue Air Force Station

21 CSG/DEER

Elmendorf AFB Co: Anchorage AK 99506-5000

Landholding Agency: Air Force

Property Number: 18199010334

Status: Unutilized

Reasons: Isolated area; Not accessible by road; Contamination; Secured Area.

Bldg. 202

Kotzebue Air Force Station

21 CSG/DEER

Elmendorf AFB Co: Anchorage AK 99506-5000

Landholding Agency: Air Force

Property Number: 18199010335

Status: Unutilized

Reasons: Isolated area; Not accessible by road; Contamination; Secured Area.

Bldg. 204

Kotzebue Air Force Station

21 CSG/DEER

Elmendorf AFB Co: Anchorage AK 99506-5000

Landholding Agency: Air Force

Property Number: 18199010336

Status: Unutilized

Reasons: Isolated area; Not accessible by road; Contamination; Secured Area.

Bldg. 205

Kotzebue Air Force Station

21 CSG/DEER

Elmendorf AFB Co: Anchorage AK 99506-5000

Landholding Agency: Air Force

Property Number: 18199010337

Status: Unutilized

Reasons: Isolated area; Not accessible by road; Contamination; Secured Area.

Bldg. 1001

Kotzebue Air Force Station

21 CSG/DEER

Elmendorf AFB Co: Anchorage AK 99506-5000

Landholding Agency: Air Force

Property Number: 18199010338

Status: Unutilized

Reasons: Isolated area; Not accessible by road; Contamination; Secured Area.

Bldg. 1015

Kotzebue Air Force Station

21 CSG/DEER

Elmendorf AFB Co: Anchorage AK 99506-5000

Landholding Agency: Air Force

Property Number: 18199010339

Status: Unutilized

Reasons: Isolated area; Not accessible by road; Contamination; Secured Area.

Bldg. 50

Cold Bay Air Force Station

21 CSG/DEER

Elmendorf AFB Co: Anchorage AK 99506-5000

Landholding Agency: Air Force

Property Number: 18199010433

Status: Unutilized

Reasons: Isolated area; Not accessible by road; Isolated and remote; Artic environment.

Bldg. 1548, Galena Airport

Elmendorf AFB AK 99506-4420

Landholding Agency: Air Force

Property Number: 18199420001

Status: Unutilized

Reasons: Floodway; Secured Area; Extensive deterioration.

Bldg. 1568, Galena Airport

Elmendorf AFB AK 99506-4420

Landholding Agency: Air Force

Property Number: 18199420002

Status: Unutilized

Reasons: Floodway; Secured Area; Extensive deterioration.

Bldg. 1570, Galena Airport

Elmendorf AFB AK 99506-4420

Landholding Agency: Air Force

Property Number: 18199420003

Status: Unutilized

Reasons: Floodway; Secured Area; Extensive deterioration.

Bldg. 1700, Galena Airport

Elmendorf AFB AK 99506-4420

Landholding Agency: Air Force

Property Number: 18199420004

Status: Unutilized

Reasons: Floodway; Secured Area; Extensive deterioration.

Bldg. 1832, Galena Airport

Elmendorf AFB AK 99506-4420

Landholding Agency: Air Force

Property Number: 18199420005

Status: Unutilized

Reasons: Floodway; Secured Area; Extensive deterioration.

Bldg. 1842, Galena Airport

Elmendorf AFB AK 99506-4420

Landholding Agency: Air Force

Property Number: 18199420006

Status: Unutilized

Reasons: Floodway; Secured Area; Extensive deterioration.

Bldg. 1844, Galena Airport

Elmendorf AFB AK 99506-4420

Landholding Agency: Air Force

Property Number: 18199420007

Status: Unutilized

Reasons: Floodway; Secured Area; Extensive deterioration.

Bldg. 1853, Galena Airport

Elmendorf AFB AK 99506-4420

Landholding Agency: Air Force

Property Number: 18199440011

Status: Unutilized

Reasons: Floodway; Secured Area.

Bldg. 142

Tin City Long Range Radar Site

Wales Co: Nome AK

Landholding Agency: Air Force

Property Number: 18199520013

Status: Unutilized

Reasons: Secured Area; Extensive deterioration.

Bldg. 110

Tin City Long Range Radar Site

Wales Co: Nome AK

Landholding Agency: Air Force

Property Number: 18199520014

Status: Unutilized

Reasons: Secured Area; Extensive deterioration.

Bldg. 646

King Salmon Airport

Naknek Co: Bristol Bay AK

Landholding Agency: Air Force

Property Number: 18199520015

Status: Unutilized

Reasons: Secured Area; Extensive deterioration.

Bldg. 2541

Galena Airport

Galena Co: Yukon AK

Landholding Agency: Air Force

Property Number: 18199520016

Status: Unutilized

Reasons: Secured Area; Extensive deterioration.

Bldg. 1770

Galena Airport

Galena Co: Yukon AK

Landholding Agency: Air Force

Property Number: 18199520017

Status: Unutilized

Reasons: Secured Area; Extensive deterioration.

Bldg. 1

Lonely Dewline Site

Fairbanks Co: Fairbanks NS AK

Landholding Agency: Air Force

Property Number: 18199520024

Status: Unutilized

Reason: Extensive deterioration.

Bldg. 2

Lonely Dewline Site

Fairbanks Co: Fairbanks NS AK

Landholding Agency: Air Force

Property Number: 18199520025

Status: Unutilized

Reasons: Not accessible by road; Extensive deterioration.

Bldg. 12

Lonely Dewline Site

Fairbanks Co: Fairbanks NS AK

Landholding Agency: Air Force

Property Number: 18199520026

Status: Unutilized

Reasons: Not accessible by road; Extensive deterioration.

Bldg. 1

Wainwright Dewline Site

Fairbanks Co: Fairbanks NS AK

Landholding Agency: Air Force

Property Number: 18199520027

Status: Unutilized

Reasons: Not accessible by road; Extensive deterioration.

Bldg. 2

Wainwright Dewline Site

Fairbanks Co: Fairbanks NS AK

Landholding Agency: Air Force

Property Number: 18199520028

Status: Unutilized

Reasons: Not accessible by road; Extensive deterioration.

Bldg. 3

Wainwright Dewline Site

Fairbanks Co: Fairbanks NS AK

Landholding Agency: Air Force

Property Number: 18199520029

Status: Unutilized

Reasons: Not accessible by road; Extensive deterioration.

Bldg. 3045

Tatalina Long Range Radar Site

Elmendorf AFB AK 99506-4420

Landholding Agency: Air Force

Property Number: 18199530002

Status: Unutilized

Reasons: Secured Area; Extensive deterioration.

Bldg. 18

Lonely Dewline Site

Elmendorf AFB AK 99506-4420

Landholding Agency: Air Force

Property Number: 18199530003

Status: Unutilized

Reasons: Secured Area; Extensive deterioration.

Bldg. 23

Lonely Dewline Site

Elmendorf AFB AK 99506-4420

Landholding Agency: Air Force

Property Number: 18199530004

Status: Unutilized

Reasons: Secured Area; Extensive deterioration.

Bldg. 1015

Kotzebue Long Range Radar Site

Elmendorf AFB AK 99506-4420

Landholding Agency: Air Force

Property Number: 18199530005

Status: Unutilized

Reasons: Secured Area; Extensive deterioration.

Bldg. 1

Flaxman Island DEW Site

Elmendorf AFB AK 99506-4420

Landholding Agency: Air Force

Property Number: 18199530006

Status: Unutilized

Reasons: Secured Area; Extensive deterioration.

Bldg. 3

Flaxman Island DEW Site

Elmendorf AFB AK 99506-4420

Landholding Agency: Air Force

Property Number: 18199530008

Status: Unutilized

Reasons: Secured Area; Extensive deterioration.

Bldg. 4100

Cape Romanzof Long Range

Radar Site

Elmendorf AFB AK 99506-4420

Landholding Agency: Air Force

Property Number: 18199530009

Status: Unutilized

Reasons: Secured Area; Extensive deterioration.

Bldg. 200

Cape Newenham Long Range

Radar Site

Elmendorf AFB AK 99506-4420

Landholding Agency: Air Force

Property Number: 18199530010

Status: Unutilized

Reasons: Secured Area; Extensive deterioration.

Bldg. 2166

Cape Newenham Long Range

Radar Site

Elmendorf AFB AK 99506-4420

Landholding Agency: Air Force

Property Number: 18199530011

Status: Unutilized

Reasons: Extensive deterioration.

Bldg. 5500

Cape Newenham Long Range

Radar Site

Elmendorf AFB AK 99506-4420

Landholding Agency: Air Force

Property Number: 18199530012

Status: Unutilized

Reasons: Secured Area; Extensive deterioration.

Bldg. 8

Barter Island

Elmendorf AFB AK 99506-4420

Landholding Agency: Air Force

Property Number: 18199530013

Status: Unutilized

Reasons: Secured Area; Extensive deterioration.

Bldg. 75

Barter Island

Elmendorf AFB AK 99506-4420

Landholding Agency: Air Force

Property Number: 18199530014

Status: Unutilized

Reasons: Secured Area; Extensive deterioration.

Bldg. 86

Barter Island

Elmendorf AFB AK 99506-4420

Landholding Agency: Air Force

Property Number: 18199530015

Status: Unutilized

Reasons: Secured Area; Extensive deterioration.

Bldg. 3060

Barter Island

Elmendorf AFB AK 99506-4420

Landholding Agency: Air Force

Property Number: 18199530016

Status: Unutilized

Reasons: Secured Area; Extensive deterioration.

Bldg. 11-330

Elmendorf Air Force Base

Anchorage AK 99506-3240

Landholding Agency: Air Force

Property Number: 18199530017

Status: Unutilized

Reasons: Within airport runway clear zone; Secured Area; Extensive deterioration.

Bldg. 31-342

Elmendorf Air Force Base

Anchorage AK 99506-3240

Landholding Agency: Air Force

Property Number: 18199530022

Status: Unutilized

Reasons: Secured Area; Extensive deterioration.

Bldg. 32-126

Elmendorf Air Force Base

Anchorage AK 99506-3240

Landholding Agency: Air Force

Property Number: 18199530023

Status: Unutilized

Reasons: Within airport runway clear zone; Secured Area; Extensive deterioration.

Bldg. 21-737

Elmendorf Air Force Base

Anchorage AK 99506-5000

Landholding Agency: Air Force

Property Number: 18199540001

Status: Unutilized

Reasons: Secured Area; Extensive deterioration.

Bldg. 52-651

Elmendorf AFB

Anchorage AK 99506-3240

Landholding Agency: Air Force

Property Number: 18199540004

Status: Unutilized

Reasons: Secured Area; Extensive deterioration.

Bldg. 132

Tin City Long Range Radar

Site

Elmendorf AFB, AK 99506-2270

Landholding Agency: Air Force

Property Number: 18199810003

Status: Unutilized

Reasons: Secured Area; Extensive deterioration.

Bldgs. 1001, 211

Murphy Dome AF Station

Elmendorf AFB AK 99506-2270

Landholding Agency; Air Force

Property Number: 18199810004

Status: Unutilized

Reasons: Secured Area; Extensive deterioration.

Bldg. 1551

Galena Airport

Elmendorf AFB AK 99506-2270

Landholding Agency: Air Force

Property Number: 18199810030

Status: Unutilized

Reasons: Within airport runway clear zone.

Bldg. 1771

Galena Airport

Elmendorf AFB AK 99506-2270

Landholding Agency: Air Force

Property Number: 18199820001

Status: Unutilized

Reasons: Secured Area; Extensive deterioration.

Bldg. 34-570

Elmendorf AFB

Anchorage AK 99506-3240

Landholding Agency: Air Force

Property Number: 18199830008

Status: Unutilized

Reasons: Within 2000 ft. of flammable or explosive material; Secured Area.

Bldg. 3

Oliktok Long Range Radar Site

Elmendorf AFB AK 99506-2270

Landholding Agency: Air Force

Property Number: 18199840010

Status: Unutilized

Reasons: Secured Area; Extensive deterioration.

Bldg. 8

Oliktok Long Range Radar Site

Elmendorf AFB AK 99506-2270

Landholding Agency: Air Force

Property Number: 18199840011

Status: Unutilized

Reasons: Secured Area; Extensive deterioration.

Bldg. 19

Lonely Short Range Radar Site

Elmendorf AFB AK 99506-2270

Landholding Agency: Air Force

Property Number: 18199840012

Status: Unutilized

Reasons: Secured Area; Extensive deterioration.

Bldg. 20

Lonely Short Range Radar Site

Elmendorf AFB AK 99506-2270

Landholding Agency: Air Force

Property Number: 18199840013

Status: Unutilized

Reasons: Secured Area; Extensive deterioration.

Bldg. 338

King Salmon Airport

Naknek Co: Bristol Bay AK

Landholding Agency: Air Force

Property Number: 18199840014

Status: Unutilized

Reasons: Secured Area; Extensive deterioration.

Bldg. 560

King Salmon Airport

Naknek Co: Bristol Bay AK

Landholding Agency: Air Force

Property Number: 18199840015

Status: Unutilized

Reasons: Secured Area; Extensive deterioration.

Bldg. 612

King Salmon Airport

Naknek Co: Bristol Bay AK

Landholding Agency: Air Force

Property Number: 18199840016

Status: Unutilized

Reasons: Secured Area; Extensive deterioration.

Bldg. 618

King Salmon Airport

Naknek Co: Bristol Bay AK

Landholding Agency: Air Force

Property Number: 18199840017

Status: Unutilized

Reasons: Secured Area; Extensive deterioration.

Bldg. 643

King Salmon Airport

Naknek Co: Bristol Bay AK

Landholding Agency: Air Force

Property Number: 18199840018

Status: Unutilized

Reasons: Secured Area; Extensive deterioration.

Bldg. 649

King Salmon Airport

Naknek Co: Bristol Bay AK

Landholding Agency: Air Force

Property Number: 18199840019

Status: Unutilized

Reasons: Secured Area; Extensive deterioration.

Bldg. 114

Indian Mountain Long Range Radar Site

Elmendorf AFB AK 99506-2270

Landholding Agency: Air Force

Property Number: 18199840020

Status: Unutilized

Reasons: Secured Area; Extensive deterioration.

Bldg. 34-636

Elmendorf AFB

Anchorage AK 99506-3240

Landholding Agency: Air Force

Property Number: 18199840021

Status: Unutilized

Reasons: Within 2000 ft. of flammable or explosive material; Within airport runway clear zone; Secured Area; Extensive deterioration.

Bldg. 34-638

Elmendorf AFB

Anchorage AK 99506-3240

Landholding Agency: Air Force

Property Number: 18199840022

Status: Unutilized

Reasons: Within 2000 ft. of flammable or explosive material; Within airport runway clear zone; Secured Area; Extensive deterioration.

Bldg. 140

Cape Lisburne Long Range Radar Site

Elmendorf AFB AK 99506-3240

Landholding Agency: Air Force

Property Number: 18199840023

Status: Unutilized

Reasons: Secured Area; Extensive deterioration.

Bldg. 145

Cape Lisburne Long Range Radar Site

Elmendorf AFB AK 99506-3240

Landholding Agency: Air Force

Property Number: 18199840024

Status: Unutilized

Reasons: Secured Area; Extensive deterioration.

Bldg. 310

Cape Lisburne Long Range Radar Site

Elmendorf AFB AK 99506-3240

Landholding Agency: Air Force

Property Number: 18199840025

Status: Unutilized

Reasons: Secured Area; Extensive deterioration.

Bldg. 27

Eareckson Air Station

Shemya Island AK

Landholding Agency: Air Force

Property Number: 18199840026

Status: Unutilized

Reasons: Secured Area; Extensive deterioration.

Bldg. 30

Eareckson Air Station

Shemya Island AK

Landholding Agency: Air Force

Property Number: 18199840027

Status: Unutilized

Reasons: Secured Area; Extensive deterioration.

Bldg. 42

Eareckson Air Station

Shemya Island AK

Landholding Agency: Air Force

Property Number: 18199840028

Status: Unutilized

Reasons: Secured Area; Extensive deterioration.

Bldg. 212

Eareckson Air Station

Shemya Island AK

Landholding Agency: Air Force

Property Number: 18199840029

Status: Unutilized

Reasons: Secured Area; Extensive deterioration.

Bldg. 213

Eareckson Air Station

Shemya Island AK

Landholding Agency: Air Force

Property Number: 18199840030

Status: Unutilized

Reasons: Secured Area; Extensive deterioration.

Bldg. 223

Eareckson Air Station

Shemya Island AK

Landholding Agency: Air Force

Property Number: 18199840031

Status: Unutilized

Reasons: Secured Area; Extensive deterioration.

Bldg. 452

Eareckson Air Station

Shemya Island AK

Landholding Agency: Air Force

Property Number: 18199840032

Status: Unutilized

Reasons: Secured Area; Extensive deterioration.

Bldg. 502

Eareckson Air Station

Shemya Island AK

Landholding Agency: Air Force

Property Number: 18199840033

Status: Unutilized

Reasons: Secured Area; Extensive deterioration.

Bldg. 503

Eareckson Air Station

Shemya Island AK

Landholding Agency: Air Force

Property Number: 18199840034

Status: Unutilized

Reasons: Secured Area; Extensive deterioration.

Bldg. 522

Eareckson Air Station

Shemya Island AK

Landholding Agency: Air Force

Property Number: 18199840035

Status: Unutilized

Reasons: Secured Area; Extensive deterioration.

Bldg. 587

Eareckson Air Station

Shemya Island AK

Landholding Agency: Air Force

Property Number: 18199840036

Status: Unutilized

Reasons: Secured Area; Extensive deterioration.

Bldg. 588

Eareckson Air Station

Shemya Island AK

Landholding Agency: Air Force

Property Number: 18199840037

Status: Unutilized

Reasons: Secured Area; Extensive deterioration.

Bldg. 598

Eareckson Air Station

Shemya Island AK

Landholding Agency: Air Force

Property Number: 18199840038

Status: Unutilized

Reasons: Secured Area; Extensive deterioration.

Bldg. 605

Eareckson Air Station

Shemya Island AK

Landholding Agency: Air Force

Property Number: 18199840039

Status: Unutilized

Reasons: Secured Area; Extensive deterioration.

Bldg. 613

Eareckson Air Station

Shemya Island AK

Landholding Agency: Air Force

Property Number: 18199840040

Status: Unutilized

Reasons: Secured Area; Extensive deterioration.

Bldg. 614

Eareckson Air Station

Shemya Island AK

Landholding Agency: Air Force

Property Number: 18199840041

Status: Unutilized

Reasons: Secured Area; Extensive deterioration.

Bldg. 615

Eareckson Air Station

Shemya Island AK

Landholding Agency: Air Force

Property Number: 18199840042

Status: Unutilized

Reasons: Secured Area; Extensive deterioration.

Bldg. 616

Eareckson Air Station

Shemya Island AK

Landholding Agency: Air Force

Property Number: 18199840043

Status: Unutilized

Reasons: Secured Area; Extensive deterioration.

Bldg. 617

Eareckson Air Station

Shemya Island AK

Landholding Agency: Air Force

Property Number: 18199840044

Status: Unutilized

Reasons: Secured Area; Extensive deterioration.

Bldg. 624

Eareckson Air Station

Shemya Island AK

Landholding Agency: Air Force

Property Number: 18199840045

Status: Unutilized

Reasons: Secured Area; Extensive deterioration.

Bldg. 700

Eareckson Air Station

Shemya Island AK

Landholding Agency: Air Force

Property Number: 18199840046

Status: Unutilized

Reasons: Secured Area; Extensive deterioration.

Bldg. 718

Eareckson Air Station

Shemya Island AK

Landholding Agency: Air Force

Property Number: 18199840047

Status: Unutilized

Reasons: Secured Area; Extensive deterioration.

Bldg. 727

Eareckson Air Station

Shemya Island AK

Landholding Agency: Air Force

Property Number: 18199840048

Status: Unutilized

Reasons: Secured Area; Extensive deterioration.

Bldg. 731

Eareckson Air Station

Shemya Island AK

Landholding Agency: Air Force

Property Number: 18199840049

Status: Unutilized

Reasons: Secured Area; Extensive deterioration.

Bldg. 751

Eareckson Air Station

Shemya Island AK

Landholding Agency: Air Force

Property Number: 18199840050

Status: Unutilized

Reasons: Secured Area; Extensive deterioration.

Bldg. 753

Eareckson Air Station

Shemya Island AK

Landholding Agency: Air Force

Property Number: 18199840051

Status: Unutilized

Reasons: Secured Area; Extensive deterioration.

Bldg. 1001

Eareckson Air Station

Shemya Island AK

Landholding Agency: Air Force

Property Number: 18199840052

Status: Unutilized

Reasons: Secured Area; Extensive deterioration.

Bldg. 1005

Eareckson Air Station

Shemya Island AK

Landholding Agency: Air Force

Property Number: 18199840053

Status: Unutilized

Reasons: Secured Area; Extensive deterioration.

Bldg. 1010

Eareckson Air Station

Shemya Island AK

Landholding Agency: Air Force

Property Number: 18199840054

Status: Unutilized

Reasons: Secured Area; Extensive deterioration.

Bldg. 1025

Eareckson Air Station

Shemya Island AK

Landholding Agency: Air Force

Property Number: 18199840055

Status: Unutilized

Reasons: Secured Area; Extensive deterioration.

Bldg. 1030

Eareckson Air Station

Shemya Island AK

Landholding Agency: Air Force

Property Number: 18199840056

Status: Unutilized

Reasons: Secured Area; Extensive deterioration.

Bldg. 3016

Eareckson Air Station

Shemya Island AK

Landholding Agency: Air Force

Property Number: 18199840057

Status: Unutilized

Reasons: Secured Area; Extensive deterioration.

Bldg. 3062

Eareckson Air Station

Shemya Island AK

Landholding Agency: Air Force

Property Number: 18199840058

Status: Unutilized

Reasons: Secured Area; Extensive deterioration.

Bldg. 3063

Eareckson Air Station

Shemya Island AK

Landholding Agency: Air Force

Property Number: 18199840059

Status: Unutilized

Reasons: Secured Area; Extensive deterioration.

Bldg. 32-189

Elmendorf Air Force Base

Anchorage Co: AK 99506-3230

Landholding Agency: Air Force

Property Number: 18199920001

Status: Unutilized

Reasons: Within 2000 ft. of flammable or explosive material; Secured Area; Extensive deterioration.

Bldg. 4893

Elmendorf AFB

Elmendorf AFB Co: AK 99506-

Landholding Agency: Air Force

Property Number: 18199930001

Status: Unutilized

Reason: Within airport runway clear zone.

Bldg. 4905

Elmendorf AFB

Elmendorf AFB Co: AK 99506-

Landholding Agency: Air Force

Property Number: 18199930002

Status: Unutilized

Reasons: Within airport runway clear zone; Secured Area.

Bldg. 4913

Elmendorf AFB

Elmendorf AFB Co: AK 99506-

Landholding Agency: Air Force

Property Number: 18199930003

Status: Unutilized

Reasons: Within airport runway clear zone; Secured Area.

Bldg. 5887

Elmendorf AFB

Elmendorf AFB Co: AK 99506-

Landholding Agency: Air Force

Property Number: 18199930004

Status: Unutilized

Reasons: Within 2000 ft. of flammable or explosive material; Within airport runway clear zone; Secured Area.

Bldg. 10449

Elmendorf AFB

Elmendorf AFB Co: AK 99506-

Landholding Agency: Air Force

Property Number: 18199930005

Status: Unutilized

Reasons: Secured Area.

Bldg. 12759

Elmendorf AFB

Elmendorf AFB Co: AK 99506-

Landholding Agency: Air Force

Property Number: 18199930006

Status: Unutilized

Reasons: Within 2000 ft. of flammable or explosive material; Secured Area; Extensive deterioration.

Bldg. 7227

Elmendorf AFB

Elmendorf AFB Co: AK 99506-

Landholding Agency: Air Force

Property Number: 18200010001

Status: Unutilized

Reason: Extensive deterioration.

Bldg. 7192

Elmendorf AFB

Anchorage Co: AK 99506-3240

Landholding Agency: Air Force

Property Number: 182000200001

Status: Unutilized

Reason: Secured Area.

Bldg. 7231

Elmendorf AFB

Anchorage Co: AK 99506-3240

Landholding Agency: Air Force

Property Number: 18200020002

Status: Unutilized

Reason: Secured Area.

Bldg. 14427

Elmendorf AFB

Anchorage Co: AK 99506-

Landholding Agency: Air Force

Property Number: 18200020003

Status: Unutilized

Reasons: Within 2000 ft. of flammable or explosive material; Within airport runway clear zone; Secured Area.

Bldg. 14487

Elmendorf AFB

Anchorage Co: AK 99506-

Landholding Agency: Air Force

Property Number: 18200020004

Status: Unutilized

Reasons: Within 2000 ft. of flammable or explosive material; Within airport runway clear zone; Secured Area.

Bldg. 4305

Elmendorf AFB

Anchorage Co: AK 99506-

Landholding Agency: Air Force

Property Number: 18200030001

Status: Unutilized

Reasons: Within 2000 ft. of flammable or explosive material; Secured Area; Expensive deterioration.

Bldg. 13367

Elmendorf AFB

Anchorage Co: AK 99506-

Landholding Agency: Air Force

Property Number: 18200030002

Status: Unutilized

Reasons: Within 2000 ft. of flammable or explosive material; Within airport runway clear zone; Secured Area.

Bldg. 13559

Elmendorf AFB

Anchorage Co: AK 99506-

Landholding Agency: Air Force

Property Number: 18200030003

Status: Unutilized

Reasons: Within 2000 ft. of flammable or explosive material; Within airport runway clear zone; Secured Area.

Bldg. 13579

Elmendorf AFB

Anchorage Co: AK 99506-

Landholding Agency: Air Force

Property Number: 18200030004

Status: Unutilized

Reasons: Within 2000 ft. of flammable or explosive material; Within airport runway clear zone; Secured Area.

Bldg. 15526

Elmendorf AFB

Anchorage Co: AK 99506-

Landholding Agency: Air Force

Property Number: 18200030005

Status: Unutilized

Reasons: Within airport runway clear zone; Secured Area.

Bldg. 15534

Elmendorf AFB

Anchorage Co: AK 99506-

Landholding Agency: Air Force

Property Number: 18200030006

Status: Unutilized

Reasons: Within airport runway clear zone; Secured Area.

Bldg. 16512

Elmendorf AFB

Anchorage Co: AK 99506-

Landholding Agency: Air Force

Property Number: 18200030007

Status: Unutilized

Reasons: Within 2000 ft. of flammable or explosive material; Within airport runway clear zone; Secured Area.

Bldg. 17497

Elmendorf AFB

Anchorage Co: AK 99506-

Landholding Agency: Air Force

Property Number: 18200030008

Status: Unutilized

Reasons: Within 2000 ft. of flammable or explosive material; Within airport runway clear zone; Secured Area.

Bldg. 20174

Elmendorf AFB

Anchorage Co: AK 99506-

Landholding Agency: Air Force

Property Number: 18200030009

Status: Unutilized

Reasons: Secured Area; Extensive deterioration.

Bldg. 28

USCG Support Center

Kodiak Co: Kodiak Island AK 99619-5000

Landholding Agency: DOT

Property Number: 87199210126

Status: Excess

Reasons: Within airport runway clear zone; Secured Area.

Bldg. 19

USCG Support Center

Kodiak Co: Kodiak Island AK 99619-5000

Landholding Agency: DOT

Property Number: 87199210128

Status: Excess

Reasons: Within airport runway clear zone; Extensive deterioration; Secured Area.

Bldg. 18

USCG Support Center

Kodiak Co: Kodiak Island AK 99619-5000

Landholding Agency: DOT

Property Number: 87199210132

Status: Excess

Reasons: Within airport runway clear zone; Secured Area.

GSA Number: U-ALAS-655A

Bldg. A512

USCG Support Center

Kodiak Co: Kodiak Island AK 99619-5000

Landholding Agency: DOT

Property Number: 87199210133

Status: Excess

Reasons: Within 2000 ft. of flammable or explosive material; Within airport runway clear zone; Secured Area.

Bldg. R1, Holiday Beach

U.S. Coast Guard Support Center

Kodiak Co: Kodiak Island AK 99619-5014

Landholding Agency: DOT

Property Number: 87199310014

Status: Unutilized

Reason: Secured Area.

Bldg. S-3

U.S. Coast Guard Support Center

Kodiak Co: Kodiak Island AK 99619-5014

Landholding Agency: DOT

Property Number: 87199310015

Status: Unutilized

Reason: Secured Area.

Bldg. S-16

U.S. Coast Guard Support Center

Kodiak Co: Kodiak Island AK 99619-5014

Landholding Agency: DOT

Property Number: 87199310016

Status: Unutilized

Reasons: Secured Area.

Bldg. 624

U.S. Coast Guard Support Center

Kodiak Co: Kodiak Island AK 99619-5014

Landholding Agency: DOT

Property Number: 87199310021

Status: Unutilized

Reasons: Within airport runway clear zone; Secured Area.

Bldg. 456

Coast Guard—ISC Kodiak

Kodiak Co: Kodiak Borough AK 99615-

Landholding Agency: DOT

Property Number: 87199710002

Status: Excess

Reasons: Within airport runway clear zone; Secured Area; Extensive deterioration.

Bldg. 524A

USCG ISC Kodiak

Kodiak Co: Kodiak Is. Bor. AK 99619-

Landholding Agency: DOT

Property Number: 87199710004

Status: Excess

Reasons: Floodway; Secured Area.

Bldg. R13, USCG ISC Kodiak

Holiday Beach

Kodiak Co: Kodiak Is Bor AK 99619-

Landholding Agency: DOT

Property Number: 87199720003

Status: Excess

Reason: Secured Area.

Bldg. 172, USCG ISC Kodiak

Nyman's Peninsula

Kodiak Co: Kodiak Is Bor AK 99619-

Landholding Agency: DOT

Property Number: 87199720004

Status: Excess

Reason: Secured Area.

Bldg. 160, USCG ISC Kodiak

Comsta/Buskin Lake

Kodiak Co: Kodiak Is Bor AK 99619-

Landholding Agency: DOT

Property Number: 87199720005

Status: Excess

Reasons: Secured Area; Extensive deterioration.

Bldg. 16

Airstation Kodiak

Kodiak Co: AK 99615-

Landholding Agency: DOT

Property Number: 87200010001

Status: Excess

Reasons: Within 2000 ft. of flammable or explosive material; Within airport runway clear zone; Secured Area.

“Gazebo”

Coast Guard

Cordova Co: AK 99574-

Landholding Agency: DOT

Property Number: 87200010002

Status: Unutilized

Reason: Extensive deterioration.

Boathouse

Coast Guard Station

Ketchikan

Ketchikan Co: AK 99901-

Landholding Agency: DOT

Property Number: 87200020001

Status: Unutilized

Reason: Within 2000 ft. of flammable or explosive material; Secured Area.

Arizona

Facility 90002

Holbrook Radar Site

Holbrook Co: Navajo AZ 86025-

Landholding Agency: Air Force

Property Number: 18199340049

Status: Unutilized

Reason: Within airport runway clear zone.

Portion

Colorado River Basin

Salinity Project

Yuma Co: AZ 00000-

Landholding Agency: GSA

Property Number: 54200030005

Status: Surplus

Reason: Secured Area.

GSA Number: 9-I-AZ-810

Arkansas

Dwelling

Bull Shoals Lake/Dry Run Road

Oakland Co: Marion AR 72661-

Landholding Agency: COE

Property Number: 31199820001

Status: Unutilized

Reason: Extensive deterioration.

California

Bldg. 707 63 ABG/DE

Norton Air Force Base

Norton Co: San Bernadino CA 92409-5045

Landholding Agency: Air Force

Property Number: 18199010193

Status: Excess

Reasons: Within 2000 ft. of flammable or explosive material; Secured Area.

Bldg. 575 63 ABG/DE

Norton Air Force Base

Norton Co: San Bernadino CA 92409-5045

Landholding Agency: Air Force

Property Number: 18199010195

Status: Excess

Reason: Within 2000 ft. of flammable or explosive material.

Bldg. 502 63 ABG/DE

Norton Air Force Base

Norton Co: San Bernadino CA 92409-5045

Landholding Agency: Air Force

Property Number: 18199010196

Status: Excess

Reasons: Within 2000 ft. of flammable or explosive material; Secured Area.

Bldg. 23 63 ABG/DE

Norton Air Force Base

Norton Co: San Bernadino CA 92409-5045

Landholding Agency: Air Force

Property Number: 18199010197

Status: Excess

Reasons: Within 2000 ft. of flammable or explosive material; Secured Area.

Bldg. 100

Port Arena Air Force Station

(See County) Co: Mendocino CA 95468-5000

Landholding Agency: Air Force

Property Number: 18199010233

Status: Unutilized

Reason: Secured Area.

Bldg. 101

Port Arena Air Force Station

(See County) Co: Mendocino CA 95468-5000

Landholding Agency: Air Force

Property Number: 18199010234

Status: Underutilized

Reason: Secured Area.

Bldg. 116

Port Arena Air Force Station

(See County) Co: Mendocino CA 95468-5000

Landholding Agency: Air Force

Property Number: 18199010235

Status: Unutilized

Reason: Secured Area.

Bldg. 202

Port Arena Air Force Station

(See County) Co: Mendocino CA 95468-5000

Landholding Agency: Air Force

Property Number: 18199010236

Status: Unutilized

Reason: Secured Area.

Bldg. 201

Vandenberg Air Force Base

Point Arguello

Vandenberg AFB Co: Santa Barbara CA 93437-

Location: Highway 1, Highway 246, Coast Road, Pt Sal Road, Miguelito Cyn.

Landholding Agency: Air Force

Property Number: 18199010546

Status: Unutilized

Reason: Secured Area.

Bldg. 202

Vandenberg Air Force Base

Point Arguello

Vandenberg AFB Co: Santa Barbara CA 93437-

Location: Highway 1, Highway 246, Coast Road, Pt Sal Road, Miguelito Cyn.

Landholding Agency: Air Force

Property Number: 18199010547

Status: Unutilized

Reason: Secured Area.

Bldg. 203

Vandenberg Air Force Base

Point Arguello

Vandenberg AFB Co: Santa Barbara CA 93437-

Location: Highway 1, Highway 246, Coast Road, Pt Sal Road, Miguelito Cyn.

Landholding Agency: Air Force

Property Number: 18199010548

Status: Unutilized

Reason: Secured Area.

Bldg. 204

Vandenberg Air Force Base

Point Arguello

Vandenberg AFB Co: Santa Barbara CA 93437-

Location: Highway 1, Highway 246, Coast Road, Pt Sal Road, Miguelito Cyn.

Landholding Agency: Air Force

Property Number: 18199010549

Status: Unutilized

Reason: Secured Area.

Bldg. 1823

Vandenberg Air Force Base

Vandenberg AFB Co: Santa Barbara CA 93437-

Location: Hwy 1, Hwy 246, Coast Road, Pt Sal Rd., Miguelito CYN

Landholding Agency: Air Force

Property Number: 181990130360

Status: Excess

Reasons: Within 2000 ft. of flammable or explosive material; Secured Area.

Bldg. 10312

Vandenberg Air Force Base

Vandenberg AFB Co: Santa Barbara CA 93437-

Landholding Agency: Air Force

Property Number: 18199210026

Status: Unutilized

Reason: Secured Area.

Bldg. 16104, Vandenberg AFB

Vandenberg AFB Co: Santa Barbara CA 93437-

Location: Hwy 1, Hwy 246, Coast Rd., Pt Sal Rd., Miguelito Cyn

Landholding Agency: Air Force

Property Number: 18199230020

Status: Unutilized

Reason: Secured Area.

Bldg. 5428, Vandenberg AFB

Vandenberg Co: Santa Barbara CA 93437-

Landholding Agency: Air Force

Property Number: 18199310015

Status: Unutilized

Reason: Secured Area.

Bldg. 7304, Vandenberg AFB

Vandenberg Co: Santa Barbara CA 93437-

Landholding Agency: Air Force

Property Number: 18199310030

Status: Unutilized

Reason: Secured Area.

Bldg. 8215

Vandenberg Air Force Base

Vandenberg AFB Co: Santa Barbara CA 93437-

Landholding Agency: Air Force

Property Number: 18199330016

Status: Unutilized

Reason: Secured Area.

Bldg. 1988

Vandenberg Air Force Base

Vandenberg AFB Co: Santa Barbara CA 93437-

Landholding Agency: Air Force

Property Number: 18199340003

Status: Unutilized

Reasons: Electrical Power Generator Bldg.; Secured Area.

Bldg. 1324

Vandenberg Air Force Base

Vandenberg AFB Co: Santa Barbara CA 93437-

Landholding Agency: Air Force

Property Number: 18199340006

Status: Unutilized

Reason: Secured Area.

Bldg. 1341

Vandenberg Air Force Base

Vandenberg AFB Co: Santa Barbara CA 93437-

Landholding Agency: Air Force

Property Number: 18199340007

Status: Unutilized

Reason: Secured Area.

Bldg. 1955

Vandenberg Air Force Base

Vandenberg AFB Co: Santa Barbara CA 93437-

Landholding Agency: Air Force

Property Number: 18199340008

Status: Unutilized

Reason: Secured Area.

Bldg. 7306

Vandenberg Air Force Base

Vandenberg AFB Co: Santa Barbara CA 93437-

Landholding Agency: Air Force

Property Number: 18199340022

Status: Unutilized

Reason: Secured Area.

Bldg. 16164

Vandenberg Air Force Base

Vandenberg AFB Co: Santa Barbara CA 93437-

Landholding Agency: Air Force

Property Number: 18199340028

Status: Unutilized

Reason: Secured Area.

Bldg. 422

Vandenberg Air Force Base

Vandenberg AFB Co: Santa Barbara CA 93437-

Landholding Agency: Air Force

Property Number: 18199530029

Status: Unutilized

Reason: Secured Area; Extensive deterioration.

Bldg. 431

Vandenberg Air Force Base

Vandenberg AFB Co: Santa Barbara CA 93437-

Landholding Agency: Air Force

Property Number: 18199530030

Status: Unutilized

Reason: Secured Area; Extensive deterioration.

Bldg. 470

Vandenberg Air Force Base

Vandenberg AFB Co: Santa Barbara CA 93437-

Landholding Agency: Air Force

Property Number: 18199530031

Status: Unutilized

Reasons: Secured Area; Extensive deterioration.

Bldg. 480

Vandenberg Air Force Base

Vandenberg AFB Co: Santa Barbara CA 93437-

Landholding Agency: Air Force

Property Number: 18199530032

Status: Unutilized

Reasons: Secured Area; Extensive deterioration.

Bldg. 6606

Vandenberg Air Force Base

Vandenberg AFB Co: Santa Barbara CA 93437-

Landholding Agency: Air Force

Property Number: 18199530037

Status: Unutilized

Reasons: Secured Area; Extensive deterioration.

Bldg. 7307

Vandenberg Air Force Base

Vandenberg AFB Co: Santa Barbara CA 93437-

Landholding Agency: Air Force

Property Number: 18199530039

Status: Unutilized

Reasons: Secured Area; Extensive deterioration.

Bldg. 10717

Vandenberg Air Force Base

Vandenberg AFB Co: Santa Barbara CA 93437-

Landholding Agency: Air Force

Property Number: 18199530041

Status: Unutilized

Reasons: Secured Area; Extensive deterioration.

Bldg. 10722

Vandenberg Air Force Base

Vandenberg AFB Co: Santa Barbara CA 93437-

Landholding Agency: Air Force

Property Number: 18199530043

Status: Unutilized

Reasons: Secured Area; Extensive deterioration.

Bldg. 893

Vandenberg Air Force Base

Vandenberg AFB Co: Santa Barbara CA 93437-

Landholding Agency: Air Force

Property Number: 18199620028

Status: Unutilized

Reasons: Secured Area; Extensive deterioration.

Bldg. 9350

Vandenberg Air Force Base

Vandenberg AFB Co: Santa Barbara CA 93437-

Landholding Agency: Air Force

Property Number: 18199620030

Status: Unutilized

Reasons: Secured Area; Extensive deterioration.

Bldg. 13003

Vandenberg Air Force Base

Vandenberg AFB Co: Santa Barbara CA 93437-

Landholding Agency: Air Force

Property Number: 18199620031

Status: Unutilized

Reasons: Secured Area; Extensive deterioration.

Bldg. 13222

Vandenberg AFB

Vandenberg AFB Co: Santa Barbara CA 93437-

Landholding Agency: Air Force

Property Number: 18199620032

Status: Unutilized

Reasons: Secured Area; Extensive deterioration.

Bldg. 815

Vandenberg AFB

Vandenberg AFB Co: Santa Barbara CA 93437-

Landholding Agency: Air Force

Property Number: 18199630040

Status: Unutilized

Reasons: Secured Area; Extensive deterioration.

Bldg. 1850

Vandenberg AFB

Vandenberg AFB Co: Santa Barbara CA 93437-

Landholding Agency: Air Force

Property Number: 18199630041

Status: Unutilized

Reasons: Secured Area; Extensive deterioration.

Bldg. 1853

Vandenberg AFB

Vandenberg AFB Co: Santa Barbara CA 93437-

Landholding Agency: Air Force

Property Number: 18199630042

Status: Unutilized

Reasons: Secured Area; Extensive deterioration.

Bldg. 1856

Vandenberg AFB

Vandenberg AFB Co: Santa Barbara CA 93437-

Landholding Agency: Air Force

Property Number: 18199630043

Status: Unutilized

Reasons: Secured Area; Extensive deterioration.

Bldg. 1865

Vandenberg AFB

Vandenberg AFB Co: Santa Barbara CA 93437-

Landholding Agency: Air Force

Property Number: 18199630044

Status: Unutilized

Reasons: Secured Area; Extensive deterioration.

Bldg. 1874

Vandenberg AFB

Vandenberg AFB Co: Santa Barbara CA 93437-

Landholding Agency: Air Force

Property Number: 18199630045

Status: Unutilized

Reasons: Secured Area; Extensive deterioration.

Bldg. 1875

Vandenberg AFB

Vandenberg AFB Co: Santa Barbara CA 93437-

Landholding Agency: Air Force

Property Number: 18199630046

Status: Unutilized

Reasons: Secured Area; Extensive deterioration.

Bldg. 1877

Vandenberg AFB

Vandenberg AFB Co: Santa Barbara CA 93437-

Landholding Agency: Air Force

Property Number: 18199630047

Status: Unutilized

Reasons: Secured Area; Extensive deterioration.

Bldg. 1879

Vandenberg AFB

Vandenberg AFB Co: Santa Barbara CA 93437-

Landholding Agency: Air Force

Property Number: 18199630048

Status: Unutilized

Reasons: Secured Area; Extensive deterioration.

Bldg. 1885

Vandenberg AFB

Vandenberg AFB Co: Santa Barbara CA 93437-

Landholding Agency: Air Force

Property Number: 18199630049

Status: Unutilized

Reasons: Secured Area; Extensive deterioration.

Bldg. 1898

Vandenberg AFB

Vandenberg AFB Co: Santa Barbara CA 93437-

Landholding Agency: Air Force

Property Number: 18199630050

Status: Unutilized

Reasons: Secured Area; Extensive deterioration.

Bldg. 06445

Vandenberg AFB

Vandenberg AFB Co: Santa Barbara CA 93437-

Landholding Agency: Air Force

Property Number: 18199630052

Status: Unutilized

Reasons: Secured Area; Extensive deterioration.

Bldg. 21160

Vandenberg AFB

Vandenberg AFB Co: Santa Barbara CA 93437-

Landholding Agency: Air Force

Property Number: 18199630055

Status: Unutilized

Reasons: Secured Area; Extensive deterioration.

Bldg. 06437

Vandenberg AFB

Vandenberg AFB Co: Santa Barbara CA 93437-

Landholding Agency: Air Force

Property Number: 18199710014

Status: Unutilized

Reasons: Secured Area; Extensive deterioration.

Bldg. 10715

Vandenberg AFB

Vandenberg AFB Co: Santa Barbara CA 93437-

Landholding Agency: Air Force

Property Number: 18199710016

Status: Unutilized

Reasons: Secured Area; Extensive deterioration.

Bldg. 00879

Vandenberg AFB

Vandenberg AFB Co: Santa Barbara CA 93437-

Landholding Agency: Air Force

Property Number: 18199720009

Status: Unutilized

Reasons: Secured Area; Extensive deterioration.

Bldg. 01630

Vandenberg AFB

Vandenberg AFB Co: Santa Barbara CA 93437-

Landholding Agency: Air Force

Property Number: 18199720011

Status: Unutilized

Reasons: Secured Area; Extensive deterioration.

Bldg. 01797

Vandenberg AFB

Vandenberg AFB Co: Santa Barbara CA 93437-

Landholding Agency: Air Force

Property Number: 18199720012

Status: Unutilized

Reasons: Secured Area; Extensive deterioration.

Bldg. 01830

Vandenberg AFB

Vandenberg AFB Co: Santa Barbara CA 93437-

Landholding Agency: Air Force

Property Number: 18199720013

Status: Unutilized

Reasons: Secured Area; Extensive deterioration.

Bldg. 01852

Vandenberg AFB

Vandenberg AFB Co: Santa Barbara CA 93437-

Landholding Agency: Air Force

Property Number: 18199720014

Status: Unutilized

Reasons: Secured Area; Extensive deterioration.

Bldg. 11345

Vandenberg AFB

Vandenberg AFB Co: Santa Barbara CA 93437-

Landholding Agency: Air Force

Property Number: 18199720019

Status: Unutilized

Reasons: Secured Area; Extensive deterioration.

Bldg. 14019

Vandenberg AFB

Vandenberg AFB Co: Santa Barbara CA 93437-

Landholding Agency: Air Force

Property Number: 18199720022

Status: Unutilized

Reasons: Secured Area; Extensive deterioration.

Bldg. 14026

Vandenberg AFB

Vandenberg AFB Co: Santa Barbara CA 93437-

Landholding Agency: Air Force

Property Number: 18199720023

Status: Unutilized

Reasons: Secured Area; Extensive deterioration.

Bldg. 16162

Vandenberg AFB

Vandenberg AFB Co: Santa Barbara CA 93437-

Landholding Agency: Air Force

Property Number: 18199720024

Status: Unutilized

Reasons: Secured Area; Extensive deterioration.

Bldg. 22300

Vandenberg AFB

Vandenberg AFB Co: Santa Barbara CA 93437-

Landholding Agency: Air Force

Property Number: 18199730002

Status: Unutilized

Reasons: Secured Area; Extensive deterioration.

Bldg. 08412

Vandenberg AFB

Vandenberg AFB Co: Santa Barbara CA 93437-

Landholding Agency: Air Force

Property Number: 18199740006

Status: Unutilized

Reason: Secured Area.

Bldg. 11153

Vandenberg AFB

Vandenberg AFB Co: Santa Barbara CA 93437-

Landholding Agency: Air Force

Property Number: 18199740007

Status: Unutilized

Reason: Secured Area.

Bldg. 11154

Vandenberg AFB

Vandenberg AFB Co: Santa Barbara CA 93437-

Landholding Agency: Air Force

Property Number: 18199740008

Status: Unutilized

Reasons: Secured Area; Extensive deterioration.

Bldgs. 2-11, 20-21

Edwards AFB

P-Area Housing

Edwards AFB Co: Kern CA 93524-

Landholding Agency: Air Force

Property Number: 18199810029

Status: Unutilized

Reason: Extensive deterioration.

Bldg. 1681

Vandenberg AFB

Co: Santa Barbara CA 93437-

Landholding Agency: Air Force

Property Number: 18199820003

Status: Unutilized

Reason: Secured Area; Extensive deterioration.

Bldg. 01839

Vandenberg AFB

Co: Santa Barbara CA 93437-

Landholding Agency: Air Force

Property Number: 18199820004

Status: Unutilized

Reasons: Secured Area; Extensive deterioration.

Bldg. 06519

Vandenberg AFB

Co: Santa Barbara CA 93437-

Landholding Agency: Air Force

Property Number: 18199820005

Status: Unutilized

Reasons: Secured Area; Extensive deterioration.

Bldg. 06526

Vandenberg AFB

Co: Santa Barbara CA 93437-

Landholding Agency: Air Force

Property Number: 18199820006

Status: Unutilized

Reasons: Secured Area; Extensive deterioration.

Bldg. 11167

Vandenberg AFB

Co: Santa Barbara CA 93437-

Landholding Agency: Air Force

Property Number: 18199820007

Status: Unutilized

Reasons: Secured Area; Extensive deterioration.

Bldg. 11168

Vandenberg AFB

Co: Santa Barbara CA 93437-

Landholding Agency: Air Force

Property Number: 18199820008

Status: Unutilized

Reasons: Secured Area; Extensive deterioration.

Bldg. 827

Vandenberg AFB

Vandenberg AFB Co: Santa Barbara CA 93437-

Landholding Agency: Air Force

Property Number: 18200010002

Status: Unutilized

Reasons: Secured Area; Extensive deterioration.

Bldgs. 16153 &16154

Vandenberg AFB

Vandenberg AFB Co: Santa Barbara CA 93437-

Landholding Agency: Air Force

Property Number: 18200010003

Status: Unutilized

Reasons: Secured Area; Extensive deterioration.

Bldg. 13024

Vandenberg AFB

Vandenberg AFB Co: Santa Barbara CA 93437-

Landholding Agency: Air Force

Property Number: 18200010010

Status: Unutilized

Reasons: Secured Area; Extensive deterioration.

Soil & Materials Testing Lab

Sausalito Co: CA 00000-

Landholding Agency: COE

Property Number: 31199920002

Status: Excess

Reason: Contamination.

Bldg. 4190 & Oubuilding

Yosemite National Park

Wawona Co: Mader a CA 95389-

Landholding Agency: Interior

Property Number: 61199910002

Status: Unutilized

Reason: Extensive Deterioration.

Parker Dam Govt Housing Camp

Township 2 North

San Bernardino Co: CA 92401-

Landholding Agency: Interior

Property Number: 61199930001

Status: Excess

Reason: Extensive deterioration.

Bldg. 517

NPS Maint Yard

Yosemite Nat Park Co: Mariposa CA 95389-

Landholding Agency: Interior

Property Number: 61199940009

Status: Unutilized

Reason: Extensive deterioration.

Bldg. 4159

Tract 12-135

National Park Land

Yosemite Co: Maripose CA 95389-

Landholding Agency: Interior

Property Number: 61200020003

Status: Unutilized

Reason: Extensive deterioration.

Bldg. 4160

Tract 12-135

National Park Land

Yosemite Co: Maripose CA 95389-

Landholding Agency: Interior

Property Number: 61200020004

Status: Unutilized

Reason: Extensive deterioration.

Bldg. 4161

Tract 12-135

National Park Land

Yosemite Co: Mariposa CA 95389-

Landholding Agency: Interior

Property Number: 61200020005

Status: Unutilized

Reason: Extensive deterioration.

Bldgs. 4091, 4092

Tract 08-136

National Park Land

Yosemite Co: Mariposa CA 95389-

Landholding Agency: Interior

Property Number: 61200020006

Status: Unutilized

Reason: Extensive deterioration.

Vagim House/Garage/Laundry

Tract 08-155

National Park Land

Yosemite Co: Mariposa CA 95389-

Landholding Agency: Interior

Property Number: 61200020007

Status: Unutilized

Reason: Extensive deterioration.

Bldg. 4166

Tract 05-118

National Park Land

Yosemite Co: Mariposa CA 95389-

Landholding Agency: Interior

Property Number: 61200020008

Status: Unutilized

Reason: Extensive deterioration.

Bldg. 4077

Tract 08-118

National Park Land

Yosemite Co: Mariposa CA 95389-

Landholding Agency: Interior

Property Number: 61200020009

Status: Unutilized

Reason: Extensive deterioration.

“Putnam House”

Yosemite National Park

Wawona Co: Mariposa CA 95389-

Landholding Agency: Interior

Property Number: 61200020016

Status: Unutilized

Reason: Extensive deterioration.

Bldg. 1131

Marine Corps Base

Camp Pendleton Co: CA 92055-

Landholding Agency: Navy

Property Number: 77200030025

Status: Excess

Reason: Extensive deterioration.

Bldg. 1132

Marine Corps Base

Camp Pendleton Co: CA 92055-

Landholding Agency: Navy

Property Number: 77200030026

Status: Excess

Reason: Extensive deterioration.

Bldg. 1141

Marine Corps Base

Camp Pendleton Co: CA 92055-

Landholding Agency: Navy

Property Number: 77200030027

Status: Excess

Reason: Extensive deterioration.

Bldg. 1145

Marine Corps Base

Camp Pendleton Co: CA 92055-

Landholding Agency: Navy

Property Number: 77200030028

Status: Excess

Reason: Extensive deterioration.

Bldg. 1256

Marine Corps Base

Camp Pendleton Co: CA 92055-

Landholding Agency: Navy

Property Number: 77200030029

Status: Excess

Reason: Extensive deterioration.

Bldg. 1362

Marine Corps Base

Camp Pendleton Co: CA 92055-

Landholding Agency: Navy

Property Number: 77200030030

Status: Excess

Reason: Extensive deterioration.

Bldg. 1363

Marine Corps Base

Camp Pendleton Co: CA 92055-

Landholding Agency: Navy

Property Number: 77200030031

Status: Excess

Reason: Extensive deterioration.

Bldg. 1622

Marine Corps Base

Camp Pendleton Co: CA 92055-

Landholding Agency: Navy

Property Number: 77200030032

Status: Excess

Reason: Extensive deterioration.

Bldg. 1623

Marine Corps Base

Camp Pendleton Co: CA 92055-

Landholding Agency: Navy

Property Number: 77200030033

Status: Excess

Reason: Extensive deterioration.

Bldg. 13115

Marine Corps Base

Camp Pendleton Co: CA 92055-

Landholding Agency: Navy

Property Number: 77200030034

Status: Excess

Reason: Extensive deterioration.

Bldg. 13125

Marine Corps Base

Camp Pendleton Co: CA 92055-

Landholding Agency: Navy

Property Number: 77200030035

Status: Excess

Reason: Extensive deterioration.

Bldg. 13142

Marine Corps Base

Camp Pendleton Co: CA 92055-

Landholding Agency: Navy

Property Number: 77200030036

Status: Excess

Reason: Extensive deterioration.

Bldg. 16134

Marine Corps Base

Camp Pendleton Co: CA 92055-

Landholding Agency: Navy

Property Number: 77200030037

Status: Excess

Reason: Extensive deterioration.

Bldg. 16135

Marine Corps Base

Camp Pendleton Co: CA 92055-

Landholding Agency: Navy

Property Number: 77200030038

Status: Excess

Reason: Extensive deterioration.

Bldg. 16136

Marine Corps Base

Camp Pendleton Co: CA 92055-

Landholding Agency: Navy

Property Number: 77200030039

Status: Excess

Reason: Extensive deterioration.

Bldg. 16137

Marine Corps Base

Camp Pendleton Co: CA 92055-

Landholding Agency: Navy

Property Number: 77200030040

Status: Excess

Reason: Extensive deterioration.

Bldg. 43432

Marine Corps Base

Camp Pendleton Co: CA 92055-

Landholding Agency: Navy

Property Number: 77200030041

Status: Excess

Reason: Extensive deterioration.

Bldg. 62408

Marine Corps Base

Camp Pendleton Co: CA 92055-

Landholding Agency: Navy

Property Number: 77200030042

Status: Excess

Reason: Extensive deterioration.

Bldg. 801

Naval Air Station

Point Mugu

Oxnard Co: Ventura CA 93042-5001

Landholding Agency: Navy

Property Number: 77200030043

Status: Unutilized

Reason: Extensive deterioration.

Bldg. 41

Naval Const. Battalion Ctr.

Port Hueneme Co: Ventura CA 93043-4301

Landholding Agency: Navy

Property Number: 77200030044

Status: Unutilized

Reason: Extensive deterioration.

Bldg. 103

Naval Const. Battalion Ctr.

Port Hueneme Co: Ventura CA 93043-4301

Landholding Agency: Navy

Property Number: 77200030045

Status: Unutilized

Reason: Extensive deterioration.

Bldg. 259

Naval Const. Battalion Ctr

Port Hueneme Co: Ventura CA 93043-4301

Landholding Agency: Navy

Property Number: 77200030046

Status: Unutilized

Reason: Extensive deterioration.

Bldg. 260

Naval Const. Battalion Ctr

Port Hueneme Co: Ventura CA 93043-4301

Landholding Agency: Navy

Property Number: 77200030047

Status: Unutilized

Reason: Extensive deterioration.

Bldg. 274

Naval Const. Battalion Ctr

Port Hueneme Co: Ventura CA 93043-4301

Landholding Agency: Navy

Property Number: 77200030048

Status: Unutilized

Reason: Extensive deterioration.

Bldg. 462

Naval Const. Battalion Ctr

Port Hueneme Co: Ventura CA 93043-4301

Landholding Agency: Navy

Property Number: 77200030049

Status: Unutilized

Reason: Extensive deterioration.

Bldg. 488

Naval Const. Battalion Ctr

Port Hueneme Co: Ventura CA 93043-4301

Landholding Agency: Navy

Property Number: 77200030050

Status: Unutilized

Reason: Extensive deterioration.

Bldg. 1150

Naval Const. Battalion Ctr

Port Hueneme Co: Ventura CA 93043-4301

Landholding Agency: Navy

Property Number: 77200030051

Status: Unutilized

Reason: Extensive deterioration.

Bldg. 1156

Naval Const. Battalion Ctr

Port Hueneme Co: Ventura CA 93043-4301

Landholding Agency: Navy

Property Number: 77200030052

Status: Unutilized

Reason: Extensive deterioration.

Bldg. 1275

Naval Const. Battalion Ctr

Port Hueneme Co: Ventura CA 93043-4301

Landholding Agency: Navy

Property Number: 77200030053

Status: Unutilized

Reason: Extensive deterioration.

Bldg. 1321

Naval Const. Battalion Ctr

Port Hueneme Co: Ventura CA 93043-4301

Landholding Agency: Navy

Property Number: 77200030054

Status: Unutilized

Reason: Extensive deterioration.

10 Bldg.

USCG Station Humboldt Bay

Samoa Co: Humboldt CA 95564-9999

Landholding Agency: DOT

Property Number: 87199440027

Status: Excess

Reason: Extensive deterioration

Comment: Land to be relinquished to BLM (Public Domain Land).

Bldg. T102

U.S.C.G. Training Center

Petaluma Co: Sonoma CA 94952-

Landholding Agency: DOT

Property Number: 87199830001

Status: Unutilized

Reason: Within 2000 ft. of flammable or explosive material.

Colorado

Bldg. 00910

“ Blue Barn”—Falcon Air Force Base

Falcon Co: El Paso CO 80912-

Landholding Agency: Air Force

Property Number: 18199530046

Status: Underutilized

Reason: Secured Area.

Bldg. 1007

U.S. Air Force Academy

Colorado Springs Co: El Paso CO 80814-2400

Landholding Agency: Air Force

Property Number: 18199730003

Status: Underutilized

Reason: Within 2000 ft. of flammable or explosive material; Secured Area; Extensive deterioratoin.

Bldg. 1008

U.S. Air Force Academy

Colorado Springs Co: El Paso CO 80814-2400

Landholding Agency: Air Force

Property Number: 18199730004

Status: Underutilized

Reason: Within 2000 ft. of flammable or explosive material; Secured Area; Extensive deterioration.

Bldg. 92114

U.S. Air Force Academy

Colorado Springs Co: El Paso CO 80814-2400

Landholding Agency: Air Force

Property Number: 18199730012

Status: Underutilized

Reason: Within airport runway clear zone; Secured Area.

Bldg. 7067

USAF Academy

Co: El Pasco CO 80840-

Landholding Agency: Air Force

Property Number: 18199810005

Status: Unutilized

Reason: Extensive deterioration.

Bldg. 8222

USAF Academy

Co: El Pasco CO 80840-

Landholding Agency: Air Force

Property Number: 18199810006

Status: Unutilized

Reason: Extensive deterioration.

Bldg. 9200

USAF Academy

Co: El Pasco CO 80840-

Landholding Agency: Air Force

Property Number: 18199810007

Status: Unutilized

Reason: Within airport runway clear zone; Secured Area.

Facility 9022

U.S. A.F. Academy

El Paso Co: CO 80840-2400

Landholding Agency: Air Force

Property Number: 18200010004

Status: Unutilized

Reason: Extensive deterioration.

Bldg. 34

Grand Junction Projects

Office

Grand Junction Co: Mesa CO 81503-

Landholding Agency: Energy

Property Number: 41199540001

Status: Underutilized

Reasons: Contamination; Secured Area.

Bldg. 35

Grand Junction Projects

Office

Grand Junction Co: Mesa CO 81503-

Landholding Agency: Energy

Property Number: 41199540002

Status: Underutilized

Reasons: Contamination; Secured Area.

Bldg. 36

Grand Junction Projects

Office

Grand Junction Co: Mesa CO 81503-

Landholding Agency: Energy

Property Number: 41199540003

Status: Underutilized

Reasons: Contamination; Secured Area.

Bldg. 2

Grand Junction Projects

Office

Grand Junction Co: Mesa CO 81503-

Landholding Agency: Energy

Property Number: 41199610039

Status: Unutilized

Reasons: Contamination; Secured Area.

Bldg. 7

Grand Junction Projects

Office

Grand Junction Co: Mesa CO 81503-

Landholding Agency: Energy

Property Number: 41199610040

Status: Unutilized

Reasons: Contamination; Secured Area.

Bldg. 31-A

Grand Junction Projects

Office

Grand Junction Co: Mesa CO 81503-

Landholding Agency: Energy

Property Number: 41199610041

Status: Unutilized

Reasons: Contamination; Secured Area.

Bldg. 33

Grand Junction Projects

Office

Grand Junction Co: Mesa CO 81503-

Landholding Agency: Energy

Property Number: 41199610042

Status: Unutilized

Reasons: Contamination; Secured Area.

Bldg. 727

Rocky Flats Environmental

Tech Site

Golden Co: Jefferson CO 80020-

Landholding Agency: Energy

Property Number: 41199910001

Status: Unutilized

Reasons: Within 2000 ft. of flammable or explosive material; Secured Area.

Bldg. 729

Rocky Flats Environmental Tech Site

Golden Co: Jefferson CO 80020-

Landholding Agency: Energy

Property Number: 41199910002

Status: Unutilized

Reasons: Within 2000 ft. of flammable or explosive material; Secured Area.

Bldg. 779

Rocky Flats Environmental Tech Site

Golden Co: Jefferson CO 80020-

Landholding Agency: Energy

Property Number: 41199910003

Status: Unutilized

Reasons: Within 2000 ft. of flammable or explosive material; Secured Area.

Bldg. 780

Rocky Flats Environmental Tech Site

Golden Co: Jefferson CO 80020-

Landholding Agency: Energy

Property Number: 41199910004

Status: Unutilized

Reasons: Within 2000 ft. of flammable or explosive material; Secured Area.

Bldg. 780A

Rocky Flats Environmental Tech Site

Golden Co: Jefferson CO 80020-

Landholding Agency: Energy

Property Number: 41199910005

Status: Unutilized

Reasons: Within 2000 ft. of flammable or explosive material; Secured Area.

Bldg. 780B

Rocky Flats Environmental Tech Site

Golden Co: Jefferson CO 80020-

Landholding Agency: Energy

Property Number: 41199910006

Status: Unutilized

Reasons: Within 2000 ft. of flammable or explosive material; Secured Area.

Bldg. 782

Rocky Flats Environmental Tech Site

Golden Co: Jefferson CO 80020-

Landholding Agency: Energy

Property Number: 41199910007

Status: Unutilized

Reasons: Within 2000 ft. of flammable or explosive material; Secured Area.

Bldg. 783

Rocky Flats Environmental Tech Site

Golden Co: Jefferson CO 80020-

Landholding Agency: Energy

Property Number: 41199910008

Status: Unutilized

Reasons: Within 2000 ft. of flammable or explosive material; Secured Area.

Bldg. 784(A-D)

Rocky Flats Environmental Tech Site

Golden Co: Jefferson CO 80020-

Landholding Agency: Energy

Property Number: 41199910009

Status: Unutilized

Reasons: Within 2000 ft. of flammable or explosive material; Secured Area.

Bldg. 785

Rocky Flats Environmental Tech Site

Golden Co: Jefferson CO 80020-

Landholding Agency: Energy

Property Number: 41199910010

Status: Unutilized

Reasons: Within 2000 ft. of flammable or explosive material; Secured Area.

Bldg. 786

Rocky Flats Environmental Tech Site

Golden Co: Jefferson CO 80020-

Landholding Agency: Energy

Property Number: 41199910011

Status: Unutilized

Reasons: Within 2000 ft. of flammable or explosive material; Secured Area.

Bldg. 787 (A-D)

Rocky Flats Environmental Tech Site

Golden Co: Jefferson CO 80020-

Landholding Agency: Energy

Property Number: 41199910012

Status: Unutilized

Reasons: Within 2000 ft. of flammable or explosive material; Secured Area.

Bldg. 875

Rocky Flats Environmental Tech Site

Golden Co: Jefferson CO 80020-

Landholding Agency: Energy

Property Number: 41199910013

Status: Unutilized

Reasons: Within 2000 ft. of flammable or explosive material; Secured Area.

Bldg. 880

Rocky Flats Environmental Tech Site

Golden Co: Jefferson CO 80020-

Landholding Agency: Energy

Property Number: 41199910014

Status: Unutilized

Reasons: Within 2000 ft. of flammable or explosive material; Secured Area.

Bldg. 886

Rocky Flats Environmental Tech Site

Golden Co: Jefferson CO 80020-

Landholding Agency: Energy

Property Number: 41199910015

Status: Unutilized

Reasons: Within 2000 ft. of flammable or explosive material; Secured Area.

Bldg. 308A

Rocky Flats Env. Tech Site

Golden Co: Jefferson CO 80020-

Landholding Agency: Energy

Property Number: 41199910016

Status: Unutilized

Reasons: Within 2000 ft. of flammable or explosive material; Secured Area.

Bldg. 788

Rocky Flats Env. Tech Site

Golden Co: Jefferson CO 80020-

Landholding Agency: Energy

Property Number: 41199910017

Status: Underutilized

Reasons: Within 2000 ft. of flammable or explosive material; Secured Area.

Bldg. 888

Rocky Flats Environmental Tech Site

Golden Co: Jefferson CO 80020-

Landholding Agency: Energy

Property Number: 41199930001

Status: Unutilized

Reasons: Within 2000 ft. of flammable or explosive material; Secured Area.

Bldg. 714 A/B

Rocky Flats Env. Tech Site

Golden Co: Jefferson CO 80020-

Landholding Agency: Energy

Property Number: 41199930021

Status: Underutilized

Reasons: Within 2000 ft. of flammable or explosive material; Secured Area.

Bldg. 717

Rocky Flats Env. Tech Site

Golden Co: Jefferson CO 80020-

Landholding Agency: Energy

Property Number: 41199930022

Status: Underutilized

Reasons: Within 2000 ft. of flammable or explosive material; Secured Area.

Bldg. 770

Rocky Flats Env. Tech Site

Golden Co: Jefferson CO 80020-

Landholding Agency: Energy

Property Number: 41199930023

Status: Underutilized

Reasons: Within 2000 ft. of flammable or explosive material; Secured Area.

Bldg. 771

Rocky Flats Env. Tech Site

Golden Co: Jefferson CO 80020-

Landholding Agency: Energy

Property Number: 41199930024

Status: Underutilized

Reasons: Within 2000 ft. of flammable or explosive material; Secured Area.

Bldg. 771B

Rocky Flats Env. Tech Site

Golden Co: Jefferson CO 80020-

Landholding Agency: Energy

Property Number: 41199930025

Status: Underutilized

Reasons: Within 2000 ft. of flammable or explosive material; Secured Area.

Bldg. 771C

Rocky Flats Env. Tech Site

Golden Co: Jefferson CO 80020-

Landholding Agency: Energy

Property Number: 41199930026

Status: Underutilized

Reasons: Within 2000 ft. of flammable or explosive material; Secured Area.

Bldg. 772-772A

Rocky Flats Env. Tech Site

Golden Co: Jefferson CO 80020-

Landholding Agency: Energy

Property Number: 41199930027

Status: Underutilized

Reasons: Within 2000 ft. of flammable or explosive material; Secured Area.

Bldg. 773

Rocky Flats Env. Tech Site

Golden Co: Jefferson CO 80020-

Landholding Agency: Energy

Property Number: 41199930028

Status: Underutilized

Reasons: Within 2000 ft. of flammable or explosive material; Secured Area.

Bldg. 774

Rocky Flats Env. Tech Site

Golden Co: Jefferson CO 80020-

Landholding Agency: Energy

Property Number: 41199930029

Status: Underutilized

Reasons: Within 2000 ft. of flammable or explosive material; Secured Area.

Bldg. 776

Rocky Flats Environmental Tech Site

Golden Co: Jefferson CO 80020-

Landholding Agency: Energy

Property Number: 41200010001

Status: Excess

Reasons: Within 2000 ft. of flammable or explosive material; Secured Area.

Bldg. 777

Rocky Flats Environmental Tech Site

Golden Co: Jefferson CO 80020-

Landholding Agency: Energy

Property Number: 41200010002

Status: Excess

Reasons: Within 2000 ft. of flammable or explosive material; Secured Area.

Bldg. 778

Rocky Flats Environmental Tech Site

Golden Co: Jefferson CO 80020-

Landholding Agency: Energy

Property Number: 41200010003

Status: Excess

Reasons: Within 2000 ft. of flammable or explosive material; Secured Area.

Structure 712-712A

Rocky Flats Environmental Tech Site

Golden Co: Jefferson CO 80020-

Landholding Agency: Energy

Property Number: 41200010004

Status: Excess

Reasons: Within 2000 ft. of flammable or explosive material; Secured Area.

Structure 713-713A

Rocky Flats Environmental Tech Site

Golden Co: Jefferson CO 80020-

Landholding Agency: Energy

Property Number: 41200010005

Status: Excess

Reasons: Within 2000 ft. of flammable or explosive material; Secured Area.

Structure 771 TUN

Rocky Flats Environmental Tech Site

Golden Co: Jefferson CO 80020-

Landholding Agency: 41200010006

Status: Excess

Reasons: Within 2000 ft. of flammable or explosive material; Secured Area.

Structure 776A-781

Rocky Flats Environmental Tech Site

Golden Co: Jefferson CO 80020-

Landholding Agency: Energy

Property Number: 41000010007

Status: Excess

Reasons: Within 2000 ft. of flammable or explosive material; Secured Area.

Alemeda Facility

350 S. Santa Fe Drive

Denver Co: Denver CO 80223-

Landholding Agency: DOT

Property Number: 87199010014

Status: Unutilized

Reason: Other environmental.

Comment: contamination.

Connecticut

Bldg. 13

Bradley International Airport

East Granby Co: Hartford CT 06026-9309

Landholding Agency: Air Force

Property Number: 18199640002

Status: Unutilized

Reasons: Within 2000 ft. of flammable or explosive material; Secured Area.

Bldg. 10

Bradley International Airport

East Granby Co: Hartford CT 06026-9309

Landholding Agency: Air Force

Property Number: 18199640003

Status: Unutilized

Reasons: Within 2000 ft. of flammable or explosive material; Secured Area.

Bldg. 5

Bradley International Airport

East Granby Co: Hartford CT 06026-9309

Landholding Agency: Air Force

Property Number: 18199640004

Status: Unutilized

Reason: Within 2000 ft. of flammable or explosive material.

Bldg. 4

Bradley International Airport

East Granby Co: Hartford CT 06026-9309

Landholding Agency: Air Force

Property Number: 18199640005

Status: Unutilized

Reason: Within 2000 ft. of flammable or explosive material.

Hezekiah S. Ramsdell Farm

West Thompson Lake

North Grosvenordale Co: Windham CT 06255-9801

Landholding Agency: COE

Property Number: 31199740001

Status: Unutilized

Reasons: Floodway; Extensive deterioration.

Bldgs. 25 and 26

Prospect Hill Road

Windsor Co: Hartford CT 06095-

Landholding Agency: Energy

Property Number: 41199110003

Status: Excess

Reason: Secured Area.

9 Bldgs.

Knolls Atomic Power Lab,

Windsor Site

Windsor Co: Hartford CT 06095-

Landholding Agency: Energy

Property Number: 41199540004

Status: Excess

Reason: Secured Area.

Bldg. 8, Windsor Site

Knolls Atomic Power Lab

Windsor Co: Hartford CT 06095-

Landholding Agency: Energy

Property Number: 41199830006

Status: Unutilized

Reason: Extensive deterioration.

Falkner Island Light

U.S. Coast Guard

Guilford Co: New Haven CT 06512-

Landholding Agency: DOT

Property Number: 87199240031

Status: Unutilized

Reason: Floodway.

Florida

Bldg. 1179

Patrick Air Force Base

1179 School Avenue

Co: Brevard FL 32935-

Landholding Agency: Air Force

Property Number: 18199240030

Status: Unutilized

Reasons: Extensive Deterioration; Secured Area.

Bldg. 575

Patrick Air Force Base

Co: Brevard FL 32925-

Landholding Agency: Air Force

Property Number: 18199320004

Status: Unutilized

Reasons: Within 2000 ft. of flammable or explosive material; Within airport runway clear zone; Extensive Deterioration; Secured Area.

Bldg. 921

Patrick Air Force Base

Co: Brevard FL 32925-

Landholding Agency: Air Force

Property Number: 18199430002

Status: Unutilized

Reasons: Within 2000 ft. of flammable or explosive material; Secured Area.

23 Family Housing

MacDill Auxiliary Airfield No. 1

Avon Park Co: Polk FL 33825-

Location: Include Bldgs: 448, 451 thru 470, 472 and 474

Landholding Agency: Air Force

Property Number: 18199520006

Status: Excess

Reason: Within airport runway clear zone.

Bldg. 240

MacDill Auxiliary Airfield No. 1

Avon Park Co: Polk FL 33825-

Landholding Agency: Air Force

Property Number: 18199520007

Status: Excess

Reason: Extensive deterioration.

Bldg. 307

Patrick Air Force Base

Patrick AFB Co: Brevard, FL

Landholding Agency: Air Force

Property Number: 18199710022

Status: Unutilized

Reason: Secured Area.

Bldg. 315

Patrick Air Force Base

Patrick AFB Co: Brevard, FL

Landholding Agency: Air Force

Property Number: 18199710023

Status: Unutilized

Reason: Secured Area.

Bldg. 317

Patrick Air Force Base

Patrick AFB Co: Brevard, FL

Landholding Agency: Air Force

Property Number: 18199710024

Status: Unutilized

Reasons: Secured Area; Extensive deterioration.

Bldg. 318

Patrick Air Force Base

Patrick AFB Co: Brevard, FL

Landholding Agency: Air Force

Property Number: 18199710025

Status: Unutilized

Reasons: Secured Area; Extensive deterioration.

Facility No. 1114

Cape Canaveral Air Station

Cape Canaveral AS Co: Brevard FL 32925-

Landholding Agency: Air Force

Property Number: 18199710027

Status: Unutilized

Reasons: Secured Area; Extensive deterioration.

Facility No. 10831

Cape Canaveral Air Station

Cape Canaveral AS Co: Brevard FL 32925-

Landholding Agency: Air Force

Property Number: 18199710033

Status: Unutilized

Reason: Secured Area.

Facility No. 15500

Cape Canaveral Air Station

Cape Canaveral AS Co: Brevard FL 32925-

Landholding Agency: Air Force

Property Number: 18199710037

Status: Unutilized

Reasons: Secured Area; Extensive deterioration.

Facility No. 70662

Cape Canaveral Air Station

Cape Canaveral AS Co: Brevard FL 32925-

Landholding Agency: Air Force

Property Number: 18199710037

Status: Unutilized

Reasons: Secured Area; Extensive deterioration.

Facility No. 72920

Cape Canaveral Air Station

Cape Canaveral AS Co: Brevard FL 32925-

Landholding Agency: Air Force

Property Number: 18199710038

Status: Unutilized

Reasons: Secured Area.

Bldg. 895, Eglin AFB

Eglin AFB Co: Okaloosa FL 32542-5133

Landholding Agency: Air Force

Property Number: 18199710045

Status: Unutilized

Reason: Extensive deterioration.

Fac. 09010

Cape Canaveral Air Station

Cape Canaveral Co: Brevard FL 32925-

Landholding Agency: Air Force

Property Number: 18199810008

Status: Unutilized

Reason: Secured Area.

Bldg. 744

Eglin AFB

Co: Okaloosa FL 32542-5133

Landholding Agency: Air Force

Property Number: 18199820009

Status: Unutilized

Reasons: Secured Area; Extensive deterioration.

Bldg. 3008

Eglin AFB

Co: Okaloosa FL 32542-5133

Landholding Agency: Air Force

Property Number: 18199820010

Status: Unutilized

Reasons: Secured Area; Extensive deterioration.

Bldg. 3010

Eglin AFB

Co: Okaloosa FL 32542-5133

Landholding Agency: Air Force

Property Number: 18199820011

Status: Unutilized

Reasons: Secured Area; Extensive deterioration.

Bldg. 12709

Eglin AFB

Co: Okaloosa FL 32542-5133

Landholding Agency: Air Force

Property Number: 18199820012

Status: Unutilized

Reasons: Secured Area; Extensive deterioration.

Bldg. 08807

Cape Canaveral Air Station

Co: Brevard FL 32925-

Landholding Agency: Air Force

Property Number: 18199820013

Status: Unutilized

Reason: Secured Area.

Bldg. 08809

Cape Canaveral Air Station

Co: Brevard FL 32925-

Landholding Agency: Air Force

Property Number: 18199820014

Status: Unutilized

Reasons: Secured Area; Extensive deterioration.

Bldg. 21911

Cape Canaveral Air Station

Co: Brevard FL 32925-

Landholding Agency: Air Force

Property Number: 18199820015

Status: Unutilized

Reasons: Secured Area; Extensive deterioration.

Bldg. 21914

Cape Canaveral Air Station

Co: Brevard FL 32925-

Landholding Agency: Air Force

Property Number: 18199820016

Status: Unutilized

Reasons: Secured Area; Extensive deterioration.

Bldg. 32349

Cape Canaveral Air Station

Co: Brevard FL 32925-

Landholding Agency: Air Force

Property Number: 18199820017

Status: Unutilized

Reasons: Secured Area; Extensive deterioration.

Bldg. 44608

Cape Canaveral Air Station

Co: Brevard FL 32925-

Landholding Agency: Air Force

Property Number: 18199830006

Status: Unutilized

Reasons: Within 2000 ft. of flammable or explosive material; Secured Area.

Bldg. 12577

Eglin AFB

Santa Rosa Island

Okaloosa Co: FL 32542-5133

Landholding Agency: Air Force

Property Number: 18199910001

Status: Unutilized

Reasons: Floodway; Secured Area; Extensive deterioration.

Bldg. 12576

Eglin AFB

Santa Rosa Island

Okaloosa Co: FL 32542-5133

Landholding Agency: Air Force

Property Number: 18199910002

Status: Unutilized

Reasons: Floodway; Secured Area; Extensive deterioration.

Bldg. 12534

Eglin AFB

Santa Rosa Island

Okaloosa Co: FL 32542-5133

Landholding Agency: Air Force

Property Number: 18199910003

Status: Unutilized

Reasons: Floodway; Secured Area; Extensive deterioration.

Bldg. 12533

Eglin AFB

Santa Rosa Island

Okaloosa Co: FL 32542-5133

Landholding Agency: Air Force

Property Number: 18199910004

Status: Unutilized

Reasons: Floodway; Secured Area; Extensive deterioration.

Bldg. 12528

Eglin AFB

Santa Rosa Island

Okaloosa Co: FL 32542-5133

Landholding Agency: Air Force

Property Number: 18199910005

Status: Unutilized

Reasons: Floodway; Secured Area; Extensive deterioration.

Bldg. 9281

Eglin AFB

Santa Rosa Island

Okaloosa Co: FL 32542-5133

Landholding Agency: Air Force

Property Number: 18199910006

Status: Unutilized

Reasons: Floodway; Secured Area; Extensive deterioration.

Bldg. 9280

Eglin AFB

Santa Rosa Island

Okaloosa Co: FL 32542-5133

Landholding Agency: Air Force

Property Number: 18199910007

Status: Unutilized

Reasons: Floodway; Secured Area; Extensive deterioration.

Bldg. 609

Eglin AFB

Okaloosa Co: FL 32542-5133

Landholding Agency: Air Force

Property Number: 18199910008

Status: Unutilized

Reasons: Secured Area; Extensive deterioration.

Bldg. 55152

Cape Canaveral Air Station

Brevard Co: FL 32925-

Landholding Agency: Air Force

Property Number: 18199910010

Status: Unutilized

Reason: Secured Area.

Facility 1737

Cape Canaveral Air Station

Cape Canaveral Co: Brevard FL 32907-

Landholding Agency: Air Force

Property Number: 18199920002

Status: Unutilized

Reasons: Secured Area.

Facility 5200

Cape Canaveral Air Station

Cape Canaveral Co: Brevard FL 32907-

Landholding Agency: Air Force

Property Number: 18199920003

Status: Unutilized

Reason: Secured Area.

Bldg. 1704

Eglin AFB

Eglin AFB Co: Okaloosa FL 32542-

Landholding Agency: Air Force

Property Number: 18199930007

Status: Unutilized

Reasons: Floodway; Secured Area; Extensive deterioration.

Facility 90330

Cape Canaveral Air Station

Cape Canaveral Co: Brevard FL 32907-

Landholding Agency: Air Force

Property Number: 18199940008

Status: Unutilized

Reason: Secured Area.

Bldg. 72905

Cape Canaveral AFS

Brevard Co: FL 32907-

Landholding Agency: Air Force

Property Number: 18200020006

Status: Unutilized

Reasons: Within 2000 ft. of flammable or explosive material; Secured Area.

Bldg. 62644

Cape Canaveral AFS

Brevard Co: FL 32907-

Landholding Agency: Air Force

Property Number: 18200020007

Status: Unutilized

Reasons: Within 2000 ft. of flammable or explosive material; Secured Area.

Facility 935

Patrick AFB

Patrick AFB Co: Brevard FL 32925-

Landholding Agency: Air Force

Property Number: 18200030011

Status: Unutilized

Reason: Secured Area.

Facility 990

Patrick AFB

Patrick AFB Co: FL 32925-

Landholding Agency: Air Force

Property Number: 18200030012

Status: Unutilized

Reason: Secured Area.

Bldg. #3, Recreation Cottage

USCG Station

Marathon Co: Monroe FL 33050-

Landholding Agency: DOT

Property Number: 87199210008

Status: Unutilized

Reasons: Floodway; Secured Area.

Bldg. 103, Trumbo Point

Key West Co: Monroe FL 33040-

Landholding Agency: DOT

Property Number: 87199230001

Status: Unutilized

Reasons: Floodway; Secured Area.

Exchange Building

St. Petersburg Co: Pinellas FL 33701-

Landholding Agency: DOT

Property Number: 87199410004

Status: Unutilized

Reason: Floodway.

9988 Keepers Quarters A

Cape San Blas

Port St. Joe Co: Gulf FL

Landholding Agency: DOT

Property Number: 87199440009

Status: Underutilized

Reasons: Floodway; Secured Area.

9989 Keepers Quarters B

Cape San Blas

Port St. Joe Co: Gulf FL

Landholding Agency: DOT

Property Number: 87199440010

Status: Underutilized

Reasons: Floodway; Secured Area.

9990 Bldg.

Cape San Blas

Port St. Joe Co: Gulf FL

Landholding Agency: DOT

Property Number: 87199440011

Status: Underutilized

Reasons: Floodway; Secured Area.

9991 Plant Bldg.

Cape San Blas

Port St. Joe Co: Gulf FL

Landholding Agency: DOT

Property Number: 87199440012

Status: Underutilized

Reasons: Floodway; Secured Area.

9992 Shop Bldg.

Cape San Blas

Port St. Joe Co: Gulf FL

Landholding Agency: DOT

Property Number: 87199440013

Status: Underutilized

Reasons: Floodway; Secured Area.

9993 Admin. Bldg.

Cape San Blas

Port St. Joe Co: Gulf FL

Landholding Agency: DOT

Property Number: 87199440014

Status: Underutilized

Reasons: Floodway; Secured Area.

9994 Water Pump Bldg.

Cape San Blas

Port St. Joe Co: Gulf FL

Landholding Agency: DOT

Property Number: 87199440015

Status: Underutilized

Reasons: Floodway; Secured Area.

Storage Bldg.

Cape San Blas

Port St. Joe Co: Gulf FL

Landholding Agency: DOT

Property Number: 87199440016

Status: Underutilized

Reasons: Floodway; Secured Area.

9999 Storage Bldg.

Cape San Blas

Port St. Joe Co: Gulf FL

Landholding Agency: DOT

Property Number: 87199440017

Status: Underutilized

Reasons: Floodway; Secured Area.

3 Bldgs. and Land

Peanut Island Station

Riviera Beach Co: Palm Beach FL 33419-0909

Landholding Agency: DOT

Property Number: 87199510009

Status: Unutilized

Reasons: Floodway; Secured Area.

Cape St. George Lighthouse

Co: Franklin FL 32328-

Landholding Agency: DOT

Property Number: 87199640002

Status: Unutilized

Reason: Extensive deterioration.

Georgia

Bldgs. 1180-1185

Robins AFB

Warner Robins Co: GA 31098-2207

Landholding Agency: Air Force

Property Number: 18200010005

Status: Unutilized

Reason: Extensive deterioration.

Coast Guard Station

St. Simons Island

Co: Glynn GA 31522-0577

Landholding Agency: DOT

Property Number: 87199540002

Status: Unutilized

Reason: Extensive deterioration.

Andersen South

Andersen Admin. Annex

360 housing units & a commercial structure

Mangilao GU 96923-

Landholding Agency: Air Force

Property Number: 18199840009

Status: Underutilized

Reason: Secured Area.

Hawaii

Bldgs. 16, 18, 20

Kokee AFS

Kauai Co: HI 00000-

Landholding Agency: Air Force

Property Number: 18200020005

Status: Unutilized

Reasons: Secured Area; Extensive deterioration.

Bldg. 1740

U.S. Coast Guard Air Station

Barbers Point

Honolulu Co: HI 96862-5800

Landholding Agency: DOT

Property Number: 87199910002

Status: Unutilized

Reason: Secured Area.

Idaho

Bldg 1012

Mountain Home Air Force Base

7th Avenue

(See County) Co: Elmore ID 83648-

Landholding Agency: Air Force

Property Number: 18199030004

Status: Excess

Reason: Within 2000 ft of flammable or explosive material.

Bldg. 923

Mountain Home Air Force Base

7th Avenue

(See County) Co: Elmore ID 83648-

Landholding Agency: Air Force

Property Number: 18199030005

Status: Excess

Reason: Within 2000 ft of flammable or explosive material.

Bldg. 604

Mountain Home Air Force Base

Pine Street

(See County) Co: Elmore ID 83648-

Landholding Agency: Air Force

Property Number: 18199030006

Status: Excess

Reason: Within 2000 ft of flammable or explosive material.

Bldg. 229

Mt. Home Air Force Base

1st Avenue and A Street

Mt. Home AFB Co: Elmore ID 83648-

Landholding Agency: Air Force

Property Number: 18199040857

Status: Unutilized

Reasons: Within 2000 ft. of flammable or explosive material; Within airport runway clear zone.

Bldg. 4403

Mountain Home Air Force Base

Mountain Home Co: Elmore ID 83647-

Landholding Agency: Air Force

Property Number: 18199520008

Status: Unutilized

Reason: Extensive deterioration.

Bldg. 101

Mountain Home Air Force Base

Co: Elmore ID 83648-

Landholding Agency: Air Force

Property Number: 18199840001

Status: Unutilized

Reason: Extensive deterioration.

Bldg. 105

Mountain Home Air Force

Co: Elmore ID 83648-

Landholding Agency: Air Force

Property Number: 18199840002

Status: Unutilized

Reason: Extensive deterioration.

Bldg. AFD0070

Albeni Falls Dam

Oldtown Co: Bonner ID 83822-

Landholding Agency: COE

Property Number: 31199910001

Status: Unutilized

Reason: Extensive deterioration.

Bldg. PBF-621

Idaho National Engineering Laboratory

Scoville Co: Butte ID 83415-

Landholding Agency: Energy

Property Number: 41199610001

Status: Unutilized

Reason: Secured Area.

Bldg. CPP-1609

Idaho National Engineering Laboratory

Scoville Co: Butte ID 83415-

Landholding Agency: Energy

Property Number: 41199610002

Status: Unutilized

Reason: Secured Area.

Bldg. CPP-691

Idaho National Engineering Laboratory

Scoville Co: Butte ID 83415-

Landholding Agency: Energy

Property Number: 41199610003

Status: Unutilized

Reason: Secured Area.

Bldg. CPP-625

Idaho National Engineering Laboratory

Scoville Co: Butte ID 83415-

Landholding Agency: Energy

Property Number: 41199610004

Status: Unutilized

Reason: Secured Area.

Bldg. CPP-650

Idaho National Engineering Laboratory

Scoville Co: Butte ID 83415-

Landholding Agency: Energy

Property Number: 41199610005

Status: Unutilized

Reason: Secured Area.

Bldg. CPP-608

Idaho National Engineering Laboratory

Scoville Co: Butte ID 83415-

Landholding Agency: Energy

Property Number: 41199610006

Status: Unutilized

Reason: Secured Area.

Bldg. TAN-660

Idaho National Engineering Laboratory

Scoville Co: Butte ID 83415-

Landholding Agency: Energy

Property Number: 41199610007

Status: Unutilized

Reason: Secured Area.

Bldg. TAN-636

Idaho National Engineering Laboratory

Scoville Co: Butte ID 83415-

Landholding Agency: Energy

Property Number: 41199610008

Status: Unutilized

Reason: Secured Area.

Bldg. TAN-609

Idaho National Engineering Laboratory

Scoville Co: Butte ID 83415-

Landholding Agency: Energy

Property Number: 41199610009

Status: Unutilized

Reason: Secured Area.

Bldg. TAN-670

Idaho National Engineering Laboratory

Scoville Co: Butte ID 83415-

Landholding Agency: Energy

Property Number: 41199610010

Status: Unutilized

Reason: Secured Area.

Bldg. TAN-661

Idaho National Engineering Laboratory

Scoville Co: Butte ID 83415-

Landholding Agency: Energy

Property Number: 41199610011

Status: Unutilized

Reason: Secured Area.

Bldg. TAN-657

Idaho National Engineering Laboratory

Scoville Co: Butte ID 83415-

Landholding Agency: Energy

Property Number: 41199610012

Status: Unutilized

Reason: Secured Area.

Bldg. TRA-669

Idaho National Engineering Laboratory

Scoville Co: Butte ID 83415-

Landholding Agency: Energy

Property Number: 41199610013

Status: Unutilized

Reason: Secured Area.

Bldg. TAN-637

Idaho National Engineering Laboratory

Scoville Co: Butte ID 83415-

Landholding Agency: Energy

Property Number: 41199610014

Status: Unutilized

Reason: Secured Area.

Bldg. TAN-635

Idaho National Engineering Laboratory

Scoville Co: Butte ID 83415-

Landholding Agency: Energy

Property Number: 41199610015

Status: Unutilized

Reason: Secured Area.

Bldg. TAN-638

Idaho National Engineering Laboratory

Scoville Co: Butte ID 83415-

Landholding Agency: Energy

Property Number: 41199610016

Status: Unutilized

Reason: Secured Area.

Bldg. TAN-651

Idaho National Engineering Laboratory

Scoville Co: Butte ID 83415-

Landholding Agency: Energy

Property Number: 41199610017

Status: Unutilized

Reason: Secured Area.

Bldg. TRA-673

Idaho National Engineering Laboratory

Scoville Co: Butte ID 83415-

Landholding Agency: Energy

Property Number: 41199610018

Status: Unutilized

Reason: Secured Area.

Bldg. PBF-620

Idaho National Engineering Laboratory

Scoville Co: Butte ID 83415-

Landholding Agency: Energy

Property Number: 41199610019

Status: Unutilized

Reason: Secured Area.

Bldg. PBF-616

Idaho National Engineering Laboratory

Scoville Co: Butte ID 83415-

Landholding Agency: Energy

Property Number: 41199610020

Status: Unutilized

Reason: Secured Area.

Bldg. PBF-617

Idaho National Engineering Laboratory

Scoville Co: Butte ID 83415-

Landholding Agency: Energy

Property Number: 41199610021

Status: Unutilized

Reason: Secured Area.

Bldg. PBF-619

Idaho National Engineering Laboratory

Scoville Co: Butte ID 83415-

Landholding Agency: Energy

Property Number: 41199610022

Status: Unutilized

Reason: Secured Area.

Bldg. PBF-624

Idah National Engineering Laboratory

Scoville Co: Butte ID 83415-

Landholding Agency: Energy

Property Number: 41199610023

Status: Unutilized

Reason: Secured Area.

Bldg. PBF-625

Idaho National Engineering Laboratory

Scoville Co: Butte ID 83415-

Landholding Agency: Energy

Property Number: 41199610024

Status: Unutilized

Reason: Secured Area.

Bldg. PBF-629

Idaho National Engineering Laboratory

Scoville Co: Butte ID 83415-

Landholding Agency: Energy

Property Number: 41199610025

Status: Unutilized

Reason: Secured Area.

Bldg. PBF-604

Idaho National Engineering Laboratory

Scoville Co: Butte ID 83415-

Landholding Agency: Energy

Property Number: 41199610026

Status: Unutilized

Reason: Secured Area.

Bldg. TRA-641

Idaho National Engineering Laboratory

Scoville Co: Butte ID 83415-

Landholding Agency: Energy

Property Number: 41199610034

Status: Unutilized

Reason: Secured Area.

Bldg. CF-606

Idaho National Engineering Laboratory

Scoville Co: Butte ID 83415-

Landholding Agency: Energy

Property Number: 41199610037

Status: Unutilized

Reason: Secured Area.

CF657/CF716

Idaho National Engineering Laboratory

Scoville Co: Butte ID 83415-

Landholding Agency: Energy

Property Number: 41199710005

Status: Excess

Reason: Secured Area.

TAN620/TAN656

Idaho National Engineering Laboratory

Scoville Co: Butte ID 83415-

Landholding Agency: Energy

Property Number: 41199710009

Status: Excess

Reasons: Secured Are; Extensive deterioration.

TAN 602, 631, 663, 702, 724

Idaho National Engineering Laboratory &

Environmental Lab

Test Area North

Scoville Co: Butte ID 83415-

Landholding Agency: Energy

Property Number: 41199830002

Status: Excess

Reasons: Within 2000 ft. of flammable or explosive material; Secured Area; Extensive deterioration.

8 Bldgs.

Idaho Natl Engineering & Environmental Lab

Test Reactor North

Scovile Co: Butte ID 83415-

Location: TRA 643, 644, 655, 660, 704-706, 755

Landholding Agency: Energy

Property Number: 41199830003

Status: Excess

Reasons: Within 2000 ft. of flammable or explosive material; Secured Area.

B16-703, B16-704

Idaho Natl Eng & Env Lab

Scoville Co: Butte ID 83415-

Landholding Agency: Energy

Property Number: 41200010021

Status: Excess

Reason: Extensive deterioration.

Illinois

Calumet Harbor Station

U.S. Coast Guard

Chicago Co: Cook IL

Landholding Agency: DOT

Property Number: 87199310005

Status: Excess

Reason: Secured Area.

Indiana

Brookville Lake—Bldg.

Brownsville Rd. in Union

Liberty Co: Union IN 47353-

Landholding Agency: COE

Property Number: 31199440004

Status: Excess

Reason: Extensive deterioration.

Bldg. 21, VA Medical Center

East 38th Street

Marion Co: Grant IN 46952-

Landholding Agency: VA

Property Number: 97199230001

Status: Excess

Reason: Extensive deterioration.

Bldg. 22, VA Medical Center

East 38th Street

Marion Co: Grant IN 46952-

Landholding Agency: VA

Property Number: 97199230002

Status: Excess

Reason: Extensive deterioration.

Bldg. 62, VA Medical Center

East 38th Street

Marion Co: Grant IN 46952-

Landholding Agency: VA

Property Number: 97199230003

Status: Excess

Reason: Extensive deterioration.

Iowa

Bldg. 00671

Sioux Gateway Airport

Sioux Co: Woodbury IA 51110-

Landholding Agency: Air Force

Property Number: 18199310009

Status: Unutilized

Reason: Fuel pump station.

Bldg. 00736

Sioux Gateway Airport

Sioux Co: Woodbury IA 51110-

Landholding Agency: Air Force

Property Number: 18199310010

Status: Unutilized

Reason: Pump station.

House, Tract 100

Camp Dodge

Johnston Co: Polk IA 50131-

Landholding Agency: COE

Property Number: 31199530002

Status: Excess

Reason: Extensive deterioration.

Play House, Tract 100

Camp Dodge

Johnston Co: Polk IA 50131-

Landholding Agency: COE

Property Number: 31199530003

Status: Excess

Reason: Extensive deterioration.

House, Tract 122

Camp Dodge

Johnston Co: Polk IA 50131-

Landholding Agency: COE

Property Number: 31199530004

Status: Excess

Reason: Extensive deterioration.

Shed, Tract 122

Camp Dodge

Johnston Co: Polk IA 50131-

Landholding Agency: COE

Property Number: 3119950005

Status: Excess

Reason: Extensive deterioration.

Garage, Tract 122

Camp Dodge

Johnston Co: Polk IA 50131-

Landholding Agency: COE

Property Number: 31199530006

Status: Excess

Reason: Extensive deterioration.

Machine Shed, Tract 122

Camp Dodge

Johnston Co: Polk IA 50131-

Landholding Agency: COE

Property Number: 31199530007

Status: Excess

Reason: Extensive deterioration.

Barn, Tract 122

Camp Dodge

Johnston Co: Polk IA 50131-

Landholding Agency: COE

Property Number: 31199530008

Status: Excess

Reason: Extensive deterioration.

2-Car Garage, Tract 122

Camp Dodge

Johnston Co: Polk IA 50131-

Landholding Agency: COE

Property Number: 31199530009

Status: Excess

Reason: Extensive deterioration.

Barn, Tract 128

Camp Dodge

Johnston Co: Polk IA 50131-

Landholding Agency: COE

Property Number: 31199530010

Status: Excess

Reason: Extensive deterioration.

Shed, Tract 128

Camp Dodge

Johnston Co: Polk IA 50131-

Landholding Agency: COE

Property Number: 31199530011

Status: Excess

Reason; Extensive deterioration.

House, Tract 129

Camp Dodge

Johnston Co: Polk IA 50131-

Landholding Agency: COE

Property Number: 31199530012

Status: Excess

Reason; Extensive deterioration.

Play House, Tract 129

Camp Dodge

Johnston Co: Polk IA 50131-

Landholding Agency: COE

Property Number: 31199530013

Status: Excess

Reason; Extensive deterioration.

Kennel, Tract 129

Camp Dodge

Johnston Co: Polk IA 50131-

Landholding Agency: COE

Property Number: 31199530014

Status: Excess

Reason; Extensive deterioration.

Corn Crib, Tract 129

Camp Dodge

Johnston Co: Polk IA 50131-

Landholding Agency: COE

Property Number: 31199530015

Status: Excess

Reason; Extensive deterioration.

Barn W, Tract 129

Camp Dodge

Johnston Co: Polk IA 50131-

Landholding Agency: COE

Property Number: 31199530016

Status: Excess

Reason; Extensive deterioration.

Barn E, Tract 129

Camp Dodge

Johnston Co: Polk IA 50131-

Landholding Agency: COE

Property Number: 31199530017

Status: Excess

Reason; Extensive deterioration.

Shed, Tract 129

Camp Dodge

Johnston Co: Polk IA 50131-

Landholding Agency: COE

Property Number: 31199530018

Status: Excess

Reason; Extensive deterioration.

House, Tract 130

Camp Dodge

Johnston Co: Polk IA 50131-

Landholding Agency: COE

Property Number: 31199530019

Status: Excess

Reason; Extensive deterioration.

Out House, Tract 130

Camp Dodge

Johnston Co: Polk IA 50131-

Landholding Agency: COE

Property Number: 31199530020

Status: Excess

Reason: Extensive deterioration.

Chicken House, Tract 130

Camp Dodge

Johnston Co: Polk IA 50131-

Landholding Agency: COE

Property Number: 31199530021

Status: Excess

Reason: Extensive deterioration.

Shed, Tract 130

Camp Dodge

Johnston Co: Polk IA 50131-

Landholding Agency: COE

Property Number: 31199530022

Status: Excess

Reason: Extensive deterioration.

Barn, Tract 135

Camp Dodge

Johnston Co: Polk IA 50131-

Landholding Agency: COE

Property Number: 31199530023

Status: Excess

Reason: Extensive deterioration.

Smokehouse, Tract 135

Camp Dodge

Johnston Co: Polk IA 50131-

Landholding Agency: COE

Property Number: 31199530024

Status: Excess

Reason: Extensive deterioration.

Shed, Tract 137

Camp Dodge

Johnston Co: Polk IA 50131-

Landholding Agency: COE

Property Number: 31199530025

Status: Excess

Reason: Extensive deterioration.

Shed—White, Tract 137

Camp Dodge

Johnston Co: Polk IA 50131-

Landholding Agency: COE

Property Number: 31199530026

Status: Excess

Reason: Extensive deterioration.

Leanto, Tract 137

Camp Dodge

Johnston Co: Polk IA 50131-

Landholding Agency: COE

Property Number: 31199530027

Status: Excess

Reason: Extensive deterioration.

Tract 116, Camp Dodge

Johnston Co: Polk IA 50131-

Landholding Agency: COE

Property Number: 31199630006

Status: Unutilized

Reason: Extensive deterioration.

Kansas

Bldg. 2703

Forbes Field

Topeka KS

Landholding Agency: Air Force

Property Number: 18199820018

Status: Unutilized

Reason: Extensive deterioration.

Kentucky

Spring House

Kentucky River Lock and Dam No. 1

Highway 320

Carrollton Co: Carroll KY 41008-

Landholding Agency: COE

Property Number: 21199040416

Status: Unutilized

Reason: Spring House.

Building

Kentucky River Lock and Dam No. 4

1021 Kentucky Avenue

Frankfort Co: Franklin KY 40601-9999

Landholding Agency: COE

Property Number: 21199040417

Status: Unutilized

Reason: Coal Storage.

Building

Kentucky River Lock and Dam No. 4

1021 Kentucky Avenue

Frankfort Co: Franklin KY 40601-9999

Landholding Agency: COE

Property Number: 21199040418

Status: Unutilized

Reason: Coal Storage.

Barn

Kentucky River Lock and Dam No. 3

Highway 561

Pleasureville Co: Henry KY 40057-

Landholding Agency: COE

Property Number: 21199040419

Status: Underutilized

Reason: Extensive deterioration.

Latrine

Kentucky River Lock and Dam No. 3

Highway 561

Pleasureville Co: Henry KY 40057-

Landholding Agency: COE

Property Number: 31199040009

Status: Unutilized

Reason: Detached Latrine.

6-Room Dwelling

Green River Lock and Dam No. 3

Rochester Co: Butler KY 42273-

Location: Off State Hwy 369, which runs off of Western Ky. Parkway

Landholding Agency: COE

Property Number: 31199120010

Status: Unutilized

Reason: Floodway.

2-Car Garage

Green River Lock and Dam No. 3

Rochester Co: Butler KY 42273-

Location: Off State Hwy 369, which runs off of Western Ky. Parkway

Landholding Agency: COE

Property Number: 31199120011

Status: Unutilized

Reason: Floodway.

Office and Warehouse

Green River Lock and Dam No. 3

Rochester Co: Butler KY 42273-

Location: Off State Hwy 369, which runs off of Western Ky. Parkway

Landholding Agency: COE

Property Number: 31199120012

Status: Unutilized

Reason: Floodway.

2 Pit Toilets

Green River Lock and Dam No. 3

Rochester Co: Butler KY 42273-

Landholding Agency: COE

Property Number: 31199120013

Status: Unutilized

Reason: Floodway.

Louisiana

Bldg. 3477

Barksdale Air Force Base

Davis Avenue

Barksdale AFB Co: Bossier LA 71110-5000

Landholding Agency: Air Force

Property Number: 18199140015

Status: Unutilized

Reason: Secured Area.

Weeks Island Facility

New Iberia Co: Iberia Parish LA 70560-

Landholding Agency: Energy

Property Number: 41199610038

Status: Underutilized

Reason: Secured Area.

Maine

Supply Bldg., Coast Guard

Southwest Harbor

Southwest Harbor Co: Hancock ME 04679-5000

Landholding Agency: DOT

Property Number: 87199240005

Status: Unutilized

Reason: Floodway.

Base Exchange, Coast Guard

Southwest Harbor

Southwest Harbor Co: Hancock ME 04679-5000

Landholding Agency: DOT

Property Number: 87199240006

Status: Unutilized

Reason: Floodway.

Engineering Shop, Coast Guard

Southwest Harbor

Southwest Harbor Co: Hancock ME 04679-5000

Landholding Agency: DOT

Property Number: 87199240007

Status: Unutilized

Reason: Floodway.

Storage Bldg., Coast Guard

Southwest Harbor

Southwest Harbor Co: Hancock ME 04679-5000

Landholding Agency: DOT

Property Number: 87199240008

Status: Unutilized

Reason: Floodway.

Squirrel Point Light

U.S. Coast Guard

Phippsburg Co: Sayadahoc ME 04530-

Landholding Agency: DOT

Property Number: 87199240032

Status: Unutilized

Reason: Floodway.

Keepers Dwelling

Heron Neck Light, U.S. Coast Guard

Vinalhaven Co: Knox ME 04841-

Landholding Agency: DOT

Property Number: 87199240035

Status: Unutilized

Reason: Extensive deterioration.

Fort Popham Light

Phippsburg Co: Sagadahoc ME 04562-

Landholding Agency: DOT

Property Number: 87199320024

Status: Unutilized

Reasons: Extensive deterioration.

Nash Island Light

U.S. Coast Guard

Addison Co: Washington ME 04606-

Landholding Agency: DOT

Property Number: 87199420005

Status: Unutilized

Reasons: Inaccessible.

Bldg.—South Portland Base

U.S. Coast Guard

S. Portland Co: Cumberland ME 04106-

Landholding Agency: DOT

Property Number: 87199420006

Status: Unutilized

Reasons: Secured Area.

Garage—Boothbay Harbor Stat.

Bootbay Harbor Co: Lincoln ME 04538-

Landholding Agency: DOT

Property Number: 87199430001

Status: Unutilized

Reasons: Secured Area.

Maryland

Bldg. 3542

Andrews AFB

Andrews AFB MD 20652-25177

Landholding Agency: Air Force

Property Number: 18199810010

Status: Unutilized

Reasons: Secured Area.

Bldg. 3543

Andrews AFB

Andrews AFB MD 20652-25177

Landholding Agency: Air Force

Property Number: 18199810011

Status: Unutilized

Reasons: Secured Area.

7 Bldgs.

Davidsonville Family Housing Annex

300, 301, 303, 305, 308, 309, 311

Davidsonville Co: Anne Arundel MD 20755-

Landholding Agency: Air Force

Property Number: 18199910011

Status: Unutilized

Reasons: Extensive deterioration.

8 Bldgs.

Davidsonville Family Housing Annex

302, 306, 307, 310, 312-315

Davidsonville Co: Anne Arundel MD 20755-

Landholding Agency: Air Force

Property Number: 18199910012

Status: Unutilized

Reasons: Extensive deterioration.

Bldgs. 38-39, 41, 43-46, 56

U.S. Coast Guard Yard

Baltimore MD 21226-

Landholding Agency: DOT

Property Number: 87199540005

Status: Unutilized

Reasons: Within 2000 ft. of flammable or explosive material; Secured Area; Extensive deterioration.

Bldg. 53

U.S. Coast Guard Yard

Baltimore MD 21226-

Landholding Agency: DOT

Property Number: 87199540006

Status: Unutilized

Reasons: Within 2000 ft. of flammable or explosive material; Secured Area; Extensive deterioration.

Bldg. 6

U.S. Coast Guard Yard, 2401 Hawkins Point Rd.

Baltimore MD 21226-1797

Landholding Agency: DOT

Property Number: 87199620001

Status: Excess

Reasons: Within 2000 ft. of flammable or explosive material; Secured Area.

Bldg. 59

U.S. Coast Guard Yard, 2401 Hawkins Point Rd.

Baltimore MD 21226-1797

Landholding Agency: DOT

Property Number: 87199620002

Status: Excess

Reasons: Within 2000 ft. of flammable or explosive material; Secured Area.

Massachusetts

Bldg. 110

Otis Air National Guard

Otis Co: MA 02542-5028

Landholding Agency: Air Force

Property Number: 18199940009

Status: Unutilized

Reason: Secured Area.

Petricca House

97 North Great Road

Lincoln Co: Middlesex MA 01773-

Landholding Agency: Interior

Property Number: 61200020010

Status: Unutilized

Reason: Extensive deterioration.

Willow Pond Kitchen

751 Lexington Road

Concord Co: Middlesex MA 01742-

Landholding Agency: Interior

Property Number: 61200020017

Status: Unutilized

Reason: Extensive deterioration.

Schlberg House

44 Virginia Road

Lincoln Co: Middlesex MA 00000-

Landholding Agency: Interior

Property Number: 61200020018

Status: Unutilized

Reason: Extensive deterioration.

Nelson House

47 Virginia Road

Lincoln Co: Middlesex MA 00000-

Landholding Agency: Interior

Property Number: 61200020019

Status: Unutilized

Reason: Extensive deterioration.

Bldg. 4, USCG Support Center

Commercial Street

Boston Co: Suffolk MA 02203-

Landholding Agency: DOT

Property Number: 87199240001

Status: Underutilized

Reason: Secured Area.

Eastern Point Light

U.S. Coast Guard

Gloucester Co: Essex MA 01930-

Landholding Agency: DOT

Property Number: 87199240029

Status: Unutilized

Reasons: Floodway; Secured Area.

Storage Shed

Highland Light

N. Truro Co: Barnstable MA 02652-

Location: Desoto Johnson KS 66018-

Landholding Agency: DOT

Property Number: 87199430004

Status: Unutilized

Reason: Extensive deterioration.

Westview Street Wells

Lexington Co: MA 02173-

Landholding Agency: VA

Property Number: 97199920001

Status: Unutilized

Reasons: Extensive deterioration.

Michigan

Bldg. 71

Calumet Air Force Station

Calumet Co: Keweenaw MI 49913-

Landholding Agency: Air Force

Property Number: 18199010810

Status: Excess

Reason: Sewage treatment and disposal facility.

Bldg. 99 (WATER WELL)

Calumet Air Force Station

Calumet Co: Keweenaw MI 49913-

Landholding Agency: Air Force

Property Number: 18199010831

Status: Excess

Reason: Water well.

Bldg. 100 (WATER WELL)

Calumet Air Force Station

Calumet Co: Keweenaw MI 49913-

Landholding Agency: Air Force

Property Number: 18199010832

Status: Excess

Reason: Water well.

Bldg. 118

Calumet Air Force Station

Calumet Co: Keweenaw MI 49913-

Landholding Agency: Air Force

Property Number: 18199010875

Status: Excess

Reason: Gasoline Station.

Bldg. 120

Calumet Air Force Station

Calumet Co: Keweenaw MI 49913-

Landholding Agency: Air Force

Property Number: 18199010876

Status: Excess

Reason: Gasoline Station.

Bldg. 166

Calumet Air Force Station

Calumet Co: Keweenaw MI 49913-

Landholding Agency: Air Force

Property Number: 18199010877

Status: Excess

Reason: Pump lift station.

Bldg. 168

Calumet Air Force Station

Calumet Co: Keweenaw MI 49913-

Landholding Agency: Air Force

Property Number: 18199010878

Status: Excess

Reason: Gasoline station.

Bldg. 69

Calumet Air Force Station

Calumet Co: Keweenaw MI 49913-

Landholding Agency: Air Force

Property Number: 18199010889

Status: Excess

Reason: Sewer pump facility.

Bldg. 2

Calumet Air Force Station

Calumet Co: Keweenaw MI 49913-

Landholding Agency: Air Force

Property Number: 18199010890

Status: Excess

Reason: Water pump station.

Facility 20

Selfridge AFB

Mt. Clemens Co: Macomb MI 48045-5295

Landholding Agency: Air Force

Property Number: 18199630001

Status: Unutilized

Reasons: Within 2000 ft. of flammable or explosive material; Secured Area.

Facility 21

Selfridge AFB

Mt. Clemens Co: Macomb MI 48045-5295

Landholding Agency: Air Force

Property Number: 18199630002

Status: Unutilized

Reasons: Within 2000 ft. of flammable or explosive material; Secured Area.

Facility 30

Selfridge AFB

Mt. Clemens Co: Macomb MI 48045-5295

Landholding Agency: Air Force

Property Number: 18199630003

Status: Unutilized

Reasons: Within 2000 ft. of flammable or explosive material; Secured Area.

Facility 98

Selfridge AFB

Mt. Clemens Co: Macomb MI 48045-5295

Landholding Agency: Air Force

Property Number: 18199630004

Status: Unutilized

Reasons: Within 2000 ft. of flammable or explosive material; Secured Area.

Facility 103

Selfridge AFB

Mt. Clemens Co: Macomb MI 48045-5295

Landholding Agency: Air Force

Property Number: 18199630005

Status: Unutilized

Reasons: Within 2000 ft. of flammable or explosive material; Secured Area.

Facility 116

Selfridge AFB

Mt. Clemens Co: Macomb MI 48045-5295

Landholding Agency: Air Force

Property Number: 18199630006

Status: Unutilized

Reasons: Within 2000 ft. of flammable or explosive material; Secured Area.

Facility 129

Selfridge AFB

Mt. Clemens Co: Macomb MI 48045-5295

Landholding Agency: Air Force

Property Number: 18199630007

Status: Unutilized

Reasons: Within 2000 ft. of flammable or explosive material; Secured Area.

Facility 152

Selfridge AFB

Mt. Clemens Co: Macomb MI 48045-5295

Landholding Agency: Air Force

Property Number: 18199630008

Status: Unutilized

Reasons: Within 2000 ft. of flammable or explosive material; Secured Area.

Facility 156

Selfridge AFB

Mt. Clemens Co: Macomb MI 48045-5295

Landholding Agency: Air Force

Property Number: 18199630009

Status: Unutilized

Reasons: Within 2000 ft. of flammable or explosive material; Secured Area.

Facility 181

Selfridge AFB

Mt. Clemens Co: Macomb MI 48045-5295

Landholding Agency: Air Force

Property Number: 18199630010

Status: Unutilized

Reasons: Within 2000 ft. of flammable or explosive material; Secured Area.

Facility 509

Selfridge AFB

Mt. Clemens Co: Macomb MI 48045-5295

Landholding Agency: Air Force

Property Number: 18199630011

Status: Unutilized

Reasons: Within 2000 ft. of flammable or explosive material; Secured Area.

Facility 562

Selfridge AFB

Mt. Clemens Co: Macomb MI 48045-5295

Landholding Agency: Air Force

Property Number: 18199630012

Status: Unutilized

Reasons: Within 2000 ft. of flammable or explosive material; Secured Area.

Facility 573

Selfridge AFB

Mt. Clemens Co: Macomb MI 48045-5295

Landholding Agency: Air Force

Property Number: 18199630013

Status: Unutilized

Reasons: Secured Area.

Facility 801

Selfridge AFB

Mt. Clemens Co: Macomb MI 48045-5295

Landholding Agency: Air Force

Property Number: 18199630014

Status: Unutilized

Reasons: Within 2000 ft. of flammable or explosive material; Secured Area.

Facility 827

Selfridge AFB

Mt. Clemens Co: Macomb MI 48045-5295

Landholding Agency: Air Force

Property Number: 18199630015

Status: Unutilized

Reasons: Within 2000 ft. of flammable or explosive material; Secured Area.

Facility 832

Selfridge AFB

Mt. Clemens Co: Macomb MI 48045-5295

Landholding Agency: Air Force

Property Number: 18199630016

Status: Unutilized

Reasons: Within 2000 ft. of flammable or explosive material; Secured Area.

Facility 833

Selfridge AFB

Mt. Clemens Co: Macomb MI 48045-5295

Landholding Agency: Air Force

Property Number: 18199630017

Status: Unutilized

Reasons: Within 2000 ft. of flammable or explosive material; Secured Area.

Facility 1005

Selfridge AFB

Mt. Clemens Co: Macomb MI 48045-5295

Landholding Agency: Air Force

Property Number: 18199630018

Status: Unutilized

Reasons: Secured Area.

Facility 1012

Selfridge AFB

Mt. Clemens Co: Macomb MI 48045-5295

Landholding Agency: Air Force

Property Number: 18199630019

Status: Unutilized

Reasons: Secured Area.

Facility 1017

Selfridge AFB

Mt. Clemens Co: Macomb MI 48045-5295

Landholding Agency: Air Force

Property Number: 18199630020

Status: Unutilized

Reasons: Secured Area.

Facility 1025

Selfridge AFB

Mt. Clemens Co: Macomb MI 48045-5295

Landholding Agency: Air Force

Property Number: 18199630021

Status: Unutilized

Reasons: Secured Area.

Facility 1031

Selfridge AFB

Mt. Clemens Co: Macomb MI 48045-5295

Landholding Agency: Air Force

Property Number: 18199630022

Status: Unutilized

Reasons: Secured Area.

Facility 1041

Selfridge AFB

Mt. Clemens Co: Macomb MI 48045-5295

Landholding Agency: Air Force

Property Number: 18199630023

Status: Unutilized

Reasons: Within 2000 ft. of flammable or explosive material; Secured Area.

Facility 1445

Selfridge AFB

Mt. Clemens Co: Macomb MI 48045-5295

Landholding Agency: Air Force

Property Number: 18199630024

Status: Unutilized

Reasons: Within 2000 ft. of flammable or explosive material; Secured Area.

Facility 1514

Selfridge AFB

Mt. Clemens Co: Macomb MI 48045-5295

Landholding Agency: Air Force

Property Number: 18199630025

Status: Unutilized

Reason: Secured Area.

Facility 1575

Selfridge AFB

Mt. Clemens Co: Macomb MI 48045-5295

Landholding Agency: Air Force

Property Number: 18199630026

Status: Unutilized

Reasons: Within 2000 ft of flammable or explosive material; Secured Area.

Facility 1576

Selfridge AFB

Mt. Clemens Co: Macomb MI 48045-5295

Landholding Agency: Air Force

Property Number: 18199630027

Status: Unutilized

Reasons: Within 2000 ft. of flammable or explosive material; Secured Area.

Facility 1578

Selfridge AFB

Mt. Clemens Co: Macomb MI 48045-5295

Landholding Agency: Air Force

Property Number: 18199630028

Status: Unutilized

Reasons: Within 2000 ft. of flammable or explosive material; Secured Area.

Facility 1580

Selfridge AFB

Mt. Clemens Co: Macomb MI 48045-5295

Landholding Agency: Air Force

Property Number: 18199630029

Status: Unutilized

Reasons: Within 2000 ft. of flammable or explosive material; Secured Area.

Facility 1582

Selfridge AFB

Mt. Clemens Co: Macomb MI 48045-5295

Landholding Agency: Air Force

Property Number: 18199630030

Status: Unutilized

Reasons: Within 2000 ft. of flammable or explosive material; Secured Area.

Facility 1583

Selfridge AFB

Mt. Clemens Co: Macomb MI 48045-5295

Landholding Agency: Air Force

Property Number: 18199630031

Status: Unutilized

Reasons: Within 2000 ft. of flammable or explosive material; Secured Area.

Facility 1584

Selfridge AFB

Mt. Clemens Co: Macomb MI 48045-5295

Landholding Agency: Air Force

Property Number: 18199630032

Status: Unutilized

Reasons: Within 2000 ft. of flammable or explosive material; Secured Area.

Facility 1585

Selfridge AFB

Mt. Clemens Co: Macomb MI 48045-5295

Landholding Agency: Air Force

Property Number: 18199630033

Status: Unutilized

Reason: Secured Area.

Facilities 246, 248, 252-254

Selfridge Air National Guard

Mt. Clemens Co: Macomb MI 48045-5295

Landholding Agency: Air Force

Property Number: 18199710039

Status: Unutilized

Reasons: Within 2000 ft. of flammable or explosive material; Secured Area.

7 Facilities

Selfridge Air National Guard

#240, 242, 244, 245, 247, 250, 251

Mt. Clemens Co: Macomb MI 48045-5295

Landholding Agency: Air Force

Property Number: 18199710040

Status: Unutilized

Reasons: Within 2000 ft. of flammable or explosive material; Secured Area.

Facilities 237, 238

Selfridge Air National Guard

Mt. Clemens Co: Macomb MI 48045-5295

Landholding Agency: Air Force

Property Number: 18199710041

Status: Unutilized

Reasons: Within 2000 ft. of flammable or explosive material; Secured Area.

5 Facilities

Selfridge Air National Guard

#228, 230, 232, 234, 236

Mt. Clemens Co: Macomb MI 48045-5295

Landholding Agency: Air Force

Property Number: 18199710042

Status: Unutilized

Reasons: Within 2000 ft. of flammable or explosive material; Secured Area.

Facility 114

Selfridge Air National Guard

Mt. Clemens Co: Macomb MI 48045-5295

Landholding Agency: Air Force

Property Number: 18199710043

Status: Unutilized

Reasons: Within 2000 ft. of flammable or explosive material; Secured Area.

Bldg. 114

Alpena CRTC

Alpena Co: MI 49707-

Landholding Agency: Air Force

Property Number: 18199930009

Status: Unutilized

Reason: Secured Area.

Bldg. 318

Alpena CRTC

Alpena Co: MI 49707-

Landholding Agency: Air Force

Property Number: 18199930010

Status: Unutilized

Reason: Secured Area.

Minnesota

Bldg.

Upper St. Anthony Falls

Minneapolis Co: Hennepin MN 55440-

Landholding Agency: COE

Property Number: 31199930001

Status: Unutilized

Reason: Extensive deterioration.

Dwelling

Mississippi Hdqts Leech Lake Proj.

Federal Dam Co: Cass MN 56641-

Landholding Agency: COE

Property Number: 31200020002

Status: Unutilized

Reason: Extensive deterioration.

Garage 1

Mississippi Hdqts Leech Lake Proj.

Federal Dam Co: Cass MN 56641-

Landholding Agency: COE

Property Number: 31200020003

Status: Unutilized

Reason: Extensive deterioration.

Garage 2

Mississippi Hdqts Leech Lake Proj.

Federal Dam Co: Cass MN 56641-

Landholding Agency: COE

Property Number: 31200020004

Status: Unutilized

Reason: Extensive deterioration.

Mississippi

Natchez Moorings

82 L.E. Berry Road

Natchez Co: Adams MS 39121-

Landholding Agency: DOT

Property Number: 87199340002

Status: Unutilized

Reason: Extensive deterioration.

Bldg. 6, Boiler Plant

Biloxi VA Medical Center

Biloxi Co: Harrison MS 39531-

Landholding Agency: VA

Property Number: 97199410001

Status: Unutilized

Reason: Floodway.

Bldg. 67

Biloxi VA Medical Center

Biloxi Co: Harrison MS 39531-

Landholding Agency: VA

Property Number: 97199410008

Status: Unutilized

Reason: Extensive deterioration.

Bldg. 68

Biloxi VA Medical Center

Biloxi Co: Harrison MS 39531-

Landholding Agency: VA

Property Number: 97199410009

Status: Unutilized

Reason: Extensive deterioration.

Montana

Bldg. 23

Great Falls ANG Station

Great Falls Co: Cascade MT 59404-

Landholding Agency: Air Force

Property Number: 18199720030

Status: Excess

Reasons: Within 2000 ft. of flammable or explosive material; Secured Area.

Bldg. 24

Great Falls ANG Station

Great Falls Co: Cascade MT 59404-

Landholding Agency: Air Force

Property Number: 18199720031

Status: Excess

Reasons: Within 2000 ft. of flammable or explosive material; Secured Area.

Bldg. 35

Great Falls ANG Station

Great Falls Co: Cascade MT 59404-

Landholding Agency: Air Force

Property Number: 18199720033

Status: Excess

Reasons: Within 2000 ft. of flammable or explosive material; Secured Area.

Bldg. 22

Great Falls IAP

Great Falls Co: Cascade MT 59404-5570

Landholding Agency: Air Force

Property Number: 18199820019

Status: Underutilized

Reasons: Within 2000 ft. of flammable or explosive material; Secured Area.

Bldg. 803

Malmstrom AFB

Co: Cascade MT 59402-

Landholding Agency: Air Force

Property Number: 18199840003

Status: Unutilized

Reasons: Within 2000 ft. of flammable or explosive material; Secured Area.

Bldg. 1846

Malmstrom AFB

Co: Cascade MT 59402-

Landholding Agency: Air Force

Property Number: 18199840005

Status: Unutilized

Reasons: Within 2000 ft. of flammable or explosive material; Secured Area.

Bldgs. 920, 1242

Malmstrom AFB

Co: Cascade MT 59402-

Landholding Agency: Air Force

Property Number: 18199840006

Status: Unutilized

Reason: Secured Area.

Bldg. 1411

Malmstrom AFB

Malmstrom AFB Co: Cascade MT 59402-

Landholding Agency: Air Force

Property Number: 18200030015

Status: Unutilized

Reasons: Within 2000 ft. of flammable or explosive material; Secured Area; Extensive deterioration.

Barn/Garage

316 N. 26th Street

Billings Co: Yellowstone MT

Landholding Agency: Interior

Property Number: 61199520022

Status: Excess

Reason: Extensive deterioration.

Nebraska

Offutt Communications Annex-#3

Offutt Air Force Base

Scribner Co: Dodge NE 68031-

Landholding Agency: Air Force

Property Number: 18199210006

Status: Unutilized

Reason: Former sewage lagoon.

Bldg. 637

Lincoln Municipal Airport

2301 West Adams

Lincoln Co: Lancaster NE 68524-

Landholding Agency: Air Force

Property Number: 18199230021

Status: Unutilized

Reasons: Extensive deterioration.

Bldg. 639

Lincoln Municipal Airport

2301 West Adams

Lincoln Co: Lancaster NE 68524-

Landholding Agency: Air Force

Property Number: 18199230022

Status: Unutilized

Reasons: Extensive deterioration.

Bldg. 31

Offutt Air Force Base

Sac Boulevard

Offutt Co: Sarpy NE 68113-

Landholding Agency: Air Force

Property Number: 18199240007

Status: Unutilized

Reason: Secured Area.

Bldg. 311

Offutt Air Force Base

Nelson Drive

Offutt Co: Sarpy NE 68113-

Landholding Agency: Air Force

Property Number: 18199240008

Status: Unutilized

Reason: Secured Area.

Bldg. 401

Offutt Air Force Base

Custer Drive

Offutt Co: Sarpy NE 68113-

Landholding Agency: Air Force

Property Number: 18199240009

Status: Unutilized

Reason: Secured Area.

Bldg. 416

Offutt Air Force Base

Sherman Turnpike

Offutt Co: Sarpy NE 68113-

Landholding Agency: Air Force

Property Number: 18199240010

Status: Unutilized

Reason: Secured Area.

Bldg. 417

Offutt Air Force Base

Sherman Turnpike

Offutt Co: Sarpy NE 68113-

Landholding Agency: Air Force

Property Number: 18199240011

Status: Unutilized

Reason: Secured Area.

Bldg. 545

Offutt Air Force Base

Offutt Co: Sarpy NE 68113-

Landholding Agency: Air Force

Property Number: 18199240012

Status: Unutilized

Reason: Secured Area.

Bldg. 21

Hastings Radar Bomb Scoring Site

Hastings Co: Adams NE 68901-

Landholding Agency: Air Force

Property Number: 18199320058

Status: Excess

Reason: Generator.

Bldg. 4, Hastings Family Hsg.

Hastings Radar Bomb Scoring Site

Hastings Co: Adams NE 68901-

Landholding Agency: Air Force

Property Number: 18199320059

Status: Excess

Reason: Contamination.

Bldg. 500

Hastings Family Housing

Hastings Radar Bomb Scoring Site

Hastings Co: Adams NE 68901-

Landholding Agency: Air Force

Property Number: 18199320060

Status: Excess

Reason: Contamination.

Bldg. 502

Hastings Family Housing

Hastings Radar Bomb Scoring Site

Hastings Co: Adams NE 68901-

Landholding Agency: Air Force

Property Number: 18199320061

Status: Excess

Reason: Contamination.

Bldg. 504

Hastings Family Housing

Hastings Radar Bomb Scoring Site

Hastings Co: Adams NE 68901-

Landholding Agency: Air Force

Property Number: 18199320062

Status: Excess

Reason: Contamination.

Bldg. 506

Hastings Family Housing

Hastings Radar Bomb Scoring Site

Hastings Co: Adams NE 68901-

Landholding Agency: Air Force

Property Number: 18199320063

Status: Excess

Reason: Contamination.

Bldg. 507

Hastings Family Housing

Hastings Radar Bomb Scoring Site

Hastings Co: Adams NE 68901-

Landholding Agency: Air Force

Property Number: 18199320064

Status: Excess

Reason: Contamination.

Bldg. 509

Hastings Family Housing

Hastings Radar Bomb Scoring Site

Hastings Co: Adams NE 68901-

Landholding Agency: Air Force

Property Number: 18199320065

Status: Excess

Reason: Contamination.

Bldg. 511

Hastings Family Housing

Hastings Radar Bomb Scoring Site

Hastings Co: Adams NE 68901-

Landholding Agency: Air Force

Property Number: 18199320066

Status: Excess

Reason: Contamination.

Bldg. 512

Hastings Family Housing

Hastings Radar Bomb Scoring Site

Hastings Co: Adams NE 68901-

Landholding Agency: Air Force

Property Number: 18199320067

Status: Excess

Reason: Contamination.

Bldg. 515

Hastings Family Housing

Hastings Radar Bomb Scoring Site

Hastings Co: Adams NE 68901-

Landholding Agency: Air Force

Property Number: 18199320068

Status: Excess

Reason: Contamination.

Bldg. 517

Hastings Family Housing

Hastings Radar Bomb Scoring Site

Hastings Co: Adams NE 68901-

Landholding Agency: Air Force

Property Number: 18199320069

Status: Excess

Reason: Contamination.

Bldg. 519

Hastings Family Housing

Hastings Radar Bomb Scoring Site

Hastings Co: Adams NE 68901-

Landholding Agency: Air Force

Property Number: 18199320070

Status: Excess

Reason: Contamination.

Bldg. 521

Hastings Family Housing

Hastings Radar Bomb Scoring Site

Hastings Co: Adams NE 68901-

Landholding Agency: Air Force

Property Number: 18199320071

Status: Excess

Reason: Contamination.

Bldg. 523

Hastings Family Housing

Hastings Radar Bomb Scoring Site

Hastings Co: Adams NE 68901-

Landholding Agency: Air Force

Property Number: 18199320072

Status: Excess

Reason: Contamination.

Bldg. 525

Hastings Family Housing

Hastings Radar Bomb Scoring Site

Hastings Co: Adams NE 68901-

Landholding Agency: Air Force

Property Number: 18199320073

Status: Excess

Reason: Contamination.

Bldg. 526

Hastings Family Housing

Hastings Radar Bomb Scoring Site

Hastings Co: Adams NE 68901-

Landholding Agency: Air Force

Property Number: 18199320074

Status: Excess

Reason: Contamination.

Bldg. 529

Hastings Family Housing

Hastings Radar Bomb Scoring Site

Hastings Co: Adams NE 68901-

Landholding Agency: Air Force

Property Number: 18199320075

Status: Excess

Reason: Contamination.

Bldg. 531

Hastings Family Housing

Hastings Radar Bomb Scoring Site

Hastings Co: Adams NE 68901-

Landholding Agency: Air Force

Property Number: 18199320076

Status: Excess

Reason: Contamination.

Bldg. 533

Hastings Family Housing

Hastings Radar Bomb Scoring Site

Hastings Co: Adams NE 68901-

Landholding Agency: Air Force

Property Number: 18199320077

Status: Excess

Reason: Contamination.

Bldg. 534

Hastings Family Housing

Hastings Radar Bomb Scoring Site

Hastings Co: Adams NE 68901-

Landholding Agency: Air Force

Property Number: 18199320078

Status: Excess

Reason: Contamination.

Bldg. 536

Hastings Family Housing

Hastings Radar Bomb Scoring Site

Hastings Co: Adams NE 68901-

Landholding Agency: Air Force

Property Number: 18199320079

Status: Excess

Reason: Contamination.

Bldg. 538

Hastings Family Housing

Hastings Radar Bomb Scoring Site

Hastings Co: Adams NE 68901-

Landholding Agency: Air Force

Property Number: 18199320080

Status: Excess

Reason: Contamination.

Bldg. 541

Hastings Family Housing

Hastings Radar Bomb Scoring Site

Hastings Co: Adams NE 68901-

Landholding Agency: Air Force

Property Number: 18199320081

Status: Excess

Reason: Contamination.

Bldg. 542

Hastings Family Housing

Hastings Radar Bomb Scoring Site

Hastings Co: Adams NE 68901-

Landholding Agency: Air Force

Property Number: 18199320082

Status: Excess

Reason: Contamination.

Bldg. 544

Hastings Family Housing

Hastings Radar Bomb Scoring Site

Hastings Co: Adams NE 68901-

Landholding Agency: Air Force

Property Number: 18199320083

Status: Excess

Reason: Contamination.

Bldg. 546

Hastings Family Housing

Hastings Radar Bomb Scoring Site

Hastings Co: Adams NE 68901-

Landholding Agency: Air Force

Property Number: 18199320084

Status: Excess

Reason: Contamination.

Bldg. 549

Hastings Family Housing

Hastings Radar Bomb Scoring Site

Hastings Co: Adams NE 68901-

Landholding Agency: Air Force

Property Number: 18199320085

Status: Excess

Reason: Contamination.

Bldg. 550

Hastings Family Housing

Hastings Radar Bomb Scoring Site

Hastings Co: Adams NE 68901-

Landholding Agency: Air Force

Property Number: 18199320086

Status: Excess

Reason: Contamination.

Bldg. 552

Hastings Family Housing

Hastings Radar Bomb Scoring Site

Hastings Co: Adams NE 68901-

Landholding Agency: Air Force

Property Number: 18199320087

Status: Excess

Reason: Contamination.

Bldg. 553

Hastings Family Housing

Hastings Radar Bomb Scoring Site

Hastings Co: Adams NE 68901-

Landholding Agency: Air Force

Property Number: 18199320088

Status: Excess

Reason: Contamination.

Bldg. 555

Hastings Family Housing

Hastings Radar Bomb Scoring Site

Hastings Co: Adams NE 68901-

Landholding Agency: Air Force

Property Number: 18199320089

Status: Excess

Reason: Contamination.

Bldg. 557

Hastings Family Housing

Hastings Radar Bomb Scoring Site

Hastings Co: Adams NE 68901-

Landholding Agency: Air Force

Property Number: 18199320090

Status: Excess

Reason: Contamination.

Bldg. 558

Hastings Family Housing

Hastings Radar Bomb Scoring Site

Hastings Co: Adams NE 68901-

Landholding Agency: Air Force

Property Number: 18199320091

Status: Excess

Reason: Contamination.

Bldg. 560

Hastings Family Housing

Hastings Radar Bomb Scoring Site

Hastings Co: Adams NE 68901-

Landholding Agency: Air Force

Property Number: 18199320092

Status: Excess

Reason: Contamination.

27 Detached Garages

Hastings Family Housing

Hastings Radar Bomb Scoring Site

Hastings Co: Adams NE 68901-

Landholding Agency: Air Force

Property Number: 18199320093

Status: Excess

Reason: Contamination.

Bldg. 17

Hastings Radar Bomb Scoring Site

Hastings Co: Adams NE 68901-

Landholding Agency: Air Force

Property Number: 18199320094

Status: Excess

Reason: Contamination.

Bldg. 16

Hastings Radar Bomb Scoring Site

Hastings Co: Adams NE 68901-

Landholding Agency: Air Force

Property Number: 18199320095

Status: Excess

Reason: Contamination.

Bldg. 18

Hastings Radar Bomb Scoring Site

Hastings Co: Adams NE 68901-

Landholding Agency: Air Force

Property Number: 18199320096

Status: Excess

Reason: Contamination.

Bldg. 6

Hastings Family Housing

Hastings Radar Bomb Scoring Site

Hastings Co: Adams NE 68901-

Landholding Agency: Air Force

Property Number: 18199320097

Status: Excess

Reason: Contamination.

Bldg. 547

Hastings Family Housing

Hastings Radar Bomb Scoring Site

Hastings Co: Adams NE 68901-

Landholding Agency: Air Force

Property Number: 18199320098

Status: Excess

Reason: Contamination.

Bldg. 604

Hastings Family Housing

Hastings Radar Bomb Scoring Site

Hastings Co: Adams NE 68901-

Landholding Agency: Air Force

Property Number: 18199320099

Status: Excess

Reason: Contamination.

Bldg. 686

Offutt Air Force Base

Offutt Co: Sarpy NE 68113-

Landholdng Agency: Air Force

Property Number: 18199510021

Status: Unutilized

Reason: Secured Area.

Bldg. 439

Offutt Air Force Base

Offutt Co: Sarpy NE 68113-

Landholdng Agency: Air Force

Property Number: 18199510022

Status: Unutilized

Reason: Secured Area.

Bldg. 606

NE Air National Guard

Lincoln Co: Lancaster NE 68524-1888

Landholdng Agency: Air Force

Property Number: 18199720028

Status: Underutilized

Reason: Floodway; Secured Area.

Bldg. 675

NE Air National Guard

Lincoln Co: Lancaster NE 68524-1888

Landholdng Agency: Air Force

Property Number: 18199720029

Status: Unutilized

Reason: Floodway; Secured Area.

New Hampshire

Bldg 117

New Boston Air Force Station

Amherst Co: Hillsborough NH 03031-1514

Landholding Agency: Air Force

Property Number: 18199920008

Status: Unutilized

Reasons: Within 2000 ft. of flammable or explosive material; Secured Area.

Bldg 129

New Boston Air Force Station

Amherst Co: Hillsborough NH 03031-1514

Landholding Agency: Air Force

Property Number: 18199920009

Status: Unutilized

Reasons: Within 2000 ft. of flammable or explosive material; Secured Area.

Facility 5210

Newington POL DFS

Newington Co: Rockingham NH 03801-

Landholding Agency: Air Force

Property Number: 18199920010

Status: Excess

Reason: Within 2000 ft. of flammable or explosive material.

Facility 155

Pease Air National Guard

Newington Co: Rockingham NH 03803-

Landholding Agency: Air Force

Property Number: 18199930011

Status: Unutilized

Reason: Within 2000 ft. of flammable or explosive material.

Bldg. 124

New Boston Air Force Station

New Boston Co: Hilsboro NH 03070-5125

Landholding Agency: Air Force

Property Number: 18200030013

Status: Unutilized

Reason: Secured Area.

Bldg. 125

New Boston Air Force Station

New Boston Co: Hilsboro NH 03070-5125

Landholding Agency: Air Force

Property Number: 18200030014

Status: Unutilized

Reason: Secured Area.

New Jersey

Bachardy, William House

Flatbrook-Stillwater Rd.

Wallpack Center Co: Sussex NJ 07881-

Landholding Agency: Interior

Property Number: 61200020022

Status: Unutilized

Reason: Extensive deterioration.

Piers and Wharf

Station Sandy Hook

Highlands Co: Monmouth NJ 07732-5000

Landholding Agency: DOT

Property Number: 87199240009

Status: Unutilized

Reasons: Secured Area; Extensive deterioration.

Chapel Hill Front Range

Light Tower

Middletown Co: Monmouth NJ 07748-

Landholding Agency: DOT

Property Number: 87199440002

Status: Unutilized

Reason: Skeletal tower.

Bldg. 103

U.S. Coast Guard Station

Sandy Hook

Middleton Co: Monmouth NJ 07737-

Landholding Agency: DOT

Property Number: 87199610002

Status: Unutilized

Reason: Secured Area.

New Mexico

Bldg. 831

833 CSG/DEER

Holloman AFB Co: Otero NM 88330-

Landholding Agency: Air Force

Property Number: 181991309333

Status: Unutilized

Reason: Secured Area.

Bldg. 21

Holloman Air Force Base

Co: Otero NM 88330-

Landholding Agency: Air Force

Property Number: 18199240032

Status: Unutilized

Reason: Secured Area.

Bldg. 80

Holloman Air Force Base

Co: Otero NM 88330-

Landholding Agency: Air Force

Property Number: 18199240033

Status: Unutilized

Reason: Secured Area.

Bldg. 98

Holloman Air Force Base

Co: Otero NM 88330-

Landholding Agency: Air Force

Property Number: 18199240034

Status: Unutilized

Reason: Secured Area.

Bldg. 324

Holloman Air Force Base

Co: Otero NM 88330-

Landholding Agency: Air Force

Property Number: 18199240035

Status: Unutilized

Reason: Secured Area.

Bldg. 598

Holloman Air Force Base

Co: Otero NM 88330-

Landholding Agency: Air Force

Property Number: 18199240036

Status: Unutilized

Reason: Secured Area.

Bldg. 801

Holloman Air Force Base

Co: Otero NM 88330-

Landholding Agency: Air Force

Property Number: 18199240037

Status: Unutilized

Reason: Secured Area.

Bldg. 802

Holloman Air Force Base

Co: Otero NM 88330-

Landholding Agency: Air Force

Property Number: 18199240038

Status: Unutilized

Reason: Secured Area.

Bldg. 1095

Holloman Air Force Base

Co: Otero NM 88330-

Landholding Agency: Air Force

Property Number: 18199240039

Status: Unutilized

Reason: Secured Area.

Bldg. 1096

Holloman Air Force Base

Co: Otero NM 88330-

Landholding Agency: Air Force

Property Number: 18199240040

Status: Unutilized

Reason: Secured Area.

Facility 321

Holloman Air Force Base

Co: Otero NM 88330-

Landholding Agency: Air Force

Property Number: 18199240041

Status: Unutilized

Reason: Secured Area.

Facility 75115

Holloman Air Force Base

Co: Otero NM 88330-

Landholding Agency: Air Force

Property Number: 18199240042

Status: Unutilized

Reason: Secured Area.

Bldg. 874

Holloman Air Force Base

Co: Otero NM 88330-

Landholding Agency: Air Force

Property Number: 18199320041

Status: Unutilized

Reason: Extensive Deterioration; Secured Area.

Bldg. 1258

Holloman Air Force Base

Co: Otero NM 88330-

Landholding Agency: Air Force

Property Number: 18199320042

Status: Unutilized

Reason: Extensive Deterioration; Secured Area.

Bldg. 134

Holloman Air Force Base

Co: Otero NM 88330-

Landholding Agency: Air Force

Property Number: 18199430014

Status: Unutilized

Reason: Secured Area.

Bldg. 640

Holloman Air Force Base

Co: Otero NM 88330-

Landholding Agency: Air Force

Property Number: 18199430015

Status: Unutilized

Reason: Secured Area.

Bldg. 703

Holloman Air Force Base

Co: Otero NM 88330-

Landholding Agency: Air Force

Property Number: 18199430016

Status: Unutilized

Reason: Within airport runway clear zone; Secured Area.

Bldg. 813

Holloman Air Force Base

Co: Otero NM 88330-

Landholding Agency: Air Force

Property Number: 18199430017

Status: Unutilized

Reason: Secured Area.

Bldg. 821

Holloman Air Force Base

Co: Otero NM 88330-

Landholding Agency: Air Force

Property Number: 18199430018

Status: Unutilized

Reason: Secured Area.

Bldg. 829

Holloman Air Force Base

Co: Otero NM 88330-

Landholding Agency: Air Force

Property Number: 18199430019

Status: Unutilized

Reasons: Within airport runway clear zone; Secured Area.

Bldg. 867

Holloman Air Force Base

Co: Otero NM 88330-

Landholding Agency: Air Force

Property Number: 18199430020

Status: Unutilized

Reasons: Secured Area.

Bldg. 884

Holloman Air Force Base

Co: Otero NM 88330-

Landholding Agency: Air Force

Property Number: 18199430021

Status: Unutilized

Reasons: Within airport runway clear zone; Secured Area.

Bldg. 886

Holloman Air Force Base

Co: Otero NM 88330-

Landholding Agency: Air Force

Property Number: 18199430022

Status: Unutilized

Reasons: Within airport runway clear zone; Secured Area.

Bldg. 908

Holloman Air Force Base

Co: Otero NM 88330-

Landholding Agency: Air Force

Property Number: 18199430023

Status: Unutilized

Reasons: Secured Area.

Bldg. 599

Holloman Air Force Base

Co: Otero NM 88330-

Landholding Agency: Air Force

Property Number: 18199510001

Status: Unutilized

Reasons: Secured Area.

Bldg. 600

Holloman Air Force Base

Co: Otero NM 88330-

Landholding Agency: Air Force

Property Number: 18199510002

Status: Unutilized

Reasons: Secured Area.

Bldg. 599

Holloman AFB

Co: Otero NM 88330-

Landholding Agency: Air Force

Property Number: 18199610007

Status: Unutilized

Reasons: Secured Area.

Bldg. 600

Holloman AFB

Co: Otero NM 88330-

Landholding Agency: Air Force

Property Number: 18199610008

Status: Unutilized

Reasons: Secured Area.

Bldg. 995

Holloman AFB

Co: Otero NM 88330-

Landholding Agency: Air Force

Property Number: 18199610009

Status: Unutilized

Reason: Secured Area.

Bldg. 1257

Holloman AFB

Co: Otero NM 88330-

Landholding Agency: Air Force

Property Number: 18199740012

Status: Unutilized

Reason: Secured Area.

Bldg. 332

Holloman AFB

Co: Otero NM 88330-

Landholding Agency: Air Force

Property Number: 18199740013

Status: Unutilized

Reason: Within 2000 ft. of flammable or explosive material; Secured Area.

Bldg. 205

Holloman AFB

Co: Otero NM 88330-

Landholding Agency: Air Force

Property Number: 18199740014

Status: Unutilized

Reason: Within 2000 ft. of flammable or explosive material; Secured Area.

Bldg. 1089

Holloman AFB

Co: Otero NM 88330-

Landholding Agency: Air Force

Property Number: 18199830009

Status: Unutilized

Reason: Secured Area.

Bldg. 2149

Holloman AFB

Co: Otero NM 88330-

Landholding Agency: Air Force

Property Number: 18199830010

Status: Unutilized

Reason: Within 2000 ft. of flammable or explosive material; Secured Area.

Bldg. 2151

Holloman AFB

Co: Otero NM 88330-

Landholding Agency: Air Force

Property Number: 18199830011

Status: Unutilized

Reason: Within 2000 ft. of flammable or explosive material; Secured Area.

Bldg. 2176

Holloman AFB

Co: Otero NM 88330-

Landholding Agency: Air Force

Property Number: 18199830012

Status: Unutilized

Reason: Within 2000 ft. of flammable or explosive material; Secured Area.

Bldg. 2178

Holloman AFB

Co: Otero NM 88330-

Landholding Agency: Air Force

Property Number: 18199830013

Status: Unutilized

Reason: Within 2000 ft. of flammable or explosive material; Secured Area.

Bldgs. 9252, 9268

Kirtland Air Force Base

Albuquerque Co: Bernalillo NM 87185-

Landholding Agency: Energy

Property Number: 41199430002

Status: Unutilized

Reason: Extensive deterioration.

Tech Area II

Kirtland Air Force Base

Albuquerque Co: Bernalillo NM 87105-

Landholding Agency: Energy

Property Number: 41199630004

Status: Unutilized

Reasons: Within 2000 ft. of flammable or explosive material; Secured Area; Extensive deterioration.

Bldg. 1, TA-33

Los Alamos National Laboratory

Los Alamos NM 87545-

Landholding Agency: Energy

Property Number: 41199810001

Status: Unutilized

Reasons: Secured Area; Extensive deterioration.

Bldg. 2, TA-33

Los Alamos National Laboratory

Los Alamos NM 87545-

Landholding Agency: Energy

Property Number: 41199810002

Status: Unutilized

Reasons: Secured Area; Extensive deterioration.

Bldg. 24, TA-33

Los Alamos National Laboratory

Los Alamos NM 87545-

Landholding Agency: Energy

Property Number: 41199810003

Status: Unutilized

Reasons: Secured Area; Extensive deterioration.

Bldg. 26, TA-33

Los Alamos National Laboratory

Los Alamos NM 87545-

Landholding Agency: Energy

Property Number: 41199810004

Status: Unutilized

Reasons: Secured Area; Extensive deterioration.

Bldg. 86, TA-33

Los Alamos National Laboratory

Los Alamos NM 87545-

Landholding Agency: Energy

Property Number: 41199810005

Status: Unutilized

Reasons: Secured Area; Extensive deterioration.

Bldg. 88, TA-33

Los Alamos National Laboratory

Los Alamos NM 87545-

Landholding Agency: Energy

Property Number: 41199810006

Status: Unutilized

Reasons: Secured Area; Extensive deterioration.

Bldg. 89, TA-33

Los Alamos National Laboratory

Los Alamos NM 87545-

Landholding Agency: Energy

Property Number: 41199810007

Status: Unutilized

Reasons: Secured Area; Extensive deterioration.

Bldg. 2, TA-21

Los Alamos National Laboratory

Los Alamos NM 87545-

Landholding Agency: Energy

Property Number: 41199810008

Status: Underutilized

Reason: Secured Area.

Bldg. 5, TA-21

Los Alamos National Laboratory

Los Alamos NM 87545-

Landholding Agency: Energy

Property Number: 41199810011

Status: Unutilized

Reason: Secured Area.

Bldg. 21, TA-21

Los Alamos National Laboratory

Los Alamos NM 87545-

Landholding Agency: Energy

Property Number: 41199810012

Status: Unutilized

Reason: Secured Area.

Bldg. 116, TA-21

Los Alamos National Laboratory

Los Alamos NM 87545-

Landholding Agency: Energy

Property Number: 41199810013

Status: Unutilized

Reason: Secured Area.

Bldg. 212, TA-21

Los Alamos National Laboratory

Los Alamos NM 87545-

Landholding Agency: Energy

Property Number: 41199810014

Status: Unutilized

Reason: Secured Area.

Bldg. 228, TA-21

Los Alamos National Laboratory

Los Alamos NM 87545-

Landholding Agency: Energy

Property Number: 41199810015

Status: Unutilized

Reason: Secured Area.

Bldg. 286, TA-21

Los Alamos National Laboratory

Los Alamos NM 87545-

Landholding Agency: Energy

Property Number: 41199810016

Status: Unutilized

Reason: Secured Area.

Bldg. 63, TA-16

Los Alamos National Laboratory

Los Alamos NM 87545-

Landholding Agency: Energy

Property Number: 41199810019

Status: Unutilized

Reasons: Within 2000 ft. of flammable or explosive material; Extensive deterioration.

Bldg. 515, TA-16

Los Alamos National Laboratory

Los Alamos NM 87545-

Landholding Agency: Energy

Property Number: 41199810020

Status: Unutilized

Reasons: Within 2000 ft. of flammable or explosive material; Secured Area; Extensive deterioration.

Bldg. 516, TA-16

Los Alamos National Laboratory

Los Alamos NM 87545-

Landholding Agency: Energy

Property Number: 41199810021

Status: Unutilized

Reasons: Within 2000 ft. of flammable or explosive material; Secured Area; Extensive deteriortion.

Bldg. 517, TA-16

Los Alamos National Laboratory

Los Alamos NM 87545-

Landholding Agency: Energy

Property Number: 41199810022

Status: Unutilized

Reasons: Within 2000 ft. of flammable or explosive material; Secured Area; Extensive deteriortion.

Bldg. 518, TA-16

Los Alamos National Laboratory

Los Alamos NM 87545-

Landholding Agency: Energy

Property Number: 41199810023

Status: Unutilized

Reasons: Within 2000 ft. of flammable or explosive material; Secured Area; Extensive deteriortion.

Bldg. 519, TA-16

Los Alamos National Laboratory

Los Alamos NM 87545-

Landholding Agency: Energy

Property Number: 41199810024

Status: Unutilized

Reasons: Within 2000 ft. of flammable or explosive material; Secured Area; Extensive deteriortion.

Bldg. 520, TA-16

Los Alamos National Laboratory

Los Alamos NM 87545-

Landholding Agency: Energy

Property Number: 41199810025

Status: Unutilized

Reasons: Within 2000 ft. of flammable or explosive material; Secured Area; Extensive deteriortion.

Bldg. 18, TA-16

Los Alamos National Lab

Los Alamos NM 87545-

Landholding Agency: Energy

Property Number: 41199840001

Status: Unutilized

Reasons: Secured Area; Extensive deteriortion.

Bldg. 31

Los Alamos National Lab

Los Alamos Co: NM 87545-

Landholding Agency: Energy

Property Number: 41199930003

Status: Unutilized

Reasons: Secured Area; Extensive deteriortion.

Bldg. 4, TA-2

Los Alamos National Lab

Los Alamos Co: NM 87545-

Landholding Agency: Energy

Property Number: 41199930004

Status: Unutilized

Reasons: Secured Area.

Bldg. 50, TA-2

Los Alamos National Lab

Los Alamos Co: NM 87545-

Landholding Agency: Energy

Property Number: 41199930005

Status: Unutilized

Reasons: Secured Area.

Bldg. 88, TA-2

Los Alamos National Lab

Los Alamos Co: NM 87545-

Landholding Agency: Energy

Property Number: 41199930006

Status: Unutilized

Reason: Secured Area.

Bldg. 89, TA-2

Los Alamos National Lab

Los Alamos Co: NM 87545-

Landholding Agency: Energy

Property Number: 41199930007

Status: Unutilized

Reason: Secured Area.

Bldg. 21, TA-2

Los Alamos National Lab

Los Alamos Co: NM 87545-

Landholding Agency: Energy

Property Number: 41199940001

Status: Unutilized

Reason: Secured Area.

Bldg. 57, TA-2

Los Alamos National Lab

Los Alamos Co: NM 87545-

Landholding Agency: Energy

Property Number: 41199940002

Status: Unutilized

Reason: Secured Area.

Bldg. 28, TA-8

Los Alamos National Lab

Los Alamos Co: NM 87545-

Landholding Agency: Energy

Property Number: 41199940003

Status: Unutilized

Reason: Secured Area.

Bldg. 38, TA-14

Los Alamos National Lab

Los Alamos Co: NM 87545-

Landholding Agency: Energy

Property Number: 41199940004

Status: Unutilized

Reasons: Secured Area; Extensive deterioration.

Bldg. 8, TA-15

Los Alamos National Lab

Los Alamos Co: NM 87545-

Landholding Agency: Energy

Property Number: 41199940005

Status: Unutilized

Reasons: Secured Area; Extensive deterioration.

Bldg. 9, TA-15

Los Alamos National Lab

Los Alamos Co: NM 87545-

Landholding Agency: Energy

Property Number: 41199940006

Status: Unutilized

Reason: Secured Area.

Bldg. 22, TA-15

Los Alamos National Lab

Los Alamos Co: NM 87545-

Landholding Agency: Energy

Property Number: 41199940007

Status: Unutilized

Reason: Secured Area.

Bldg. 141, TA-15

Los Alamos National Lab

Los Alamos Co: NM 87545-

Landholding Agency: Energy

Property Number: 41199940008

Status: Unutilized

Reason: Secured Area.

Bldg. 44, TA-15

Los Alamos National Lab

Los Alamos Co: NM 87545-

Landholding Agency: Energy

Property Number: 41199940009

Status: Unutilized

Reasons: Secured Area.

Bldg. 2, TA-18

Los Alamos National Lab

Los Alamos Co: NM 87545-

Landholding Agency: Energy

Property Number: 41199940010

Status: Unutilized

Reasons: Secured Area; Extensive deterioration.

Bldg. 5, TA-18

Los Alamos National Lab

Los Alamos Co: NM 87545-

Landholding Agency: Energy

Property Number: 41199940011

Status: Unutilized

Reasons: Secured Area; Extensive deterioration.

Bldg. 186, TA-18

Los Alamos National Lab

Los Alamos Co: NM 87545-

Landholding Agency: Energy

Property Number: 41199940012

Status: Unutilized

Reasons: Secured Area; Extensive deterioration.

Bldg. 188, TA-18

Los Alamos National Lab

Los Alamos Co: NM 87545-

Landholding Agency: Energy

Property Number: 41199940013

Status: Unutilized

Reasons: Secured Area; Extensive deterioration.

Bldg. 254, TA-21

Los Alamos National Lab

Los Alamos Co: NM 87545-

Landholding Agency: Energy

Property Number: 41199940014

Status: Unutilized

Reasons: Secured Area; Extensive deterioration.

Bldg. 44, TA-36

Los Alamos National Lab

Los Alamos Co: NM 87545-

Landholding Agency: Energy

Property Number: 41199940015

Status: Unutilized

Reasons: Secured Area; Extensive deterioration.

Bldg. 45, TA-36

Los Alamos National Lab

Los Alamos Co: NM 87545-

Landholding Agency: Energy

Property Number: 41199940016

Status: Unutilized

Reasons: Secured Area; Extensive deterioration.

Bldg. 19, TA-40

Los Alamos National Lab

Los Alamos Co: NM 87545-

Landholding Agency: Energy

Property Number: 41199940017

Status: Unutilized

Reasons: Secured Area; Extensive deterioration.

Bldg. 43, TA-40

Los Alamos National Lab

Los Alamos Co: NM 87545-

Landholding Agency: Energy

Property Number: 41199940018

Status: Unutilized

Reasons: Secured Area; Extensive deterioration.

Bldg. 258, TA-46

Los Alamos National Lab

Los Alamos Co: NM 87545-

Landholding Agency: Energy

Property Number: 41199940019

Status: Unutilized

Reasons: Secured Area; Extensive deterioration.

TA-2, Bldg. 1

Los Alamos National Lab

Los Alamos Co: NM 87545-

Landholding Agency: Energy

Property Number: 41200010008

Status: Unutilized

Reason: Secured Area.

TA-2, Bldg. 44

Los Alamos National Lab

Los Alamos Co: NM 87545-

Landholding Agency: Energy

Property Number: 41200010009

Status: Unutilized

Reasons: Secured Area; Extensive deterioration.

TA-3, Bldg. 208

Los Alamos National Lab

Los Alamos Co: NM 87545-

Landholding Agency: Energy

Property Number: 41200010010

Status: Unutilized

Reasons: Secured Area; Extensive deterioration.

TA-6, Bldg. 1

Los Alamos National Lab

Los Alamos Co: NM 87545-

Landholding Agency: Energy

Property Number: 41200010011

Status: Unutilized

Reasons: Secured Area; Extensive deterioration.

TA-6, Bldg. 2

Los Alamos National Lab

Los Alamos Co: NM 87545-

Landholding Agency: Energy

Property Number: 41200010012

Status: Unutilized

Reasons: Secured Area; Extensive deterioration.

TA-6, Bldg. 3

Los Alamos National Lab

Los Alamos Co: NM 87545-

Landholding Agency: Energy

Property Number: 41200010013

Status: Unutilized

Reasons: Secured Area; Extensive deterioration.

TA-6, Bldg. 5

Los Alamos National Lab

Los Alamos Co: NM 87545-

Landholding Agency: Energy

Property Number: 41200010014

Status: Unutilized

Reasons: Secured Area; Extensive deterioration.

TA-6, Bldg. 6

Los Alamos National Lab

Los Alamos Co: NM 87545-

Landholding Agency: Energy

Property Number: 41200010015

Status: Unutilized

Reason: Secured Area.

TA-6, Bldg. 7

Los Alamos National Lab

Los Alamos Co: NM 87545-

Landholding Agency: Energy

Property Number: 41200010016

Status: Unutilized

Reason: Secured Area.

TA-6, Bldg. 8

Los Alamos National Lab

Los Alamos Co: NM 87545-

Landholding Agency: Energy

Property Number: 41200010017

Status: Unutilized

Reasons: Secured Area; Extensive deterioration.

TA-6, Bldg. 9

Los Alamos National Lab

Los Alamos Co: NM 87545-

Landholding Agency: Energy

Property Number: 41200010018

Status: Unutilized

Reason: Secured Area.

TA-14, Bldg. 5

Los Alamos National Lab

Los Alamos Co: NM 87545-

Landholding Agency: Energy

Property Number: 41200010019

Status: Unutilized

Reason: Secured Area.

TA-21, Bldg. 150

Los Alamos National Lab

Los Alamos Co: NM 87545-

Landholding Agency: Energy

Property Number: 41200010020

Status: Unutilized

Reason: Secured Area.

Bldg. 149, Bldg. TA-21

Los Alamos National Lab

Los Alamos Co: NM 87545-

Landholding Agency: Energy

Property Number: 41200010024

Status: Unutilized

Reason: Secured Area.

Bldg. 312, TA-21

Los Alamos National Lab

Los Alamos Co: NM 87545-

Landholding Agency: Energy

Property Number: 41200010025

Status: Unutilized

Reason: Secured Area.

Bldg. 313, TA-21

Los Alamos National Lab

Los Alamos Co: NM 87545-

Landholding Agency: Energy

Property Number: 41200010026

Status: Unutilized

Reason: Secured Area.

Bldg. 314, TA-21

Los Alamos National Lab

Los Alamos Co: NM 87545-

Landholding Agency: Energy

Property Number: 41200010027

Status: Unutilized

Reason: Secured Area.

Bldg. 315, TA-21

Los Alamos National Lab

Los Alamos Co: NM 87545-

Landholding Agency: Energy

Property Number: 41200010028

Status: Unutilized

Reason: Secured Area.

Bldg. 1, TA-8

Los Alamos National Lab

Los Alamos Co: NM 87545-

Landholding Agency: Energy

Property Number: 41200010029

Status: Unutilized

Reason: Secured Area.

Bldg. 2, TA-8

Los Alamos National Lab

Los Alamos Co: NM 87545-

Landholding Agency: Energy

Property Number: 41200020030

Status: Unutilized

Reasons: Secured Area; Extensive deterioriation.

Bldg. 3, TA-8

Los Alamos National Lab

Los Alamos Co: NM 87545-

Landholding Agency: Energy

Property Number: 41200020001

Status: Unutilized

Reasons: Secured Area; Extensive deterioriation.

Bldg. 51, TA-9

Los Alamos National Lab

Los Alamos Co: NM 87545-

Landholding Agency: Energy

Property Number: 41200020002

Status: Unutilized

Reason: Secured Area.

Bldg. 30, TA-14

Los Alamos National Lab

Los Alamos Co: NM 87545-

Landholding Agency: Energy

Property Number: 41200020003

Status: Unutilized

Reason: Secured Area.

Bldg. 16, TA-3

Los Alamos National Lab

Los Alamos Co: NM 87545-

Landholding Agency: Energy

Property Number: 41200020009

Status: Unutilized

Reason: Secured Area.

Bldg. 339, TA-16

Los Alamos National Lab

Los Alamos Co: NM 87545-

Landholding Agency: Energy

Property Number: 41200020010

Status: Unutilized

Reason: Secured Area.

Bldg. 340, TA-16

Los Alamos National Lab

Los Alamos Co: NM 87545-

Landholding Agency: Energy

Property Number: 41200020011

Status: Unutilized

Reason: Secured Area.

Bldg. 341, TA-16

Los Alamos National Lab

Los Alamos Co: NM 87545-

Landholding Agency: Energy

Property Number: 41200020012

Status: Unutilized

Reason: Secured Area.

Bldg. 342, TA-16

Los Alamos National Lab

Los Alamos Co: NM 87545-

Landholding Agency: Energy

Property Number: 41200020013

Status: Unutilized

Reason: Secured Area.

Bldg. 343, TA-16

Los Alamos National Lab

Los Alamos Co: NM 87545-

Landholding Agency: Energy

Property Number: 41200020014

Status: Unutilized

Reason: Secured Area.

Bldg. 345, TA-16

Los Alamos National Lab

Los Alamos Co: NM 87545-

Landholding Agency: Energy

Property Number: 41200020015

Status: Unutilized

Reason: Secured Area.

Bldg. 16, TA-21

Los Alamos National Lab

Los Alamos Co: NM 87545-

Landholding Agency: Energy

Property Number: 41200020016

Status: Unutilized

Reason: Secured Area.

Bldg. 48, TA-55

Los Alamos National Lab

Los Alamos Co: NM 87545-

Landholding Agency: Energy

Property Number: 41200020017

Status: Unutilized

Reason: Secured Area.

Bldg. 125, TA-55

Los Alamos National Lab

Los Alamos Co: NM 87545-

Landholding Agency: Energy

Property Number: 41200020018

Status: Unutilized

Reason: Secured Area.

Bldg. 162, TA-55

Los Alamos National Lab

Los Alamos Co: NM 87545-

Landholding Agency: Energy

Property Number: 41200020019

Status: Unutilized

Reason: Secured Area.

Bldg. 22, TA-33

Los Alamos National Lab

Los Alamos Co: NM 87545-

Landholding Agency: Energy

Property Number: 41200020022

Status: Unutilized

Reasons: Secured Area; Extensive deterioration.

Bldg. 23, TA-49

Los Alamos National Lab

Los Alamos Co: NM 87545-

Landholding Agency: Energy

Property Number: 41200020023

Status: Unutilized

Reason: Secured Area.

Bldg. 37, TA-53

Los Alamos National Lab

Los Alamos Co: NM 87545-

Landholding Agency: Energy

Property Number: 41200020024

Status: Unutilized

Reason: Secured Area.

Bldg. 121, TA-49

Los Alamos National Lab

Los Alamos Co: NM 87545-

Landholding Agency: Energy

Property Number: 41200020025

Status: Unutilized

Reason: Secured Area.

New York

Bldg. 626 (Pin: RVKQ)

Niagara Falls International Airport

914th Tactical Airlift Group

Niagara Falls Co: Niagara NY 14303-5000

Landholding Agency: Air Force

Property Number: 18199010075

Status: Unutilized

Reasons: Within 2000 ft. of flammable or explosive material; Secured Area.

Bldg. 272

Griffiss Air Force Base

Rome Co: Oneida NY 13441-

Landholding Agency: Air Force

Property Number: 18199140022

Status: Excess

Reason: Secured Area.

Bldg. 888

Griffiss Air Force Base

Rome Co: Oneida NY 13441-

Landholding Agency: Air Force

Property Number: 18199140023

Status: Excess

Reason: Secured Area.

Facility 814, Griffiss AFB

NE of Weapons Storage Area

Rome Co: Oneida NY 13441-

Landholding Agency: Air Force

Property Number: 18199230001

Status: Excess

Reasons: Within airport runway clear zone; Secured Area.

Facility 808, Griffiss AFB

Perimeter Road

Rome Co: Oneida NY 13441-

Landholding Agency: Air Force

Property Number: 18199230002

Status: Excess

Reasons: Within airport runway clear zone; Secured Area.

Facility 807, Griffiss AFB

Perimeter Road

Rome Co: Oneida NY 13441-

Landholding Agency: Air Force

Property Number: 18199230003

Status: Excess

Reasons: Within airport runway clear zone; Secured Area.

Facility 126

Griffiss Air Force Base

Hanger Road

Rome Co: Oneida NY 13441-4520

Landholding Agency: Air Force

Property Number: 18199240020

Status: Unutilized

Reason: Secured Area.

Facility 127

Griffiss Air Force Base

Hanger Road

Rome Co: Oneida NY 13441-4520

Landholding Agency: Air Force

Property Number: 18199240021

Status: Unutilized

Reason: Secured Area.

Facility 135

Griffiss Air Force Base

Hanger Road

Rome Co: Oneida NY 13441-4520

Landholding Agency: Air Force

Property Number: 18199240022

Status: Unutilized

Reason: Secured Area.

Facility 137

Griffiss Air Force Base

Otis Street

Rome Co: Oneida NY 13441-4520

Landholding Agency: Air Force

Property Number: 18199240023

Status: Unutilized

Reason: Secured Area.

Facility 138

Griffiss Air Force Base

Otis Street

Rome Co: Oneida NY 13441-4520

Landholding Agency: Air Force

Property Number: 18199240024

Status: Unutilized

Reason: Secured Area.

Facility 173

Griffiss Air Force Base

Selfridge Street

Rome Co: Oneida NY 13441-4520

Landholding Agency: Air Force

Property Number: 18199240025

Status: Unutilized

Reason: Secured Area.

Facility 261

Griffiss Air Force Base

McDill Street

Rome Co: Oneida NY 13441-4520

Landholding Agency: Air Force

Property Number: 18199240026

Status: Unutilized

Reason: Secured Area.

Facility 308

Griffiss Air Force Base

205 Chanute Street

Rome Co: Oneida NY 13441-4520

Landholding Agency: Air Force

Property Number: 18199240027

Status: Unutilized

Reason: Secured Area.

Facility 1200

Griffiss Air Force Base

Donaldson Road

Rome Co: Oneida NY 13441-4520

Landholding Agency: Air Force

Property Number: 18199240028

Status: Unutilized

Reason: Secured Area.

Facility 841

Griffiss Air Force Base

Rome Co: Oneida NY 13441-4520

Landholding Agency: Air Force

Property Number: 18199330097

Status: Unutilized

Reason: Secured Area.

Bldg. 740

Niagara Falls Air Force Reserve

Niagara Falls Co: Niagara NY 14304-5001

Landholding Agency: Air Force

Property Number: 18199720026

Status: Unutilized

Reasons: Within airport runway clear zone; Floodway; Secured Area.

Bldg. 629

Hancock Field

Syracuse Co: Onondaga NY 13211-

Landholding Agency: Air Force

Property Number: 18199730006

Status: Unutilized

Reasons: Within 2000 ft. of flammable or explosive material; Secured Area.

Bldg. 604

Hancock Field

Syracuse Co: Onondaga NY 13211-

Landholding Agency: Air Force

Property Number: 18199810016

Status: Unutilized

Reasons: Within 2000 ft. of flammable or explosive material; Secured Area.

Bldg. 606

Hancock Field

Syracuse Co: Onondaga NY 13211-

Landholding Agency: Air Force

Property Number: 18199810017

Status: Unutilized

Reasons: Within 2000 ft. of flammable or explosive material; Secured Area.

Bldg. 615

Hancock Field

Syracuse Co: Onondaga NY 13211-

Landholding Agency: Air Force

Property Number: 18199810018

Status: Unutilized

Reasons: Within 2000 ft. of flammable or explosive material; Secured Area.

Bldg. 629

Hancock Field

Syracuse Co: Onondaga NY 13211-

Landholding Agency: Air Force

Property Number: 18199810019

Status: Unutilized

Reasons: Within 2000 ft. of flammable or explosive material; Secured Area.

Bldg. 630

Hancock Field

Syracuse Co: Onondaga NY 13211-

Landholding Agency: Air Force

Property Number: 18199810020

Status: Unutilized

Reasons: Within 2000 ft. of flammable or explosive material; Secured Area.

Bldg. 635

Hancock Field

Syracuse Co: Onondaga NY 13211-

Landholding Agency: Air Force

Property Number: 18199810021

Status: Unutilized

Reasons: Within 2000 ft. of flammable or explosive material; Secured Area.

Bldg. 640

Hancock Field

Syracuse Co: Onondaga NY 13211-

Landholding Agency: Air Force

Property Number: 18199810022

Status: Unutilized

Reasons: Within 2000 ft. of flammable or explosive material; Secured Area.

Bldg. 733

Hancock Field

Syracuse Co: Onondaga NY 13211-

Landholding Agency: Air Force

Property Number: 18199810023

Status: Unutilized

Reasons: Within 2000 ft. of flammable or explosive material; Secured Area.

Bldg. 514

Niagara Falls ARS

Niagara Falls Co: Niagara NY 14304-4001

Landholding Agency: Air Force

Property Number: 18199810024

Status: Unutilized

Reasons: Floodway; Secured Area; Extensive deterioration.

Bldg. 614

Niagara Falls AFR

Niagara Falls Co: Niagara NY 14305-5001

Landholding Agency: Air Force

Property Number: 18199830014

Status: Unutilized

Reasons: Within 2000 ft. of flammable or explosive material; Secured Area; Extensive deterioration.

Bldg. 722

Niagara Falls AFR

Niagara Falls Co: Niagara NY 14305-5001

Landholding Agency: Air Force

Property Number: 18199830015

Status: Unutilized

Reasons: Within 2000 ft. of flammable or explosive material; Secured Area; Extensive deterioration.

Bldg. 750

Niagara Falls AFR

Niagara Falls Co: Niagara NY 14305-5001

Landholding Agency: Air Force

Property Number: 18199830016

Status: Unutilized

Reasons: Within 2000 ft. of flammable or explosive material; Secured Area; Extensive deterioration.

Bldg. 751

Niagara Falls AFR

Niagara Falls Co: Niagara NY 14305-5001

Landholding Agency: Air Force

Property Number: 18199830017

Status: Unutilized

Reasons: Within 2000 ft. of flammable or explosive material; Secured Area; Extensive deterioration.

Facility 1200

Verona Test Annex

Town of Verona Co: Oneida NY 13478-

Landholding Agency: Air Force

Property Number: 18199920011

Status: Unutilized

Reason: No public access.

Facility 1202

Verona Test Annex

Town of Verona Co: Oneida NY 13478-

Landholding Agency: Air Force

Property Number: 18199920012

Status: Unutilized

Reason: No public access.

Facility 1203

Verona Test Annex

Town of Verona Co: Oneida NY 13478-

Landholding Agency: Air Force

Property Number: 18199920013

Status: Unutilized

Reason: No public access.

Facility 1204

Verona Test Annex

Town of Verona Co: Oneida NY 13478-

Landholding Agency: Air Force

Property Number: 18199920014

Status: Unutilized

Reason: No public access.

Facility 1205

Verona Test Annex

Town of Verona Co: Oneida NY 13478-

Landholding Agency: Air Force

Property Number: 18199920015

Status: Unutilized

Reason: No public access.

Facility 1206

Verona Test Annex

Town of Verona Co: Oneida NY 13478-

Landholding Agency: Air Force

Property Number: 18199920016

Status: Unutilized

Reason: No public access.

Facility 1207

Verona Test Annex

Town of Verona Co: Oneida NY 13478-

Landholding Agency: Air Force

Property Number: 18199920017

Status: Unutilized

Reason: No public access.

Facility 1208

Verona Test Annex

Town of Verona Co: Oneida NY 13478-

Landholding Agency: Air Force

Property Number: 18199920018

Status: Unutilized

Reason: No public access.

Facility 1209

Verona Test Annex

Town of Verona Co: Oneida NY 13478-

Landholding Agency: Air Force

Property Number: 18199920019

Status: Unutilized

Reason: No public access.

Facility 1210

Verona Test Annex

Town of Verona Co: Oneida NY 13478-

Landholding Agency: Air Force

Property Number: 18199920020

Status: Unutilized

Reason: No public access.

Facility 1259

Verona Test Annex

Town of Verona Co: Oneida NY 13478-

Landholding Agency: Air Force

Property Number: 18199920021

Status: Unutilized

Reason: No public access.

Facility 1260

Verona Test Annex

Town of Verona Co: Oneida NY 13478-

Landholding Agency: Air Force

Property Number: 18199920022

Status: Unutilized

Reason: No public access.

Warehouse

Whitney Lake Project

Whitney Point Co: Broome NY 13862-0706

Landholding Agency: COE

Property Number: 31199630007

Status: Unutilized

Reason: Extensive deterioration.

Bldg. 577

Brookhaven National Lab

Upton Co: Suffolk NY 11973-

Landholding Agency: Energy

Property Number: 41199940022

Status: Excess

Reason: Extensive deterioration.

Bldg. AT-1

Knolls Atomic Power Lab

Niskayuna Co: Schenectady NY 12301-

Landholding Agency: Energy

Property Number: 41200010022

Status: Excess

Reason: Secured Area.

Bldg. AT-1

Knolls Atomic Power Lab

Niskayuna Co: Schenectady NY 12301-

Landholding Agency: Energy

Property Number: 41200020020

Status: Unutilized

Reason: Secured Area.

Former Baker Property

Tract 270-19

Beekman Co: Dutchess NY 12570-

Landholding Agency: Interior

Property Number: 61200020011

Status: Unutilized

Reason: Extensive deterioration.

(F) Depot Hill Property

Tract 270-07

Beekman Co: Dutchess NY 12564-

Landholding Agency: Interior

Property Number: 61200020012

Status: Unutilized

Reason: Extensive deterioration.

(F) Yegella Property

Tract #268-33

Pawling Co: Dutchess NY 12564-

Landholding Number: 61200020013

Status: Unutilized

Reason: Extensive deterioration.

2 Buildings

Ant Saugerties

Saugerties Co: Ulster NY 12477-

Landholding Agency: DOT

Property Number: 87199230005

Status: Unutilized

Reason: Extensive deterioration.

Bldg. 606, Fort Totten

New York Co: Queens NY 11359-

Landholding Agency: DOT

Property Number: 87199240020

Status: Unutilized

Reason: Secured Area.

Bldg. 607, Fort Totten

New York Co: Queens NY 11359-

Landholding Agency: DOT

Property Number: 87199240021

Status: Unutilized

Reasons: Extensive deterioration; Secured Area.

Bldg. 605, Fort Totten

New York Co: Queens NY 11359-

Landholding Agency: DOT

Property Number: 87199240022

Status: Unutilized

Reasons: Extensive deterioration; Secured Area.

Eatons Neck Station

U.S. Coast Guard

Huntington Co: Suffolk NY 11743-

Landholding Agency: DOT

Property Number: 87199310003

Status: Unutilized

Reasons: Secured Area; Extensive deterioration.

Bldg. 517, USCG Support Center

Governors Island Co: Manhattan NY 10004-

Landholding Agency: DOT

Property Number: 87199320025

Status: Unutilized

Reason: Secured Area.

Bldg. 138

U.S. Coast Guard Support

Center

Governors Island Co: Manhattan NY 10004-

Landholding Agency: DOT

Property Number: 87199410003

Status: Unutilized

Reason: Secured Area.

Bldg. 830

U.S. Coast Guard

Governors Island Co: Manhattan NY 10004-

Landholding Agency: DOT

Property Number: 87199420004

Status: Unutilized

Reason: Secured Area.

Bldg. 8

Rosebank—Coast Guard

Housing

Staten Island Co: Richmond NY 10301-

Landholding Agency: DOT

Property Number: 87199530009

Status: Unutilized

Reason: Secured Area.

Bldg. 7

Rosebank—Coast Guard

Housing

Staten Island Co: Richmond NY 10301-

Landholding Agency: DOT

Property Number: 87199530010

Status: Unutilized

Reasons: Secured Area; Extensive deterioration.

Bldg. 222

Fort Wadsworth

Staten Island Co: Richmond NY 10305-

Landholding Agency: DOT

Property Number: 87199620003

Status: Unutilized

Reason: Secured Area.

Bldg. 223

Fort Wadsworth

Staten Island Co: Richmond NY 10305-

Landholding Agency: DOT

Property Number: 87199620004

Status: Unutilized

Reason: Secured Area.

Bldg. 205

Fort Wadsworth

Staten Island Co: Richmond NY 10305-

Landholding Agency: DOT

Property Number: 87199620005

Status: Unutilized

Reason: Secured Area.

Bldg. 9

U.S. Coast Guard—Rosebank

Staten Island Co: Richmond NY 10301-

Landholding Agency: DOT

Property Number: 87199630027

Status: Excess

Reason: Secured Area.

Bldg. 10

U.S. Coast Guard—Rosebank

Staten Island Co: Richmond NY 10301-

Landholding Agency: DOT

Property Number: 87199630028

Status: Excess

Reason: Secured Area.

Bldg. 206, Rosebank

Staten Island Co: Richmond NY 10301-

Landholding Agency: DOT

Property Number: 87199630029

Status: Excess

Reason: Secured Area.

Cottage

Coast Guard Station

Wellesley Island Co: Jefferson NY 13640-

Landholding Agency: DOT

Property Number: 87199940001

Status: Unutilized

Reasons: Secured Area; Extensive deterioration.

North Carolina

Bldg. 4230—Youth Center

Cannon Ave.

Goldsboro Co: Wayne NC 27531-5005

Landholding Agency: Air Force

Property Number: 18199120233

Status: Underutilized

Reason: Secured Area.

Bldg. 607, Pope Air Force Base

Fayetteville Co: Cumberland NC 28308-2890

Landholding Agency: Air Force

Property Number: 18199330041

Status: Unutilized

Reasons: Secured Area; Extensive deterioration.

Bldg. 910, Pope Air Force Base

Fayetteville Co: Cumberland NC 28308-2003

Landholding Agency: Air Force

Property Number: 18199420022

Status: Unutilized

Reasons: Secured Area; Extensive deterioration.

Bldg. 912, Pope Air Force Base

Fayetteville Co: Cumberland NC 28308-2003

Landholding Agency: Air Force

Property Number: 18199420023

Status: Unutilized

Reasons: Secured Area; Extensive deterioration.

Bldg. 914, Pope Air Force Base

Fayetteville Co: Cumberland NC 28308-2003

Landholding Agency: Air Force

Property Number: 18199420024

Status: Unutilized

Reasons: Secured Area; Extensive deterioration.

Bldg. 633, Pope Air Force Base

Fayetteville Co: Cumberland NC 28308-

Landholding Agency: Air Force

Property Number: 18199540019

Status: Unutilized

Reasons: Secured Area; Extensive deterioration.

Group Cape Hatteras

Boiler Plant

Buxton Co: Dare NC 27902-0604

Landholding Agency: DOT

Property Number: 87199240018

Status: Unutilized

Reason: Secured Area.

Group Cape Hatteras

Bowling Alley

Buxton Co: Dare NC 27902-0604

Landholding Agency: DOT

Property Number: 87199240019

Status: Unutilized

Reason: Secured Area.

Bldg. 54

Group Cape Hatteras

Boiler Plant

Buxton Co: Dare NC 27902-0604

Landholding Agency: DOT

Property Number: 87199340004

Status: Unutilized

Reason: Secured Area.

Bldg. 83

Group Cape Hatteras

Buxton Co: Dare NC 27902-0604

Landholding Agency: DOT

Property Number: 87199340005

Status: Unutilized

Reason: Secured Area.

Water Tanks

Group Cape Hatteras

Buxton Co: Dare NC 27902-0604

Landholding Agency: DOT

Property Number: 87199340006

Status: Unutilized

Reason: Secured Area.

USCG Gentian (WLB 290)

Fort Macon State Park

Atlantic Beach Co: Carteret NC 27601-

Landholding Agency: DOT

Property Number: 87199420007

Status: Excess

Reason: Secured Area.

Unit #71

Buxton Annex, Cape Kendrick Circle

Buxton Co: Dare NC 27920-

Landholding Agency: DOT

Property Number: 87199530011

Status: Unutilized

Reason: Floodway.

Unit #72

Buxton Annex, Cape Kendrick Circle

Buxton Co: Dare NC 27920-

Landholding Agency: DOT

Property Number: 87199530012

Status: Unutilized

Reason: Floodway.

Unit #73

Buxton Annex, Cape Kendrick Circle

Buxton Co: Dare NC 27920-

Landholding Agency: DOT

Property Number: 87199530013

Status: Unutilized

Reason: Floodway.

Unit #74

Buxton Annex, Cape Kendrick Circle

Buxton Co: Dare NC 27920-

Landholding Agency: DOT

Property Number: 87199530014

Status: Unutilized

Reason: Floodway.

Unit #75

Buxton Annex, Cape Kendrick Circle

Buxton Co: Dare NC 27920-

Landholding Agency: DOT

Property Number: 87199530015

Status: Unutilized

Reason: Floodway.

Unit #63

Buxton Annex, Anna May Court

Buxton Co: Dare NC 27920-

Landholding Agency: DOT

Property Number: 87199530016

Status: Unutilized

Reason: Floodway.

Unit #64

Buxton Annex, Anna May Court

Buxton Co: Dare NC 27920-

Landholding Agency: DOT

Property Number: 87199530017

Status: Unutilized

Reason: Floodway.

Unit #76

Buxton Annex, Anna May Court

Buxton Co: Dare NC 27920-

Landholding Agency: DOT

Property Number: 87199530018

Status: Unutilized

Reason: Floodway.

Unit #68

Buxton Annex, Anna May Court

Buxton Co: Dare NC 27920-

Landholding Agency: DOT

Property Number: 87199530019

Status: Unutilized

Reason: Floodway.

Unit #69

Buxton Annex, Anna May Court

Buxton Co: Dare NC 27920-

Landholding Agency: DOT

Property Number: 87199530020

Status: Unutilized

Reason: Floodway.

Unit #70

Buxton Annex, Anna May Court

Buxton Co: Dare NC 27920-

Landholding Agency: DOT

Property Number: 87199530021

Status: Unutilized

Reason: Floodway.

Unit #77

Buxton Annex, Old Lighthouse Road

Buxton Co: Dare NC 27920-

Landholding Agency: DOT

Property Number: 87199530022

Status: Unutilized

Reason: Floodway.

Unit #78

Buxton Annex, Old Lighthouse Road

Buxton Co: Dare NC 27920-

Landholding Agency: DOT

Property Number: 87199530023

Status: Unutilized

Reason: Floodway.

Bldg. 53

Coast Guard Support Center

Elizabeth City Co: Pasquotank NC 27909-5006

Landholding Agency: DOT

Property Number: 87199630022

Status: Unutilized

Reason: Secured Area.

Quarters 1

USCG Station

Hobucken Co: Pamlico NC 28537-

Landholding Agency: DOT

Property Number: 87199940003

Status: Unutilized

Reasons: Secured Area; Extensive deterioration.

Bldg. 9

VA Medical Center

1100 Tunnel Road

Asheville Co: Buncombe NC 28805-

Landholding Agency: VA

Property Number: 97199010008

Status: Unutilized

Reason: Extensive deterioration.

North Dakota

Bldg. 422

Minot Air Force Base

Minot Co: Ward ND 58705-

Landholding Agency: Air Force

Property Number: 18199010724

Status: Underutilized

Reason: Secured Area.

Bldg. 50

Fortuna Air Force Station

Extreme northwestern corner of North Dakota

Fortuna Co: Divide ND 58844-

Landholding Agency: Air Force

Property Number: 18199310107

Status: Excess

Reason: Garbage incinerator.

Bldg. 119

Minot Air Force Base

Minot Co: Ward ND 58701-

Landholding Agency: Air Force

Property Number: 18199320034

Status: Unutilized

Reason: Secured Area.

Bldg. 526

Minot Air Force Base

Minot Co: Ward ND 58701-

Landholding Agency: Air Force

Property Number: 18199320038

Status: Unutilized

Reason: Secured Area.

Bldg. 895

Minot Air Force Base

Minot Co: Ward ND 58701-

Landholding Agency: Air Force

Property Number: 18199320039

Status: Unutilized

Reason: Secured Area.

Ohio

14 Bldgs.

Area B, Wright-Patterson AFB

Co: Montgomery OH 45433-

Location: 6036, 38, 42, 44, 45, 49, 54, 64, 65, 69, 75

Landholding Agency: Air Force

Property Number: 18199820030

Status: Unutilized

Reason: Within airport runway clear zone.

Bldg. 6104, 08, 09

Area B, Wright-Patterson AFB

Co: Montgomery OH 45433-

Landholding Agency: Air Force

Property Number: 18199820044

Status: Unutilized

Reason: Within airport runway clear zone.

Bldg. 522

Youngstown Air Reserve

Vienna Co: Trumbull OH 44473-0910

Landholding Agency: Air Force

Property Number: 18200010007

Status: Unutilized

Reasons: Within 2000 ft. of flammable or explosive material; Secured Area; Extensive deterioration.

Lab

Ohio River Division Laboratories

Mariemont Co: Hamilton OH 15227-4217

Landholding Agency: COE

Property Number: 31199510002

Status: Unutilized

Reason: Secured Area.

Storage Facility

Ohio River Division Laboratories

Mariemont Co: Hamilton OH 15227-4217

Landholding Agency: COE

Property Number: 31199510003

Status: Unutilized

Reason: Secured Area.

Office Building

Ohio River Division Laboratories

Mariemont Co: Hamilton OH 15227-4217

Landholding Agency: COE

Property Number: 31199510004

Status: Unutilized

Reason: Secured Area.

Bldg. 77

Fernald Environmental Management Project

Fernald Co: Hamilton OH 45013-

Landholding Agency: Energy

Property Number: 41199840003

Status: Excess

Reasons: Within 2000 ft. of flammable or explosive material; Secured Area.

Bldg. 82A

Fernald Environmental Management Project

Fernald Co: Hamilton OH 45013-

Landholding Agency: Energy

Property Number: 41199910018

Status: Excess

Reasons: Within 2000 ft. of flammable or explosive material; Secured Area.

Bldg. 16

RMI Environmental Services

Ashtabula Co: OH 44004-

Landholding Agency: Energy

Property Number: 41199930016

Status: Unutilized

Reason: Secured Area.

Bldg. 22B

Fernald Environmental Management Project

Hamilton Co: OH 45013-9402

Landholding Agency: Energy

Property Number: 41200020026

Status: Unutilized

Reasons: Within 2000 ft. of flammable or explosive material; Secured Area.

Bldg. 28A

Fernald Environmental Management Project

Hamilton Co: OH 45013-9402

Landholding Agency: Energy

Property Number: 41200020027

Status: Unutilized

Reasons: Within 2000 ft. of flammable or explosive material; Secured Area.

Bldg. 28B

Fernald Environmental Management Project

Hamilton Co: OH 45013-9402

Landholding Agency: Energy

Property Number: 41200020028

Status: Unutilized

Reasons: Within 2000 ft. of flammable or explosive material; Secured Area.

Bldg. 116

VA Medical Center

Dayton Co: Montgomery OH 45428-

Landholding Agency: VA

Property Number: 97199920002

Status: Unutilized

Reason: Extensive deterioration.

Bldg. 217

VA Medical Center

Dayton Co: Montgomery OH 45428-

Landholding Agency: VA

Property Number: 97199920003

Status: Unutilized

Reason: Extensive deterioration.

Bldg. 402

VA Medical Center

Dayton Co: Montgomery OH 45428-

Landholding Agency: VA

Property Number: 97199920004

Status: Unutilized

Reason: Extensive deterioration.

Bldg. 105

VA Medical Center

Dayton Co: Montgomery OH 45428-

Landholding Agency: VA

Property Number: 97199920005

Status: Unutilized

Reason: Extensive deterioration.

Oklahoma

Bldg. 010

Tulsa IAP Base

Tulsa OK 74115-1699

Landholding Agency: Air Force

Property Number: 18199820031

Status: Unutilized

Reasons: Within 2000 ft. of flammable or explosive material Secured Area.

Bldg. 305

Tulsa IAP Base

Tulsa OK 74115-1699

Landholding Agency: Air Force

Property Number: 18199820032

Status: Unutilized

Reasons: Within 2000 ft. of flammable or explosive material Secured Area.

Bldgs. 4a, 4b, 6, 8, 9, 11, 12

NIPER

Bartlesville Co: Washington OK 74003-

Landholding Agency: Energy

Property Number: 41199720003

Status: Unutilized

Reason: Extensive deterioration.

Oregon

Bldg. 8

USCG Tongue Point Moorings

Astoria Co: OR 97103-2099

Landholding Agency: DOT

Property Number: 87199910001

Status: Unutilized

Reason: Extensive deterioration.

Duplex

Cape Blanco

Sixes Co: Curry OR 97465-

Landholding Agency: DOT

Property Number: 87199940002

Status: Unutilized

Reason: Extensive deterioration.

Pennsylvania

Z-Bldg.

Bettis Atomic Power Lab

West Mifflin Co: Allegheny PA 15122-0109

Landholding Agency: Energy

Property Number: 41199720002

Status: Excess

Reason: Extensive deterioration.

Tract 105-03

Beach Lake Co: Wayne PA 18405-9737

Landholding Agency: Interior

Property Number: 61200020020

Status: Excess

Reason: Extensive deterioration.

Mueller, Louis House

Rt. 209

Dingman's Ferry Co: Pike PA 18328-

Landholding Agency: Interior

Property Number: 61200020023

Status: Unutilized

Reason: Extensive deterioration.

Vanaria, Edward Garage

Rt. 209

Dingman's Ferry Co: Pike PA 18328-

Landholding Agency: Interior

Property Number: 61200020024

Status: Unutilized

Reason: Extensive deterioration.

Foster, Dorothy House

Freeman Tract Rd.

Bushkill Co: Monroe PA 18324-

Landholding Agency: Interior

Property Number: 61200020025

Status: Unutilized

Reason: Extensive deterioration.

Span, Irene House

Freeman Tract Rd.

Bushkill Co: Monroe PA 18324-

Landholding Agency: Interior

Property Number: 61200020026

Status: Unutilized

Reason: Extensive deterioration.

NAFA Warehouse

U.S. Coast Guard Air Station Borinquen

Aquadilla PR 00604-

Landholding Agency: DOT

Property Number: 87199310011

Status: Unutilized

Reason: Secured Area.

Storage Equipment Bldg.

U.S. Coast Guard Air Station Borinquen

Aquadilla PR 00604-

Landholding Agency: DOT

Property Number: 87199310001

Status: Unutilized

Reason: Secured Area.

Bldg. 115

U.S. Coast Guard Base

San Juan PR 00902-2029

Landholding Agency: DOT

Property Number: 87199510001

Status: Unutilized

Reason: Secured Area.

Bldg. 117

U.S. Coast Guard Base

San Juan PR 00902-2029

Landholding Agency: DOT

Property Number: 87199510002

Status: Unutilized

Reason: Secured Area.

Bldg. 118

U.S. Coast Guard Base

San Juan PR 00902-2029

Landholding Agency: DOT

Property Number: 87199510003

Status: Unutilized

Reason: Secured Area.

Bldg. 119

U.S. Coast Guard Base

San Juan PR 00902-2029

Landholding Agency: DOT

Property Number: 87199510004

Status: Unutilized

Reason: Secured Area.

Bldg. 120

U.S. Coast Guard Base

San Juan PR 00902-2029

Landholding Agency: DOT

Property Number: 87199510005

Status: Unutilized

Reason: Secured Area.

Bldg. 122

U.S. Coast Guard Base

San Juan PR 00902-2029

Landholding Agency: DOT

Property Number: 87199510006

Status: Unutilized

Reason: Secured Area.

Bldg. 128

U.S. Coast Guard Base

San Juan PR 00902-2029

Landholding Agency: DOT

Property Number: 87199510007

Status: Unutilized

Reason: Secured Area.

Bldg. 129

U.S. Coast Guard Base

San Juan PR 00902-2029

Landholding Agency: DOT

Property Number: 87199510008

Status: Unutilized

Reason: Secured Area.

Rhode Island

Station Point Judith Pier

Narranganset Co: Washington RI 02882-

Landholding Agency: DOT

Property Number: 87199310002

Status: Unutilized

Reason: Extensive deterioration.

South Carolina

Bldg. 2012

Naval Weapons Station

Charleston

Goose Creek Co: Berkeley SC 29445-

Landholding Agency: Navy

Property Number: 77200030057

Status: Excess

Reason: Extensive deterioration.

South Dakota

Bldg. 200, South Nike Ed Annex

Ellsworth Air Force Base

Ellsworth AFB Co: Pennington SD 57706-

Landholding Agency: Air Force

Property Number: 18199320048

Status: Unutilized

Reason: Extensive deterioration.

Bldg. 201, South Nike Ed Annex

Ellsworth Air Force Base

Ellsworth AFB Co: Pennington SD 57706-

Landholding Agency: Air Force

Property Number: 18199320049

Status: Unutilized

Reason: Extensive deterioration.

Bldg. 203, South Nike Ed Annex

Ellsworth Air Force Base

Ellsworth AFB Co: Pennington SD 57706-

Landholding Agency: Air Force

Property Number: 18199320050

Status: Unutilized

Reason: Extensive deterioration.

Bldg. 204, South Nike Ed Annex

Ellsworth Air Force Base

Ellsworth AFB Co: Pennington SD 57706-

Landholding Agency: Air Force

Property Number: 18199320051

Status: Unutilized

Reason: Extensive deterioration.

Bldg. 205, South Nike Ed Annex

Ellsworth Air Force Base

Ellsworth AFB Co: Pennington SD 57706-

Landholding Agency: Air Force

Property Number: 18199320052

Status: Unutilized

Reason: Extensive deterioration.

Bldg. 206, South Nike Ed Annex

Ellsworth Air Force Base

Ellsworth AFB Co: Pennington SD 57706-

Landholding Agency: Air Force

Property Number: 18199320053

Status: Unutilized

Reason: Extensive deterioration.

Bldg. 88470

Ellsworth Air Force Base

Ellsworth AFB Co: Meade SD 57706-

Landholding Agency: Air Force

Property Number: 18199340033

Status: Unutilized

Reasons: Within 2000 ft. of flammable or explosive material; Secured Area.

Bldg. 7506

Ellsworth Air Force Base

Ellsworth AFB Co: Meade SD 57706-

Landholding Agency: Air Force

Property Number: 18199340037

Status: Unutilized

Reason: Secured Area.

Bldg. 111

Ellsworth Air Force Base

Ellsworth AFB Co: Meade SD 57706-

Landholding Agency: Air Force

Property Number: 18199730007

Status: Unutilized

Reason: Secured Area.

Bldg. 7530

Ellsworth AFB

Ellsworth AFB Co: Meade SD 57706-

Landholding Agency: Air Force

Property Number: 18199810025

Status: Unutilized

Reason: Secured Area.

Bldg. 7504

Ellsworth AFB

Co: Meade SD 57706-

Landholding Agency: Air Force

Property Number: 18199820034

Status: Unutilized

Reasons: Within 2000 ft. of flammable or explosive material; Within airport runway clear zone; Secured Area.

Bldg. 4001

Ellsworth AFB

Co: Meade SD 57706-

Landholding Agency: Air Force

Property Number: 18199820035

Status: Unutilized

Reason: Secured Area.

Bldg. 7239

Ellsworth AFB

Co: Meade SD 57706-

Landholding Agency: Air Force

Property Number: 18199820036

Status: Unutilized

Reasons: Within 2000 ft. of flammable or explosive material; Within airport runway clear zone; Secured Area.

Bldg. 1102

Ellsworth AFB

Co: Meade SD 57706-

Landholding Agency: Air Force

Property Number: 18199820037

Status: Unutilized

Reason: Secured Area.

Bldg. 88307

Ellsworth AFB

Co: Meade SD 57706-

Landholding Agency: Air Force

Property Number: 18199820038

Status: Unutilized

Reasons: Within 2000 ft. of flammable or explosive material; Secured Area.

Bldg. 88320

Ellsworth AFB

Co: Meade SD 57706-

Landholding Agency: Air Force

Property Number: 18199820039

Status: Unutilized

Reasons: Within 2000 ft. of flammable or explosive material; Secured Area.

Bldg. 608

Ellsworth Air Force Base

Ellsworth AFB Co: Pennington SD 57706-

Landholding Agency: Air Force

Property Number: 18199920023

Status: Unutilized

Reasons: Within 2000 ft. of flammable or explosive material; Within airport runway clear zone; Secured Area.

Bldg. 3501

Ellsworth Air Force Base

Ellsworth AFB Co: Pennington SD 57706-

Landholding Agency: Air Force

Property Number: 18199920024

Status: Unutilized

Reason: Secured Area.

5 Bldgs.

Ellsworth Air Force Base

6926, 6928, 6929, 6930, 6931

Ellsworth AFB Co: Pennington SD 57706-

Landholding Agency: Air Force

Property Number: 18199920025

Status: Unutilized

Reason: Secured Area.

Bldg. 8001

Ellsworth Air Force Base

Ellsworth AFB Co: Pennington SD 57706-

Landholding Agency: Air Force

Property Number: 18199920026

Status: Unutilized

Reason: Secured Area.

Bldg. 609

Ellsworth AFB

Ellsworth AFB Co: Pennington SD 57706-

Landholding Agency: Air Force

Property Number: 18199930012

Status: Unutilized

Reasons: Within 2000 ft. of flammable or explosive material; Secured Area.

Bldg. 7911

Ellsworth AFB

Ellsworth AFB Co: Pennington SD 57706-

Landholding Agency: Air Force

Property Number: 18199930013

Status: Unutilized

Reason: Secured Area.

Mobile Home

Tract L-1295

Oahe Dam

Potter Co: SD 00000-

Landholding Agency: COE

Property Number: 31200030001

Status: Excess

Reason: Extensive deterioration.

Tennessee

Bldg. 204

Cordell Hull Lake and Dam Project

Defeated Creek Recreation Area

Carthage Co: Smith TN 37030-

Location: US Highway 85

Landholding Agency: COE

Property Number: 31199011499

Status: Unutilized

Reason: Floodway.

Tract 2618 (Portion)

Cordell Hull Lake and Dam Project

Roaring River Recreation Area

Gainesboro Co: Jackson TN 38562-

Location: TN Highway 135

Landholding Agency: COE

Property Number: 31199011503

Status: Underutilized

Reason: Floodway.

Water Treatment Plant

Dale Hollow Lake & Dam Project

Obey River Park, State Hwy 42

Livingston Co: Clay TN 38351-

Landholding Agency: COE

Property Number: 31199140011

Status: Excess

Reason: Water treatment plant.

Water Treatment Plant

Dale Hollow Lake & Dam Project

Lillydale Recreation Area, State Hwy 53

Livingston Co: Clay TN 38351-

Landholding Agency: COE

Property Number: 31199140012

Status: Excess

Reason: Water treatment plant.

Water Treatment Plant

Dale Hollow Lake & Dam Project

Willow Grove Recreational Area, Hwy No. 53

Livingston Co: Clay TN 38351-

Landholding Agency: COE

Property Number: 31199140013

Status: Excess

Reason: Water treatment plant.

Caretakers Facilities

Lock 7

Old Hickory Lock & Dam

Carthage Co: Smith TN 37030-

Landholding Agency: COE

Property Number: 31200010002

Status: Unutilized

Reason: Extensive deterioration.

Bldg. 3004

Oak Ridge National Lab

Oak Ridge Co: Roane TN 37831-

Landholding Agency: Energy

Property Number: 41199710002

Status: Unutilized

Reasons: Secured Area; Extensive deterioration.

Bldg. 3004

Oak Ridge National Lab

Oak Ridge Co: Roane TN 37831-

Landholding Agency: Energy

Property Number: 41199720001

Status: Excess

Reason: Extensive deterioration.

Bldgs. 9714-3, 9714-4, 9983-AY

Y-12 Pistol Range

Oak Ridge Co: Anderson TN 37831-

Landholding Agency: Energy

Property Number: 41199720004

Status: Unutilized

Reason: Secured Area.

5 Bldgs.

K-724, K-725, K-1031, K-1131, K-1410

East Tennessee Technology Park

Oak Ridge Co: Roane TN 37831-

Landholding Agency: Energy

Property Number: 41199730001

Status: Unutilized

Reason: Extensive deterioration.

Bldg. 9418-1

Y-12 Plant

Oak Ridge Co: Anderson TN 37831-

Landholding Agency: Energy

Property Number: 41199810026

Status: Unutilized

Reasons: Secured Area; Extensive deterioration.

Bldg. 9825

Y-12 Plant

Oak Ridge Co: Anderson TN 37831-

Landholding Agency: Energy

Property Number: 41199810027

Status: Unutilized

Reason: Secured Area.

Bldg. 3026

Oak Ridge Natl Lab

Oak Ridge Co: Roane TN 37831-

Landholding Agency: Energy

Property Number: 41199830001

Status: Excess

Reasons: Secured Area; Extensive deterioration.

Bldg. 3505

Oak Ridge National Lab

Oak Ridge Co: Roane TN 37831-

Landholding Agency: Energy

Property Number: 41199940020

Status: Unutilized

Reasons: Secured Area; Extensive deterioration.

9 Bldgs.

E. Tennessee Tech Park

Oak Ridge Co: Roane TN 37831-

Location: K-1001, K-1301, K-1302, K-1303, K-1404, K-1405-6, K-1407, K-1408A, K-1413

Landholding Agency: Energy

Property Number: 41200010023

Status: Unutilized

Reasons: Secured Area; Extensive deterioration.

Elkmont Maint/Ofc Bldg

Great Smoky Mtns Natl Park

N. District

Gatlinburg Co: Sevier TN 37738-

Landholding Agency: Interior

Property Number: 61199940011

Status: Unutilized

Reason: Extensive deterioration.

Guest House 9A

Great Smoky Mtns Natl Park

N. District

Gatlinburg Co: Sevier TN 37738-

Landholding Agency: Interior

Property Number: 61199940012

Status: Unutilized

Reason: Extensive deterioration.

Cabin 9B

Great Smoky Mtns Natl Park

N. District

Gatlinburg Co: Sevier TN 37738-

Landholding Agency: Interior

Property Number: 61199940013

Status: Unutilized

Reason: Extensive deterioration.

Cabin 12, Sneed's

Great Smoky Mtns Natl Park

N. District

Gatlinburg Co: Sevier TN 37738-

Landholding Agency: Interior

Property Number: 61199940014

Status: Unutilized

Reason: Extensive deterioration.

Cabin 14, Jamerson's

Great Smoky Mtns Natl Park

N. District

Gatlinburg Co: Sevier TN 37738-

Landholding Agency: Interior

Property Number: 61199940015

Status: Unutilized

Reason: Extensive deterioration.

Cabin 16, Burdette's

Great Smoky Mtns Natl Park

N. District

Gatlinburg Co: Sevier TN 37738-

Landholding Agency: Interior

Property Number: 61199940016

Status: Unutilized

Reason: Extensive deterioration.

Cabin 17, Bagley's

Great Smoky Mtns Natl Park

N. District

Gatlinburg Co: Sevier TN 37738-

Landholding Agency: Interior

Property Number: 61199940017

Status: Unutilized

Reason: Extensive deterioration.

Cabin 20, Andrews

Great Smoky Mtns Natl Park

N. District

Gatlinburg Co: Sevier TN 37738-

Landholding Agency: Interior

Property Number: 61199940018

Status: Unutilized

Reason: Extensive deterioration.

Cabin 25, Franklins

Great Smoky Mtns Natl Park

N. District

Gatlinburg Co: Sevier TN 37738-

Landholding Agency: Interior

Property Number: 61199940019

Status: Unutilized

Reason: Extensive deterioration.

Cabin 26, Hutchins

Great Smoky Mtns Natl Park

N. District

Gatlinburg Co: Sevier TN 37738-

Landholding Agency: Interior

Property Number: 61199940020

Status: Unutilized

Reason: Extensive deterioration.

Cabin 43, Brandau's

Great Smoky Mtns Natl Park

N. District

Gatlinburg Co: Sevier TN 37738-

Landholding Agency: Interior

Property Number: 61199940021

Status: Unutilized

Reason: Extensive deterioration.

Cabin 44, Parrott's

Great Smoky Mtns Natl Park

N. District

Gatlinburg Co: Sevier TN 37738-

Landholding Agency: Interior

Property Number: 61199940022

Status: Unutilized

Reason: Extensive deterioration.

Texas

Log Cabin

Saratoga Unit

Hwy 770

Saratoga Co: Hardin TX 77585-

Landholding Agency: Interior

Property Number: 61199940023

Status: Unutilized

Reason: Extensive deterioration.

Old Exchange Bldg.

U.S. Coast Guard

Galveston Co: Galveston TX 77553-3001

Landholding Agency: DOT

Property Number: 87199310012

Status: Unutilized

Reason: Secured Area.

WPB Building

Station Port Isabel

Coast Guard Station

South Padre Island Co: Cameron TX 78597-6497

Landholding Agency: DOT

Property Number: 87199530002

Status: Unutilized

Reason: Floodway.

Aton Shops Building

USCG Station Sabine

Sabine Co: Jefferson TX 77655-

Landholding Agency: DOT

Property Number: 87199530003

Status: Unutilized

Reasons: Within 2000 ft. of flammable or explosive material; Secured Area.

WPB Storage Shed

USCG Station Sabine

Sabine Co: Jefferson TX 77655-

Landholding Agency: DOT

Property Number: 87199530004

Status: Unutilized

Reasons: Within 2000 ft. of flammable or explosive material; Secured Area.

Flammable Storage Building

USCG Station Sabine

Sabine Co: Jefferson TX 77655-

Landholding Agency: DOT

Property Number: 87199530005

Status: Unutilized

Reasons: Within 2000 ft. of flammable or explosive material; Secured Area.

Battery Storage Building

USCG Station Sabine

Sabine Co: Jefferson TX 77655-

Landholding Agency: DOT

Property Number: 87199530006

Status: Unutilized

Reasons: Within 2000 ft. of flammable or explosive material; Secured Area.

Boat House

USCG Station Sabine

Sabine Co: Jefferson TX 77655-

Landholding Agency: DOT

Property Number: 87199530007

Status: Unutilized

Reasons: Within 2000 ft. of flammable or explosive material; Secured Area.

Small Boat Pier

USCG Station Sabine

Sabine Co: Jefferson TX 77655-

Landholding Agency: DOT

Property Number: 87199530008

Status: Unutilized

Reasons: Within 2000 ft. of flammable or explosive material; Secured Area.

Bldg. 108

Fort Crockett/43rd St. Housing

Galveston Co: Galveston TX 77553-

Landholding Agency: DOT

Property Number: 87199630008

Status: Unutilized

Reason: Extensive deterioration.

Bldg. 789

Hill Air Force Base

(See County) Co: Davis UT 84056-

Landholding Agency: Air Force

Property Number: 18199040859

Status: Unutilized

Reasons: Within airport runway clear zone; Secured Area.

Vermont

Facility 100

Burlington IAP

Burlington Co: Chittenden VT 05403-5872

Landholding Agency: Air Force

Property Number: 18199730008

Status: Excess

Reason: Within 2000 ft. of flammable or explosive material.

Facility 110

Burlington IAP

Burlington Co: Chittenden VT 05403-5872

Landholding Agency: Air Force

Property Number: 18200030016

Status: Excess

Reason: Within 2000 ft. of flammable or explosive material.

Depot Street

Downtown at the Waterfront

Burlington Co: Chittenden VT 05401-5226

Landholding Agency: DOT

Property Number: 87199220003

Status: Excess

Reason: Floodway.

Virginia

Bldg. 417

Camp Pendleton

Virginia Beach VA 23451-

Landholding Agency: Air Force

Property Number: 18199710003

Status: Unutilized

Reason: Extensive deterioration.

Bldg. 418

Camp Pendleton

Virginia Beach VA 23451-

Landholding Agency: Air Force

Property Number: 18199710004

Status: Unutilized

Reason: Extensive deterioration.

Bldg. 052 & Tennis Court

USCG Reserve Training Center

Yorktown Co: York VA 23690-

Landholding Agency: DOT

Property Number: 87199230004

Status: Excess

Reason: Secured Area.

Admin. Bldg.

Coast Guard, Group Eastern Shores

Chincoteague Co: Accomack VA 23361-5100

Landholding Agency: DOT

Property Number: 87199240014

Status: Unutilized

Reason: Secured Area.

Little Creek Station

Navamphib Base, West Annex, U.S. Coast Guard

Norfolk Co: Princess Anne VA 23520-

Landholding Agency: DOT

Property Number: 87199310004

Status: Unutilized

Reason: Secured Area.

Operations Bldg.

U.S. Coast Guard Group

Hampton Roads

Portsmouth VA 23703-

Landholding Agency: DOT

Property Number: 87199710003

Status: Unutilized

Reason: Secured Area.

Washington

Bldg. 100, Geiger Heights

Grove and Hallet Streets

Fairchild AFB Co: Spokane WA 99204-

Landholding Agency: Air Force

Property Number: 18199210004

Status: Unutilized

Reason: Extensive deterioration.

Bldg. 2000

Fairchild Air Force Base

Fairchild AFB Co: Spokane WA 99011-

Landholding Agency: Air Force

Property Number: 18199310058

Status: Unutilized

Reasons: Within 2000 ft. of flammable or explosive material; Secured Area.

Facility 2450

Fairchild Air Force Base

Fairchild AFB Co: Spokane WA 99011-

Landholding Agency: Air Force

Property Number: 18199310065

Status: Unutilized

Reasons: Within 2000 ft. of flammable or explosive material; Secured Area.

Bldg. 1, Waste Annex

West of Craig Road

Co: Spokane WA 99022-

Landholding Agency: Air Force

Property Number: 18199320043

Status: Unutilized

Reason: Secured Area.

Cox House & Shed

Tracts 16-114, 16-115

Port Angeles Co: Clallam WA 98362-

Landholding Agency: Interior

Property Number: 61200030001

Status: Unutilized

Reason: Extensive deterioration.

Schott House

Tract 07-106

Port Angeles Co: Clallam WA 98362-

Landholding Agency: Interior

Property Number: 61200030002

Status: Unutilized

Reason: Extensive deterioration.

Pistol Range Bldg.

USCG Port Angeles

Port Angeles Co: Clallam WA 98362-0159

Landholding Agency: DOT

Property Number: 87199630030

Status: Unutilized

Reasons: Within airport runway clear zone; Secured Area; Extensive deterioration.

Floating Boathouse

Bellingham Co: Whatcom WA 98225-

Landholding Agency: DOT

Property Number: 87199820001

Status: Excess

Reason: Inaccessible.

Quarters 8, 10, 12, 14

USCG Station Cape Disappointment

Ilwaco Co: Pacific WA 98624-

Landholding Agency: DOT

Property Number: 87199930001

Status: Unutilized

Reason: Extensive deterioration.

West Virginia

Thomas House, Trace 173-20

New River Gorge National River

Glen Jean Co: Fayette WV 25846-

Landholding Agency: Interior

Property Number: 61199910009

Status: Excess

Reason: Extensive deterioration.

Cole House, Tract 153-07

New River Gorge National River

Fayetteville Co: Fayette WV 25840-

Landholding Agency: Interior

Property Number: 61199910010

Status: Excess

Reason: Extensive deterioration.

Vento House, Tract 173-17

New River Gorge National River

Glen Jean Co: Fayette WV 25846-

Landholding Agency: Interior

Property Number: 61199910011

Status: Excess

Reason: Extensive deterioration.

Wisconsin

Bldg. 1

Fountain City Service Base

Fountain City Co: Buffalo WI 54629-0397

Landholding Agency: COE

Property Number: 31200030002

Status: Unutilized

Reason: Extensive deterioration.

Bldg. 2

Fountain City Service Base

Fountain City Co: Buffalo WI 54629-0397

Landholding Agency: COE

Property Number: 31200030003

Status: Unutilized

Reason: Extensive deterioration.

Rawley Point Light

Two Rivers Co: Maintowoc WI

Landholding Agency: DOT

Property Number: 87199540004

Status: Unutilized

Reason: Secured Area; Extensive deterioration.

Wyoming

Bldg. 31

F.E. Warren Air Force Base

Cheyenne Co: Laramie WY 82005-

Landholding Agency: Air Force

Property Number: 18199010198

Status: Unutilized

Reason: Secured Area.

Bldg. 284

F.E. Warren Air Force Base

Cheyenne Co: Laramie WY 82005-

Landholding Agency: Air Force

Property Number: 18199010201

Status: Unutilized

Reason: Secured Area.

Bldg. 385

F.E. Warren Air Force Base

Cheyenne Co: Laramie WY 82005-

Landholding Agency: Air Force

Property Number: 18199010202

Status: Unutilized

Reason: Secured Area.

Bldgs. 2565-2571

F.E. Warren AFB

Cheyenne Co: Laramie WY 82005-5000

Landholding Agency: Air Force

Property Number: 18199720001

Status: Unutilized

Reason: Secured Area; Extensive deterioration.

Bldgs. 2564, 2572

F.E. Warren AFB

Cheyenne Co: Laramie WY 82005-5000

Landholding Agency: Air Force

Property Number: 18199720002

Status: Unutilized

Reason: Secured Area; Extensive deterioration.

9 Bldgs.

F.E. Warren AFB

2982-2986, 2989, 2991, 2994-2995

Cheyenne Co: Laramie WY 82005-5000

Landholding Agency: Air Force

Property Number: 18199720003

Status: Unutilized

Reasons: Secured Area; Extensive deterioration.

6 Bldgs.

F.E. Warren AFB

2768, 2772, 2773, 2993, 2980, 2988

Cheyenne Co: Laramie WY 82005-5000

Landholding Agency: Air Force

Property Number: 18199720004

Status: Unutilized

Reasons: Secured Area; Extensive deterioration.

8 Bldgs.

F.E. Warren AFB

2784, 2762-2764, 2769, 2775, 2777, 2981

Cheyenne Co: Laramie WY 82005-5000

Landholding Agency: Air Force

Property Number: 18199720005

Status: Unutilized

Reasons: Secured Area; Extensive deterioration.

8 Bldgs.

F.E. Warren AFB

2785-2786, 2770-2771, 2774, 2776, 2990, 2992

Cheyenne Co: Laramie WY 82005-5000

Landholding Agency: Air Force

Property Number: 18199720006

Status: Unutilized

Reasons: Secured Area; Extensive deterioration.

Bldgs. 2460-2468

F.E. Warren AFB

Cheyenne Co: Laramie WY 82005-5000

Landholding Agency: Air Force

Property Number: 18199830018

Status: Unutilized

Reasons: Secured Area; Extensive deterioration.

9 Bldgs.

F.E. Warren AFB

Cheyenne Co: Laramie WY 82005-5000

Location: 2469, 2470, 2508-2511, 2520, 2523, 2528

Landholding Agency: Air Force

Property Number: 18199830019

Status: Unutilized

Reasons: Secured Area; Extensive deterioration.

9 Bldgs.

F.E. Warren AFB

Cheyenne Co: Laramie WY 82005-5000

Location: 2471-2472, 2502, 2504-2507, 2544

Landholding Agency: Air Force

Property Number: 18199830020

Status: Unutilized

Reasons: Secured Area; Extensive deterioration.

8 Bldgs.

F.E. Warren AFB

Cheyenne Co: Laramie WY 82005-5000

Location: 2473, 2500, 2503, 2547, 2557, 2601, 2613, 2625

Landholding Agency: Air Force

Property Number: 18199830021

Status: Unutilized

Reasons: Secured Area; Extensive deterioration.

9 Bldgs.

F.E. Warren AFB

Cheyenne Co: Laramie WY 82005-5000

Location: 2512, 2514-2517, 2418, 2519, 2524, 2525

Landholding Agency: Air Force

Property Number: 18199830022

Status: Unutilized

Reasons: Secured Area; Extensive deterioration.

9 Bldgs.

F.E. Warren AFB

Cheyenne Co: Laramie WY 82005-5000

Location: 2513, 2530, 2537, 2606, 2626, 2700, 2707, 2720, 2750

Landholding Agency: Air Force

Property Number: 18199830023

Status: Unutilized

Reasons: Secured Area; Extensive deterioration.

9 Bldgs.

F.E. Warren AFB

Cheyenne Co: Laramie WY 82005-5000

Location: 2526, 2527, 2532-2534, 2439, 2608, 2610, 2612

Landholding Agency: Air Force

Property Number: 18199830024

Status: Unutilized

Reasons: Secured Area; Extensive deterioration.

9 Bldgs.

F.E. Warren AFB

Cheyenne Co: Laramie WY 82005-5000

Location: 2529, 2531, 2535-2536, 2538, 2540-2543

Landholding Agency: Air Force

Property Number: 18199830025

Status: Unutilized

Reasons: Secured Area; Extensive deterioration.

9 Bldgs.

F.E. Warren AFB

Cheyenne Co: Laramie WY 82005-5000

Location: 2545, 2546, 2548-2554

Landholding Agency: Air Force

Property Number: 18199830026

Status: Unutilized

Reasons: Secured Area; Extensive deterioration.

9 Bldgs.

F.E. Warren AFB

Cheyenne Co: Laramie WY 82005-5000

Location: 2555, 2556, 2558, 2559, 2603, 2605, 2607, 2609, 2611

Landholding Agency: Air Force

Property Number: 18199830027

Status: Unutilized

Reasons: Secured Area; Extensive deterioration.

9 Bldgs.

F.E. Warren AFB

Cheyenne Co: Laramie WY 82005-5000

Location: 2560, 2561, 2600, 2602, 2604, 2701, 2702, 2704, 2705

Landholding Agency: Air Force

Property Number: 18199830028

Status: Unutilized

Reasons: Secured Area; Extensive deterioration.

9 Bldgs.

F.E. Warren AFB

Cheyenne Co: Laramie WY 82005-5000

Location: 2614, 2616, 2618, 2620, 2622, 2624, 2714, 2718, 2722

Landholding Agency: Air Force

Property Number: 18199830029

Status: Unutilized

Reasons: Secured Area; Extensive deterioration.

6 Bldgs.

F.E. Warren AFB

Cheyenne Co: Laramie WY 82005-5000

Location: 2615, 2617, 2619, 2621, 2623, 2627

Landholding Agency: Air Force

Property Number: 18199830030

Status: Unutilized

Reasons: Secured Area; Extensive deterioration.

9 Bldgs.

F.E. Warren AFB

Cheyenne Co: Laramie WY 82005-5000

Location: 2706, 2708-2713, 2715, 2716

Landholding Agency: Air Force

Property Number: 18199830031

Status: Unutilized

Reasons: Secured Area; Extensive deterioration.

9 Bldgs.

F.E. Warren AFB

Cheyenne Co: Laramie WY 82005-5000

Location: 2717, 2719, 2721, 2727, 2728, 2751, 2753, 2757, 2759

Landholding Agency: Air Force

Property Number: 18199830032

Status: Unutilized

Reasons: Secured Area; Extensive deterioration.

10 Bldgs.

F.E. Warren AFB

Cheyenne Co: Laramie WY 82005-5000

Location: 2723-2726, 2752, 2754-2756, 2758, 2703

Landholding Agency: Air Force

Property Number: 18199830033

Status: Unutilized

Reasons: Secured Area; Extensive deterioration.

4 Bldgs.

F.E. Warren AFB

Cheyenne Co: Laramie WY 82005-5000

Location: 2739, 2740, 2760, 2761

Landholding Agency: Air Force

Property Number: 18199830034

Status: Unutilized

Reasons: Secured Area; Extensive deterioration.

Bldg. 919

F.E. Warren AFB

Cheyenne Co: Laramie WY 82005-5000

Landholding Agency: Air Force

Property Number: 18199930015

Status: Unutilized

Reasons: Secured Area.

Bldg. 95

Medical Center

N.W. of town at the end of Fort Road

Sheridan Co: Sheridan WY 82801-

Landholding Agency: VA

Property Number: 97199110004

Status: Unutilized

Reasons: Sewage digester for disposal plant.

Bldg. 96

Medical Center

N.W. of town at end of Fort Road

Sheridan Co: Sheridan WY 82801-

Landholding Agency: VA

Property Number: 97199110005

Status: Unutilized

Reasons: Pump house for sewage disposal plant.

Structure 99

Medical Center

N.W. of town at the end of Fort Road

Sheridan Co: Sheridan WY 82801-

Landholding Agency: VA

Property Number: 97199110006

Status: Unutilized

Reasons: Mechanical screen for sewage disposal plant.

Structure 100

Medical Center

N.W. of town at the end of Fort Road

Sheridan Co: Sheridan WY 82801-

Landholding Agency: VA

Property Number: 97199110007

Status: Unutilized

Reason: Dosing tank for sewage disposal plant.

Structure 101

Medical Center

N.W. of town at the end of Fort Road

Sheridan Co: Sheridan WY 82801-

Landholding Agency: VA

Property Number: 97199110008

Status: Unutilized

Reasons: Chlorination chamber for sewage disposal.

Bldg. 97, Medical Center

Sheridan Co: Sheridan WY 82801-

Landholding Agency: VA

Property Number: 97199410011

Status: Unutilized

Reason: Sewage disposal plant.

Structure 98, Medical Center

Sheridan Co: Sheridan WY 82801-

Landholding Agency: VA

Property Number: 97199410012

Status: Unutilized

Reason: Sludge bed/sewage disposal plant.

Bldg. 80

Medical Center

Sheridan WY 82801-

Landholding Agency: VA

Property Number: 97199840001

Status: Unutilized

Reasons: Floodway; Extensive deterioration.

Alaska

Campion Air Force Station

21 CSG/DEER

Elmendorf AFB Co: Anchorage AK 99506-5000

Landholding Agency: Air Force

Property Number: 18199010430

Status: Unutilized

Reasons: Isolated area; Not accessible by road; Isolated and remote area; Arctic environ.

Lake Louise Recreation

21 CSG/DEER

Elmendorf AFB Co: Anchorage AK 99506-5000

Landholding Agency: Air Force

Property Number: 18199010431

Status: Unutilized

Reasons: Isolated area; Not accessible by road; Isolated and remote area; Arctic coast.

Nikolski Radio Relay Site

21 CSG/DEER

Elmendorf AFB Co: Anchorage AK 99506-5000

Landholding Agency: Air Force

Property Number: 18199010432

Status: Unutilized

Reasons: Isolated area; Not accessible by road; Isolated and remote area; Arctic coast.

Russian Creek Aggregate Site

USCG Support Center Kodiak

Kodiak Co: Kodiak AK 99619-

Landholding Agency: DOT

Property Number: 87199440025

Status: Excess

Reason: Floodway.

Sargent Creek Aggregate Site

USCG Support Center Kodiak

Kodiak Co: Kodiak AK 99619-

Landholding Agency: DOT

Property Number: 87199440026

Status: Excess

Reason: Floodway.

Land—Sanak Island

106+acres

Sanak Island Co: Sanak Harbor AK

Landholding Agency: DOT

Property Number: 87199640003

Status: Unutilized

Reason: Inaccessible.

Arizona

Lamoreaux Property

Case #99-030

Gilbert Co: Maricopa AZ 85296-

Landholding Agency: Interior

Property Number: 61200010013

Status: Unutilized

Reason: No public access.

Parcel SG-1-96, SG-1-138

T1N, R7E, Secs 22 & 23

Mesa Co: Maricopa AZ 85027

Landholding Agency: Interior

Property Number: 61200010014

Status: Unutilized

Reason: No public access.

58 acres

VA Medical Center

500 Highway 89 North

Prescott Co: Yavapai AZ 86313-

Landholding Agency: VA

Property Number: 97190630001

Status: Unutilized

Reason: Floodway.

20 acres

VA Medical Center

500 Highway 89 North

Prescott Co: Yavapai AZ 86313-

Landholding Agency: VA

Property Number: 97190630002

Status: Underutilized

Reason: Floodway.

Land

MacDill Air Force Base

6601 S. Manhattan Avenue

Tampa Co: Hillsborough FL 33608-

Landholding Agency: Air Force

Property Number: 18199030003

Status: Excess

Reason: Floodway.

Land—approx. 220 acres

Cape San Blas

Port St. Joe Co: Gulf FL

Landholding Agency: DOT

Property Number: 87199440018

Status: Underutilized

Reasons: Floodway; Secured Area.

Wildlife Sanctuary, VAMC

10,000 Bay Pines Blvd.

Bay Pines Co: Pinellas FL 33504-

Landholding Agency: VA

Property Number: 9719923004

Status: Underutilized

Reason: Inaccessible.

Kentucky

Tract 4626

Barkley Lake, Kentucky and Tennessee

Donaldson Creek Launching Area

Cadiz Co: Trigg KY 42211-

Location: 14 miles from US Highway 68

Landholding Agency: COE

Property Number: 31199010030

Status: Underutilized

Reason: Floodway.

Tract AA-2747

Wolf Creek Dam and Lake Cumberland

US HWY. 27 to Blue John Road

Burnside Co: Pulaski KY 42519-

Landholding Agency: COE

Property Number: 31199010038

Status: Underutilized

Reason: Floodway.

Tract AA-2726

Wolf Creek Dam and Lake Cumberland

KY HWY. 80 to Route 769

Burnside Co: Pulaski KY 42519-

Landholding Agency: COE

Property Number: 31199010039

Status: Underutilized

Reason: Floodway.

Tract 1358

Barkley Lake, Kentucky and Tennessee

Eddyville Recreation Area

Eddyville Co: Lyon KY 42038-

Location: US Highway 62 to state highway 93

Landholding Agency: COE

Property Number: 31199010043

Status: Excess

Reason: Floodway.

Red River Lake Project

Stanton Co: Powell KY 40380-

Location: Exit Mr. Parkway at the Stanton and Slade Interchange, then take SR Hand 15 north to SR 613

Landholding Agency: COE

Property Number: 31199011684

Status: Unutilized

Reason: Floodway.

Barren River Lock & Dam No. 1

Richardsville Co: Warren KY 42270-

Landholding Agency: COE

Property Number: 31199120008

Status: Unutilized

Reason: Floodway.

Green River Lock & Dam No. 3

Rochester Co: Butler KY 42273-

Location: Off State Hwy. 369, which runs off of Western Ky. Parkway

Landholding Agency: COE

Property Number: 31199120009

Status: Unutilized

Reason: Floodway.

Green River Lock & Dam No. 4

Woodbury Co: Butler KY 42288-

Location: Off State Hwy. 403, which is off State Hwy 231

Landholding Agency: COE

Property Number: 31199120014

Status: Underutilized

Reason: Floodway.

Green River Lock & Dam No. 5

Readville Co: Butler KY 42275-

Location: Off State Highway 185

Landholding Agency: COE

Property Number: 31199120015

Status: Unutilized

Reason: Floodway.

Green River Lock & Dam No. 6

Brownsville Co: Edmonson KY 42210-

Location: Off State Highway 259

Landholding Agency: COE

Property Number: 31199120016

Status: Underutilized

Reason: Floodway.

Vacant land west of locksite

Greenup Locks and Dam

5121 New Dam Road

Rural Co: Greenup KY 41144-

Landholding Agency: COE

Property Number: 31199120017

Status: Unutilized

Reason: Floodway.

Tract 6404, Cave Run Lake

U.S. Hwy 460

Index Co: Morgan KY

Landholding Agency: COE

Property Number: 31199240005

Status: Underutilized

Reason: Floodway.

Tract 6803, Cave Run Lake

State Road 1161

Pomp Co: Morgan KY

Landholding Agency: COE

Property Number: 31199240006

Status: Underutilized

Reason: Floodway.

8.04 acres

Taylorsville Lake Project

Taylorsville Co: Spenser KY 40071-9801

Landholding Agency: COE

Property Number: 3119840003

Status: Unutilized

Reason: Inaccessible.

Patriot Boat Ramp

Land

Wade & Goose Creeks

Patriot Co: Boone KY 00000-

Landholding Agency: COE

Property Number: 31200010003

Status: Unutilized

Reason: Floodway.

Maryland

Land

Brandywine Storage Annex

1776 ABW/DE Brandywine Road, Route 381

Andrews AFB Co: Prince Georges MD 20613-

Landholding Agency: Air Force

Property Number: 18199010263

Status: Unutilized

Reason: Secured Area.

Tract 131R

Youghiogheny River Lake, Rt. 2, Box 100

Friendsville Co: Garrett MD

Landholding Agency: COE

Property Number: 31199240007

Status: Underutilized

Reason: Floodway.

Michigan

Middle Marker Facility

Yipsilanti Co: Washtenaw MI 48198-

Location: 549 ft. north of intersection of Coolidge and Bradley Ave. on East side of street

Landholding Agency: DOT

Property Number: 87199120006

Status: Unutilized

Reason: Within airport runway clear zone.

Minnesota

Parcel G

Pine River

Cross Lake Co: Crow Wing MN 56442-

Location: 3 miles from city of Cross Lake between highways 6 and 371.

Landholding Agency: COE

Property Number: 31199011037

Status: Excess

Reason: Highway right of way.

VAMC

VA Medical Center

4801 8th Street No.

St. Cloud Co: Sterns MN 56303-

Landholding Agency: VA

Property Number: 97199010049

Status: Underutilized

Reason: Within 2000 ft. of flammable or explosive material.

3.85 acres (Area #2)

VA Medical Center

4801 8th Street

St. Cloud Co: Stearns MN 56303-

Landholding Agency: VA

Property Number: 97199740004

Status: Unutilized

Reason: Landlocked.

7.48 acres (Area #1)

VA Medical Center

4801 8th Street

St. Cloud Co: Stearns MN 56303-

Landholding Agency: VA

Property Number: 97199740005

Status: Underutilized

Reason: Secured Area.

Mississippi

Parcel 1

Grenada Lake

Section 20

Grenada Co: Grenada MS 38901-0903

Landholding Agency: COE

Property Number: 31199011018

Status: Underutilized

Reason: Within airport runway clear zone.

Missouri

Ditch 19, Item 2, Track No. 230

St. Francis Basin Project

2½ miles west of Malden

Co: Dunklin MO

Landholding Agency: COE

Property Number: 31199130001

Status: Unutilized

Reason: Floodway.

New Mexico

Facility 75100

Holloman Air Force Base

Co: Otero NM 88330-

Landholding Agency: Air Force

Property Number: 18199240043

Status: Unutilized

Reason: Secured Area.

New York

Tract 1

VA Medical Center

Bath Co: Steuben NY 14810-

Location: Exit 38 off New York State Route 17.

Landholding Agency: VA

Property Number: 97199010011

Status: Unutilized

Reason: Secured Area.

Tract 2

VA Medical Center

Bath Co: Steuben NY 14810-

Location: Exit 38 off New York State Route 17.

Landholding Agency: VA

Property Number: 97199010012

Status: Underutilized

Reason: Secured Area.

Tract 3

VA Medical Center

Bath Co: Steuben NY 14810-

Location: Exit 38 off New York State Route 17.

Landholding Agency: VA

Property Number: 9719010013

Status: Underutilized

Reason: Secured Area.

Tract 4

VA Medical Center

Bath Co: Steuben NY 14810-

Location: Exist 38 off New York State Route 17.

Landholding Agency: VA

Property Number: 97199010014

Status: Unutilized

Reason: Secured Area.

North Carolina

0.52 acres

Summerall TACAN Annex

Seymour Johnson AFB

Wayne Co: NC 27530-

Landholding Agency: Air Force

Property Number: 18200020008

Status: Unutilized

Reason: Within airport runway clear zone.

North Dakota

0.23 acres

Minot Middle Marker Annex

Co: Ward ND 58705-

Landholding Agency: Air Force

Property Number: 18199810001

Status: Unutilized

Reason: Within airport runway clear zone.

Ohio

Mosquito Creek Lake

Everett Hull Road Boat Launch

Cortland Co: Trumbull OH 44410-9321

Landholding Agency: COE

Property Number: 31199440007

Status: Underutilized

Reason: Floodway.

Mosquito Creek Lake

Housel—Craft Rd., Boat Launch

Cortland Co: Trumbull OH 44410-9321

Landholding Agency: COE

Property Number: 31199440008

Status: Underutilized

Reason: Floodway.

36 Site Campground

German Church Campground

Berlin Center Co: Portage OH 44401-9707

Landholding Agency: COE

Property Number: 31199810001

Status: Unutilized

Reason: Floodway.

Pennsylvania

Lock and Dam #7

Monongahela River

Greensboro Co: Greene PA

Location: Left hand side of entrance roadway to project.

Landholding Agency: COE

Property Number: 31199011564

Status: Underutilized

Reason: Floodway.

Mercer Recreation Area

Shenango Lake

Transfer Co: Mercer PA 16154-

Landholding Agency: COE

Property Number: 31199810002

Status: Unutilized

Reason: Floodway.

Tract No. B-212C

Upstream from Gen. Jadwin Dam & Reservoir

Honesdale Co: Wayne PA 18431-

Landholding Agency: COE

Property Number: 31200020005

Status: Unutilized

Reason: Floodway.

Puerto Rico

119.3 acres

Culebra Island PR 00775-

Landholding Agency: Interior

Property Number: 61199210001

Status: Excess

Reason: Floodway.

South Dakota

Badlands Bomb Range

60 miles southeast of Rapid City, SD

1½ miles south of Highway 44

Co: Shannon SD

Landholding Agency: Air Force

Property Number: 18199210003

Status: Unutilized

Reason: Secured Area.

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway.

Cheatham Lock and Dam

Highway 12

Ashland City Co: Cheatham TN 37015-

Location: Tracts E-513, E-512-1 and E-512-2

Landholding Agency: COE

Property Number: 21199040415

Status: Underutilized

Reason: Floodway.

Tract 6737

Blue Creek Recreation Area

Barkley Lake, Kentucky and Tennessee

Dover Co: Stewart TN 37058-

Location: U.S. Highway 79/TN Highway 761

Landholding Agency: COE

Property Number: 31199011478

Status: Underutilized

Reason: Floodway.

Tracts 3102, 3105, and 3106

Brimstone Launching Area

Cordell Hull Lake and Dam Project

Gainesboro Co: Jackson TN 38562-

Location: Big Bottom Road

Landholding Agency: COE

Property Number: 31199011479

Status: Excess

Reason: Floodway.

Tract 3507

Proctor Site

Cordell Hull Lake and Dam Project

Celina Co: Clay TN 38551-

Location: TN Highway 52

Landholding Agency: COE

Property Number: 31199011480

Status: Unutilized

Reason: Floodway.

Tract 3721

Obey

Cordell Hull Lake and Dam Project

Celina Co: Clay TN 38551-

Location: TN Highway 53

Landholding Agency: COE

Property Number: 31199011481

Status: Unutilized

Reason: Floodway.

Tracts 608, 609, 611 and 612

Sullivan Bend Launching Area

Cordell Hull Lake and Dam Project

Carthage Co: Smith TN 37030-

Location: Sullivan Bend Road

Landholding Agency: COE

Property Number: 31199011482

Status: Underutilized

Reason: Floodway.

Tract 920

Indian Creek Camping Area

Cordell Hull Lake and Dam Project

Granville Co: Smith TN 38564-

Location: TN Highway 53

Landholding Agency: COE

Property Number: 31199011483

Status: Underutilized

Reason: Floodway.

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway.

Tract 1810

Wartrace Creek Launching Ramp

Cordell Hull Lake and Dam Project

Gainesboro Co: Jackson TN 38551-

Location: TN Highway 85

Landholding Agency: COE

Property Number: 31199011485

Status: Underutilized

Reason: Floodway.

Tract 2524

Jennings Creek

Cordell Hull Lake and Dam Project

Gainesboro Co: Jackson TN 38562-

Location: TN Highway 85

Landholding Agency: COE

Property Number: 31199011486

Status: Unutilized

Reason: Floodway.

Tracts 2905 and 2907

Webster

Cordell Hull Lake and Dam Project

Gainesboro Co: Jackson TN 38551-

Location: Big Bottom Road

Landholding Agency: COE

Property Number: 31199011487

Status: Unutilized

Reason: Floodway.

Tracts 2200 and 2201

Gainesboro Airport

Cordell Hull Lake and Dam Project

Gainesboro Co: Jackson TN 38562-

Location: Big Bottom Road

Landholding Agency: COE

Property Number: 31199011488

Status: Underutilized

Reasons: Within airport runway clear zone; Floodway.

Tracts 710C and 712C

Sullivan Island

Cordell Hull Lake and Dam Project

Carthage Co: Smith TN 37030-

Location: Sullivan Bend Road

Landholding Agency: COE

Property Number: 31199011489

Status: Unutilized

Reason: Floodway.

Tract 2403, Hensley Creek

Cordell Hull Lake and Dam Project

Gainesboro Co: Jackson TN 38562-

Location: TN Highway 85

Landholding Agency: COE

Property Number: 31199011490

Status: Unutilized

Reason: Floodway.

Tracts 2117C, 2118 and 2120

Cordell Hull Lake and Dam Project

Gainesboro Co: Jackson TN 38562-

Location: Brooks Ferry Road

Landholding Agency: COE

Property Number: 31199011491

Status: Unutilized

Reason: Floodway.

Tracts 424, 425 and 426

Cordell Hull Lake and Dam Project

Stone Bridge

Carthage Co: Smith TN 37030-

Location: Sullivan Bend Road

Landholding Agency: COE

Property Number: 31199011492

Status: Unutilized

Reason: Floodway.

Tract 517

J. Percy Priest Dam and Reservoir

Suggs Creek Embayment

Nashville Co: Davidson TN 37214-

Location: Interstate 40 to S. Mount Juliet Road.

Landholding Agency: COE

Property Number: 31199011493

Status: Underutilized

Reason: Floodway.

Tract 1811

West Fork Launching Area

Smyrna Co: Rutherford TN 37167-

Location: Florence road near Enon Springs Road

Landholding Agency: COE

Property Number: 31199011494

Status: Underutilized

Reason: Floodway.

Tract 1504

J. Perry Priest Dam and Reservoir

Lamon Hill Recreation Area

Smyrna Co: Rutherford TN 37167-

Location: Lamon Road

Landholding Agency: COE

Property Number: 31199011495

Status: Underutilized

Reason: Floodway.

Tract 1500

J. Perry Priest Dam and Reservoir

Pools Knob Recreation

Smyrna Co: Rutherford TN 37167-

Location: Jones Mill Road

Landholding Agency: COE

Property Number: 31199011496

Status: Underutilized

Reason: Floodway.

Tracts 245, 257, and 256

J. Perry Priest Dam and Reservoir

Cook Recreation Area

Nashville Co: Davidson TN 37214-

Location: 2.2 miles south of Interstate 40 near Saunders Ferry Pike.

Landholding Agency: COE

Property Number: 31199011497

Status: Underutilized

Reason: Floodway.

Tracts 107, 109 and 110

Cordell Hull Lake and Dam Project

Two Prong

Carthage Co: Smith TN 37030-

Location: US Highway 85

Landholding Agency: COE

Property Number: 31199011498

Status: Unutilized

Reason: Floodway.

Tracts 2919 and 2929

Cordell Hull Lake and Dam Project

Sugar Creek

Gainesboro Co: Jackson TN 38562-

Location: Sugar Creek Road

Landholding Agency: COE

Property Number: 31199011500

Status: Unutilized

Reason: Floodway.

Tracts 1218 and 1204

Cordell Hull Lake and Dam Project

Granville—Alvin Yourk Road

Granville Co: Jackson TN 38564-

Landholding Agency: COE

Property Number: 31199011501

Status: Unutilized

Reason: Floodway.

Tract 2100

Cordell Hull Lake and Dam Project

Galbreaths Branch

Gainesboro Co: Jackson TN 38562-

Location: TN Highway 53

Landholding Agency: COE

Property Number: 31199011502

Status: Unutilized

Reason: Floodway.

Tract 104 et al.

Cordell Hull Lake and Dam Project

Horshoe Bend Launching Area

Carthage Co: Smith TN 37030-

Location: Highway 70 N

Landholding Agency: COE

Property Number: 31199011504

Status: Underutilized

Reason: Floodway.

Tracts 510, 511, 513 and 514

J. Percy Priest Dam and Reservoir Project

Lebanon Co: Wilson TN 37087—

Location: Vivrett Creek Launching Area, Alvin Sperry Road

Landholding Agency: COE

Property Number: 31199120007

Status: Underutilized

Reason: Floodway.

Tract A—142, Old Hickory Beach

Old Hickory Blvd.

Old Hickory Co: Davidson TN 37138-

Landholding Agency: COE

Property Number: 31199130008

Status: Underutilized

Reason: Floodway.

Tract D, 7 acres

Cheatham Lock & Dam

Nashville Co: Davidson TN 37207—

Landholding Agency: COE

Property Number: 31200020006

Status: Underutilized

Reason: Floodway.

Texas

Tracts 104, 105-1, 105-2 & 118

Joe Pool Lake

Co: Dallas TX

Landholding Agency: COE

Property Number: 31199010397

Status: Underutilized

Reason: Floodway.

Part of Tract 201-3

Joe Pool Lake

Co: Dallas TX

Landholding Agency: COE

Property Number: 31199010398

Status: Underutilized

Reason: Floodway.

Part of Tract 323

Joe Pool Lake

Co: Dallas TX

Landholding Agency: COE

Property Number: 31199010399

Status: Underutilized

Reason: Floodway.

Tract 702-3

Granger Lake

Route 1, Box 172

Granger Co: Williamson TX 76530-9801

Landholding Agency: COE

Property Number: 31199010401

Status: Unutilized

Reason: Floodway.

Tract 706

Granger Lake

Route 1, Box 172

Granger Co: Williamson TX 76530-9801

Landholding Agency: COE

Property Number: 31199010402

Status: Unutilized

Reason: Floodway.

Utah

10.24 acres

Southern Utah Communication Site

Salt Lake UT

Landholding Agency: Air Force

Property Number: 18199810002

Status: Unutilized

Reason: Inaccessible.

Washington

Fairchild AFB

SE corner of base

Fairchild AFB Co: Spokane WA 99011-

Landholding Agency: Air Force

Property Number: 18199010137

Status: Unutilized

Reason: Secured Area.

Fairchild AFB

Fairchild AFB Co: Spokane WA 99011-

Location: NW corner of base

Landholding Agency: Air Force

Property Number: 18199010138

Status: Unutilized

Reason: Secured Area.

West Virginia

Morgantown Lock and Dam

Box 3 RD #2

Morgantown Co: Monogahelia WV 26505-

Landholding Agency: COE

Property Number: 31199011530

Status: Unutilized

Reason: Floodway.

London Lock and Dam

Route 60 East

Rural Co: Kanawha WV 25126-

Location: 20 miles east of Charleston, W. Virginia

Landholding Agency: COE

Property Number: 31199011690

Status: Unutilized

Reason: .03 acres; very narrow strip of land.

Portion of Tract #101

Buckeye Creek

Sutton Co: Braxton, WV 26601-

Landholding Agency: COE

Property Number: 31199810006

Status: Excess

Reason: Inaccessible.

[FR Doc. 00-22047 Filed 8-31-00; 8:45 am]

BILLING CODE 4210-29-M